DEPARTMENT OF COMMERCE

Bureau of Industry and Security

15 CFR Parts 732, 734, 736, 740, 744, 746, and 762

[Docket No. 220908-0187]

RIN 0694-AI93

Implementation of Additional Sanctions Against Russia and Belarus Under the Export Administration Regulations (EAR) and Refinements to Existing Controls

AGENCY: Bureau of Industry and Security, Department of Commerce.

ACTION: Final rule.

SUMMARY: In response to the Russian Federation's (Russia's) ongoing aggression against Ukraine, the Department of Commerce is expanding the existing sanctions against Russia and Belarus by imposing new export controls, including expanding the scope of the Russian industry sector sanctions to add lower-level items potentially useful for Russia's chemical and biological weapons production capabilities and items needed for advanced production and development capabilities to enable advanced manufacturing across a number of industries. This rule also adds Belarus to the scope of industry sector sanctions that currently apply solely to Russia. With respect to end users, this rule expands the `military end user' and `military-intelligence end user' controls and applies the Russian/Belarusian-Military End User Foreign Direct Product (FDP) rule to ten existing entries for six existing entities that have continued to supply Russian entities on the Entity List or are under sanction since Russia's further invasion of Ukraine. Labeling these six entities as Russian `military end users' and applying the Russia/Belarus-Military End User FDP rule to them will degrade Russia's war efforts in Ukraine, as these entities produce items needed by the Russian and Belarussian military and industrial sectors. Correspondingly, this rule clarifies requirements related to Burma, Cambodia, the People's Republic of China, and Venezuela). Finally, this rule refines existing controls on Russia and Belarus by adding additional dollar value exclusion thresholds for `luxury goods;' and makes twelve corrections and clarifications to existing controls on Russia and Belarus. The Department of Commerce is taking these actions to clarify and enhance the effectiveness of U.S. controls and to better align its controls on both Russia and Belarus with those implemented by U.S. allies.

DATES: This rule is effective on September 15, 2022.

FOR FURTHER INFORMATION CONTACT: For general questions on this final rule, contact Eileen Albanese, Director, Office of National Security and Technology Transfer Controls, Bureau of Industry and Security, Department of Commerce, Phone: (202) 482-0092, Fax: (202) 482-482-3355, Email: rpd2@bis.doc.gov. For emails, include “Russia and Belarus September 2022 sanctions” in the subject line.

For general questions on the Entity List and MEU List, contact the Chair, End-User Review Committee, Office of the Assistant Secretary, Export Administration, Bureau of Industry and Security, Department of Commerce, Phone: (202) 482-5991, Fax: (202) 482-3911, Email: ERC@bis.doc.gov.

SUPPLEMENTARY INFORMATION:

I. Background

In response to Russia's February 2022 further invasion of Ukraine, BIS imposed extensive sanctions on Russia under the Export Administration Regulations (15 CFR parts 730-774) (EAR) as part of the final rule Implementation of Sanctions Against Russia Under the Export Administration Regulations (EAR) (the Russia Sanctions Rule), effective on February 24, 2022, and published on March 3, 2022 (87 FR 12226). Effective March 2, 2022, BIS also imposed similar sanctions on Belarus under the EAR in a final rule, Implementation of Sanctions Against Belarus (“Belarus Sanctions Rule”), published on March 8, 2022 (87 FR 13048). Among other licensing requirements and review policies, the Belarus Sanctions Rule implemented measures to limit the ability of Belarusian `military end users' under the EAR to support Belarus's or Russia's military activities. Since the publication of the Russia Sanctions Rule and Belarus Sanctions Rule, BIS has published several other final rules imposing stringent export controls on Russia and Belarus. These actions reflect the U.S. Government's position that Russia's invasion of Ukraine, and Belarus's complicity in the invasion, flagrantly violated international law, is contrary to U.S. national security and foreign policy interests, and undermines global order, peace, and security.

The export control measures in this final rule build upon the policy objectives set forth in the earlier rules referenced above. The purpose of this final rule is to protect U.S. national security and foreign policy interests by further restricting Russia's access to items that it needs to support its military capabilities. The expansion of these export controls under the EAR, implemented in parallel with similarly stringent measures by partner and ally countries, will further limit access to items that enable Russian's military capabilities and sources of revenue that could support Russia's military capabilities, thus enhancing the effectiveness of the multilateral sanctions. Additionally, certain of the new or expanded controls specified in this rule target Belarus as part of the U.S. response to the country's complicity in Russia's aggression.

II. Overview of New Controls

BIS in this rule imposes new export controls against Russia and Belarus. First, BIS is expanding the scope of the EAR's Russian industry sector sanctions to add items that may be useful for Russia's chemical and biological weapons (CBW) production and development capabilities and items needed for advanced production and development capabilities to enable advanced manufacturing across a number of industries. Second, BIS also is expanding the scope of the EAR's industry sector sanctions that currently apply only to Russia to apply to Belarus on the basis of concerns of diversion of the items subject to the industry sector sanctions from Belarus to Russia.

Third, this rule broadens the `military end user' and “military-intelligence end user” controls under the EAR to more effectively target military and/or military-intelligence support for Russia and Belarus and improve the overall effectiveness of these controls by expanding: the “is informed” provisions for entities acting contrary to U.S. national security and foreign policy interests under § 744.11; the `military end user' controls under § 744.21 to reach Belarusian, Burmese, Cambodian, Chinese, Russian, and Venezuelan `military end users' located anywhere in the world; and the `military-intelligence end user' controls under § 744.22 to reach Belarusian, Burmese, Cambodian, Chinese, Russian, and Venezuelan `military-intelligence end users' or `military-intelligence end users' of countries in Country Group E:1 or E:2, wherever located.

Fourth, consistent with the expansion of the `military end user' controls under the EAR, this rule also revises the Entity List to designate six entities under ten entries as Russian `military end users.'

Fifth, this rule refines existing controls on Russia and Belarus to more closely align with the export controls implemented on both countries by our allies by adding additional dollar value exclusion thresholds for certain `luxury goods.'

Finally, this rule makes twelve corrections and clarifications to the existing controls on Russia and Belarus to clarify the controls and more effectively achieve the policy objectives identified in previous rules. These correction and clarifications:

(i) update and expand the list of consumer communications devices eligible for License Exception CCD to reflect technology developments since License Exception CCD was first published in 2009;

(ii) make a correction to add Russia and Belarus to the news media authorization under License Exception TMP;

(iii) make a correction to § 744.11 to remove an unnecessary sentence;

(iv) add License Exception CCD eligibility for Russian industry sector sanctions under § 746.5 and the “Luxury goods' sanctions under § 746.10 in order to not impose duplicative licensing requirements and ensure the continued availability of License Exception CCD eligibility under § 746.8;

(v) clarify that the more favorable treatment for certain entities set forth in § 746.8(a), including the exclusion for Export Control Classification Numbers (ECCNs) 5A992 or 5D992, license exception availability and license review policies, includes branches or sales offices of companies headquartered in the U.S. and Country Group A:5 and A:6 countries, even if such branches or sales offices are not separately incorporated as subsidiaries or joint ventures;

(vi) add a Note 1 to paragraph (a)(1) to § 746.8 of the EAR to clarify the scope of the deemed export exclusion under the Russia and Belarus sanctions;

(vii) add an exclusion from the license requirements under § 746.8(a)(1) and (2) for transfers within Russia or Belarus for reexports (i.e., return) to the United States or a Country Group A:5 or A:6 country in supplement no. 1 to part 740 of any item;

(viii) update the licensing policy for `luxury goods' in § 746.10 to adopt a case-by-case license application review policy for items for humanitarian needs, consistent with the other Russia and Belarus licensing policies in other sections of part 746;

(ix) clarify that the EAR's recordkeeping requirements in part 762 extend to transfers (in-country) of items subject to the EAR;

(x) clarify in § 736.2 that transfers (in-country) are activities subject to the restrictions of General Prohibitions 5 and 6;

(xi) Clarify in § 732.2 (Steps regarding the ten general prohibitions) that step 14 for embargoed countries and special destinations also encompasses the restrictions set forth in §§ 746.6, 746.8, and 746.10, and

(xii) remove Russia and Belarus from Country Group A in supplement no. 1 to part 740 of the EAR.

III. Amendments to the Export Administration Regulations (EAR)

A. Imposition of New Export Controls on Russia and Belarus

This rule expands the scope of the Russian Industry Sector Sanctions by: (1) adding a new supplement no. 6 to part 746 and additional license requirements under § 746.5(a)(1)(iii); (2) adding Belarus to the Russian Industry Sector Sanctions; and (3) adding additional items to supplement no. 4 to part 746 that will require a license under § 746.5(a)(1)(i), as described further below.

1. Expansion of Russian Industry Sector Sanctions To Add CBW Russia Items and Items Needed for Advanced Production and Development Capabilities Across a Number of Industries

In part 746 of the EAR, this rule expands the scope of the Russian industry sector sanctions under § 746.5 by adding new paragraph (a)(1)(iii), and a related new supplement no. 6. As set forth in this new paragraph (a)(1)(iii), there is a new license requirement for the export, reexport, and transfer (in-country) to or within Russia of items subject to the EAR that are listed in new supplement no. 6 (Items that Require a License for Export, Reexport, and Transfer (In-Country) to or within Russia or Belarus (the addition of Belarus is described in the next section of the preamble) pursuant to § 746.5(a)(1)(iii)). This rules also moves the text of existing paragraph (a)(1)(iii) to new paragraph (a)(1)(iv) and adds transfers (in-country) to the first sentence of that paragraph.

The items that this rule adds to supplement no. 6 to part 746 are a subset of items designated as EAR99 that may be useful for Russia's CBW production and development capabilities and therefore may be used in support of its military aggression. These items consist of discrete chemicals, biologics, fentanyl and its precursors, and related equipment.

Unlike other EAR99 items controlled for export to Russia and Belarus that are identified in supplement no. 4 to part 746 by Schedule B Number and HTS code, these items are not identified by Schedule B Number or HTS code. Rather, they appear in this new supplement no. 6 to part 746. As noted in the introductory text of supplement no. 6, the supplement no. 6 items are identified by Chemical Abstract Numbers (CAS) where applicable to assist exporters, reexporters, and transferors in identifying items subject to this license requirement.

In addition, paragraph (g) of supplement no. 6 to part 746 (Quantum computing and advanced manufacturing) identifies equipment and other items that BIS has determined are likely not manufactured in Russia or are otherwise important to Russia for its development of advanced production and development capabilities to enable advanced manufacturing capabilities across a number of industries, including Russia's defense-industrial base.

This rule makes changes to § 746.5(a)(1) to impose license requirements on the items in supplement no. 6 to part 746 as described further below.

These new controls expand BIS's Russia and Belarus-specific license requirements to impose controls on chemicals in concentrations of 95% weight or greater, as identified under new paragraphs (a)(1) to (41); chemicals in concentrations of 90% weight or greater, as identified under paragraphs (b)(1) to (38); Fentanyl and its derivatives Alfentanil, Sufentanil, Remifentanil, Carfentanil, and salts thereof, as identified in paragraph (c); chemical precursors to central nervous system acting chemicals, as identified under paragraphs (d)(1) and (2); biologics identified under paragraphs (e)(1) to (5); equipment, as identified under paragraphs (f)(1) to (23); and quantum computing and advanced manufacturing items, as identified under paragraphs (g)(1) to (g)(2). The new supplement no. 6 also includes several notes, including technical notes to assist exporters, reexporters, and transferors in better understanding the controls.

In § 734.9 (Foreign-Direct Product (FDP) Rules), as a conforming change to the addition of supplement no. 6 to part 746, this rule revises paragraph (f)(1) (Product scope of Russia/Belarus FDP rule) to add the phrase “is identified in supplement no. 6 to part 746 of the EAR” to paragraphs (f)(1)(i) (“Direct product” of “technology” or “software”) and (f)(1)(ii) (“Direct product” of a complete plant or `major component' of a plant). This change is made to bring the items identified in supplement no. 6 to part 746 into the scope of the Russia/Belarus FDP rule. As the Russia/Belarus-Military End User FDP rule already extends to all items subject to the EAR, no such changes are needed. For “direct products” that are identified in supplement no. 6 to part 746, in addition to the license requirements under § 746.5(a)(1)(iii), these items will also be subject to a license requirement under § 746.8(a)(2) or (3), as applicable.

Lastly, in § 734.9 for ease of reading and to better conform with the paragraph structure used in other FDP rules in § 734.9, such as the National Security FDP rule in paragraph (b), this rule revises paragraphs (f)(1)(i) and (ii) to break the text into paragraphs (f)(1)(i)(A) and (B) and (f)(1)(ii)(A) and (B), respectively. These changes are limited to changing the paragraph structure and makes no substantive changes to the criteria formerly in paragraphs (f)(1)(i) and (ii).

BIS estimates that the changes to § 746.5(a)(1)(iii) and to the related new supplement no. 6 to part 746 will result in the submission of an additional 175 license applications to BIS annually.

2. Expansion of Russian Industry Sector Sanctions To Add Additional Items to Supplement No. 4 to Part 746, Including Among Such Additional Items Any Modified or Designed “Components,” “Parts,” “Accessories,” and “Attachments” Therefor

In supplement no. 4 to part 746—HTS Codes and Schedule B Numbers that Require a License for Export, Reexport, and Transfer (In-Country) to or within Russia or Belarus pursuant to § 746.5(a)(1)(ii), this rule expands the scope of the Russian Industry Sector Sanctions (as renamed to also apply to Belarus, described below) by adding 57 additional entries that will require a license for export or reexport to or transfers within Russia or Belarus under § 746.5. The restrictions on these additional industrial items are intended to further undermine the Russian industrial base and its ability to continue to support the Russian invasion of Ukraine. The items this rule adds includes a variety of industrial machinery, equipment, and other items such as: “Rider-Type, Counterbalanced, Self-Propelled Fork-Lift Trucks,” “Sawing Or Cutting-Off Machines, Metal Removing, Used Or Rebuilt,” “Electric Storage Heating Radiators,” and “Rail Locomotives Powered From An External Source Of Electricity.” The addition of these items will help better align these controls under the EAR with the controls of U.S. allies on these items.

Also in supplement no. 4 to part 746, this rule expands the scope of the items that are subject to the Russian and Belarusian Industry Sector Sanctions by revising paragraph (a) in the introductory text of the supplement to specify that the items described in the supplement include any modified or designed “components,” “parts,” “accessories,” and “attachments” therefor, regardless of the Schedule B, Schedule B Description, HTS Code, or HTS Description of the “components,” “parts,” “accessories,” and “attachments”. In many cases these “components,” “parts,” “accessories,” and “attachments” are not specifically identified by Schedule B, Schedule B Description, HTS Code, or HTS Description. BIS is making this revision by adding a sentence to paragraph (a); the new sentence also specifies that the expansion does not include any “part” or minor “component” that is a fastener (e.g., screw, bolt, nut, nut plate, stud, insert, clip, rivet, pin), washer, spacer, insulator, grommet, bushing, spring, wire, or solder. By expanding the scope of the items set forth in the supplement in this manner, this change improves the effectiveness of the Russian (and Belarusian) Industry Sector Sanctions.

BIS estimates these changes to supplement no. 4 to part 746 will result in an additional 90 license applications submitted to BIS annually.

3. Expansion of Controls on Belarus by Adding Belarus to the Russian Industry Sector Sanctions Under § 746.5 and Renaming the Provision Accordingly

In § 746.5 (Russian industry sector sanctions), this rule expands the scope of the section to add Belarus, imposing the same controls as those applicable to Russia, and renames the section to refer to the Russian and Belarusian industry sector sanctions. Specifically, this rule adds Belarus to paragraphs (a)(1)(i) and (ii), (a)(2), and (b) to implement these controls on Belarus. While this rule does not add Belarus after the reference to Russian deepwater or Arctic offshore locations in paragraph (a)(1)(i), as this reference is specific to Russia, this rule otherwise imposes the same requirements on Belarus as on Russia. BIS recognizes that Belarus has only a limited oil and gas exploration industry and has added controls for Belarus under paragraphs (a)(1)(i) to prevent diversion of the specified items through Belarus to Russia.

This rule redesignates current paragraph (a)(1)(iii) in § 746.5 as paragraph (a)(1)(iv) and adds a new paragraph (a)(1)(iii) to impose a license requirement on the export, reexport, or transfer (in-country) of any item subject to the EAR listed in supplement no. 6 to part 746 to or within Russia or Belarus. BIS adds this new paragraph to clarify the scope of the licensing requirements specific to Russia and Belarus.

As a conforming change, this rule also revises paragraph (b)(2) in § 746.5 to add a reference to new paragraph (a)(1)(iii) that states that the same license review policy that applies to paragraph (a)(1)(ii) also applies to new paragraph (a)(1)(iii).

BIS estimates that these changes to § 746.5 will result in an additional 3 license applications submitted to BIS annually.

B. Expansion of `Military End User' and `Military-Intelligence End User' Controls Under the EAR To More Effectively Target Russia and Belarus and Improve the Overall Effectiveness of These Controls

1. Expansion of “Is Informed” Provisions Under § 744.11

In § 744.11 of the EAR, this rule revises the introductory text to the section and paragraph (c) (Additional prohibition on persons informed by BIS), to add a new paragraph (c)(3). New paragraph (c)(3) expands the scope of the “is informed” provisions under § 744.11 in two ways. First, it specifies that the Deputy Assistant Secretary for Export Administration (DAS/EA) may provide specific notice that the export, reexport, or transfer (in-country) of specified items to an identified party requires a license because there is reasonable cause to believe, based on specific and articulable facts, that the entity has been involved, is involved, or poses a significant risk of being or becoming involved in activities that are contrary to the national security or foreign policy interests of the United States or that an entity is acting on behalf of such entity. The new text in paragraph (c)(3) specifies that the notice may be provided orally and, if so, the oral notice will be followed within two working days by a written notice. The “is informed” process under paragraphs (c)(1) and (2) is limited to cases where there is risk of diversion to another party that has already been identified on the Entity List in supplement no. 4 to part 744. The new paragraph (c)(3) process will allow the DAS/EA to provide specific notice of parties that are not currently on the Entity List, but that are engaging in activities that are contrary to U.S. national security or foreign policy interests.

Second, this rule adds language in new paragraph (c)(3) to specify that the notice provided by the DAS/EA will include the license requirement, limits on the use of license exceptions, and license review policy for any entity identified through such notice. BIS is adding this language because § 744.11, unlike other part 744 sections that include an “is informed” provision (e.g., §§ 744.2, 744.3, and 744.4), does not impose a license requirement that exporters, reexporters, and transferors must independently determine is applicable to their activities because this section's license requirements are implemented through Entity List listings. Once a specific notice is provided, BIS may subsequently seek to add the entity in question to the Entity List, including the applicable license requirements, available license exceptions, and license review policy, to inform all exporters, reexporters, and transferors of these requirements. Seeking to add these entities that are the subject of “is informed” letters to the Entity List through the interagency process will have two benefits: (1) it will help to protect U.S. national security and foreign policy interests by imposing the related requirements on all exporters, reexporters, and transferors of items subject to the EAR, and (2) it will create an equal playing field between the exporter, reexporter, or transferor that received the specific notice from BIS and all other exporters, reexporters, and transferors of items subject to the EAR.

BIS estimates these changes to § 744.11 will result in the submission of an additional five license applications to BIS annually.

2. Expansion of `Military End User' Controls to Belarusian, Burmese, Cambodian, Chinese, Russian, and Venezuelan `Military End Users' Located Anywhere in the World

In § 744.21 (Restrictions on Certain “Military End Use' or `Military End User” in Belarus, Burma, Cambodia, the People's Republic of China, the Russian Federation, or Venezuela), this rule expands the scope of the `military end user' controls. Specifically, this rule revises § 744.21 to allow BIS to identify Belarusian, Burmese, Cambodian, Chinese, Russian, or Venezuelan `military end users' in countries other than a country identified in § 744.21. This expansion is in recognition that neither military end users nor international development and production activities are limited to the home countries of designated `military end users.' By expanding the scope of § 744.21 to allow for the designation of these `military end users' worldwide, this rule addresses such strategic concerns with respect to Russia and the other countries identified in § 744.21.

BIS understands the compliance concerns exporters, reexporters, and transferors have had in applying § 744.21, and specifically, in identifying entities that constitute `military end users.' One of the primary reasons BIS created the “Military End-User' (MEU) List (supplement no. 7 to part 744 of the EAR) was to assist exporters, reexporters, and transferors in identifying `military end users,' and based on public input that BIS has received, the MEU List has been positively received by the exporting community, even though the list is not exhaustive. BIS also understands that, if the amendments in this rule expanded the scope of § 744.21 to impose license requirements upon MEUs worldwide without specifically identifying such MEUs, that would pose even broader compliance concerns for exporters, reexporters, and transferors, because MEUs could potentially be present in countries other than the six destinations specified in § 744.21. Therefore, this rule addresses the concern with respect to Belarusian and Russian `military end users' located outside of Belarus and Russia by specifying that the expansion of controls on such `military end users' on a worldwide basis is limited to only those `military end users' identified on the Entity List under supplement no. 4 to part 744 with a footnote 3 designation. Correspondingly, this rule further specifies with respect to Burmese, Cambodian, Chinese, and Venezuelan `military end users' located outside of Burma, Cambodia, China, or Venezuela that the requirement is limited to only those `military end users' identified on the `Military End-User' (MEU) List.

By exhaustively listing `military end users' located outside of one of the six countries specified in § 744.21, BIS will facilitate compliance by relieving exporters, reexporters, and transferors from having to independently assess the potential applicability of § 744.21 on a worldwide basis, which would be a significant compliance burden. Therefore, for `military end users' outside of the identified countries in § 744.21, BIS, in consultation with the other ERC member agencies, will specifically designate such `military end users,' under supplements no. 4 or 7, as applicable. However, BIS continues to recommend that exporters, reexporters, and transferors continue to do their own diligence to determine the bona fides of entities located in Belarus, Burma, Cambodia, China, Russia, and Venezuela.

In order to implement the changes described above, this rule makes several changes to § 744.21, including some conforming changes, by revising the section heading, paragraphs (a), (b) introductory text, (b)(1)(ii), and (e)(1) and (3) as described further below.

In the section heading of § 744.21, this rule revises the heading to remove the references to specific countries. This rule makes this change to the heading for three reasons: (1) to reflect the expanded scope of the section, (2) to avoid making the heading cumbersome, and (3) to prepare for the possibility of adding additional countries to § 744.21 in the future.

In § 744.21(a) (General prohibition), this rule revises paragraph (a)(1) to remove the text that had stated that the `military end users' must be located in Burma, Cambodia, China, or Venezuela and replace it with text indicating that paragraph (a)'s restrictions will instead apply to such `military end users,' wherever located. This rule adds a sentence to paragraph (a)(1) to specify that Burmese, Cambodian, Chinese, or Venezuelan `military end users' located outside of Burma, Cambodia, China, or Venezuela will be limited to entities specifically identified on the MEU List. In paragraph (a)(2), this rule makes corresponding edits with respect to Belarus and Russia. However, Belarusian and Russian `military end users' located outside of Russia and Belarus, respectively, will be limited to entities specifically identified on the Entity List under supplement no. 4 to part 744 with a footnote 3 designation.

This rule adds a new Note to paragraphs (a)(1) and (2) to provide further guidance on the restrictions applicable to `military end users' located in Burma, Cambodia, China, or Venezuela. The new note clarifies that Belarusian or Russian `military end users' are listed on the Entity List with a footnote 3 designation. The note to paragraphs (a)(1) and (2) also clarifies that if an entity is not a Belarusian or Russian `military end user,' but has been identified by the ERC as a `military end user,' it will be identified under the MEU List under supplement no. 7 to part 744. The note clarifies that with respect to Burma, Cambodia, China, and Venezuela, exporters, reexporters, and transferors, even in the absence of any such notification, are not excused from compliance with the license requirements of paragraph (a) of section § 744.21 to determine if an entity is a `military end user' even when that entity is neither specifically designated on the Entity List nor included on the MEU List. Lastly, the note clarifies that with respect to Belarus or Russia, exporters, reexporters, and transferors, even in the absence of any such notification, are not excused from compliance with the license requirements of paragraph (a) of section § 744.21 to determine if an entity is a `military end user' even when that entity is neither specifically designated on the Entity List nor included on the MEU List.

In § 744.21(b) (Additional prohibition on those informed by BIS), this rule revises the introductory text of the paragraph to add the phrase `or for a Belarusian, Burmese, Cambodian, Chinese, Russian, or Venezuelan `military end user,' wherever located' to clarify that the “is informed” provisions also extend to Belarusian, Burmese, Cambodian, Chinese, Russian, or Venezuelan `military end users' wherever they are located in the world.

In § 744.21(b)(1) (`Military End-User' (MEU) List), this rule makes revisions to add the phrase `for a Belarusian, Burmese, Cambodian, Chinese, Russian, or Venezuelan `military end user,' wherever located' and to remove text that had limited `military end users' to `military end users' located in the six identified countries only. This rule also revises paragraph (b)(1) to specify that these entities may be placed on the Entity List in supplement no. 4 to part 744 if they are Belarusian or Russian `military end users,' and that Burmese, Cambodian, Chinese, or Venezuelan `military end users' may be added to the Military End-User (MEU) List in supplement no. 7 to part 744.

In § 744.21(b)(1)(ii) (License Requirements for parties to the transaction), this rule removes text that had specified that the `military end users' needed to be located under one of the countries identified in § 744.21 and adds text to specify that Belarusian, Burmese, Cambodian, Chinese, Russian, or Venezuelan `military end users,' wherever located, are subject to the license requirements under paragraph (b)(1)(ii).

In § 744.21(d) (License application procedure), this rule revises the parenthetical reference to the § 744.21 section heading to conform with the revisions to the section heading described above.

In § 744.21(e) (License review standards), this rule removes the references in paragraph (e)(1) to the specified countries and revises the paragraph to cross reference with the license requirements for items described in paragraph (a)(1) with respect to Burma, Cambodia, China, or Venezuela (and associated `military end users') and in paragraph (a)(2) with respect to Belarus or Russia (and associated `military end users'). In paragraph (e)(3), this rule revises the paragraph to add the phrase `or for a Belarusian, Burmese, Cambodian, Chinese, Russian, or Venezuelan `military end user,' wherever located,' to clarify that these license applications will be reviewed under the license review policy specified in paragraph (e)(1).

BIS estimates these changes to § 744.21 will result in an additional 10 license applications submitted to BIS annually.

3. Expansion of `Military-Intelligence End User' Controls to Belarusian, Burmese, Cambodian, Chinese, Russian, and Venezuelan `Military-Intelligence End Users' or `Military-Intelligence End Users' of Country Group E:1 or E:2, Wherever Located

This rule expands the scope of § 744.22 to mirror the changes made to § 744.21, as described above, by revising paragraphs (a), (b), and (f)(2) introductory text, and adding a new paragraph (f)(2)(xi) to extend the restrictions to `military-intelligence end users' wherever located. Likewise, this rule adds a sentence to paragraph (a) to specify that Burmese, Cambodian, Chinese, or Venezuelan `military-intelligence end users' that are located outside of Burma, Cambodia, China, or Venezuela or are entities working on behalf of Burma, China, Cambodia or Venezuela; or are `military-intelligence end users' that are nationals of a country listed in Country Groups E:1 or E:2 but are outside of a country listed in Country Groups E:1 or E:2, or are entities working on behalf of a country listed in Country Groups E:1 or E:2 are limited to the entities specifically identified under paragraph (f)(2) of § 744.22. As discussed above, BIS understands the compliance concerns with expanding these end user controls worldwide and seeks to mitigate them by specifically identifying `military-intelligence end users' under paragraph (f)(2) that are located outside of countries identified in § 744.22. BIS hopes to facilitate compliance by exporters, reexporters, or transferors with this provision as expanded by this rule.

In § 744.22(b) (Additional prohibition on those informed by BIS), this rule revises the paragraph to remove text that had specified that `military-intelligence end users' were limited to those located in the countries specified under § 744.22 and adds text to broaden the scope of the restrictions to Belarusian, Burmese, Cambodian, Chinese, Russian, or Venezuelan `military- intelligence end users' or `military-intelligence end users' of a country listed in Country Group E:1 or E:2, wherever located.

In § 744.22(f) (Definitions), this rule adds two sentences to clarify the scope of `military-intelligence end users.' The first sentence clarifies that with respect to entities located in Belarus, Burma, Cambodia, China, Russia, or Venezuela, or a country listed in Country Groups E:1 or E:2, `military-intelligence end users' include, but are not limited to, the `military-intelligence end users' identified in paragraph (f)(2). The second sentence specifies that with respect to entities located in all other countries paragraph (f)(2) is an exhaustive listing of `military-intelligence end users.' Lastly, under paragraph (f)(2), this rule adds and reserves a new paragraph (f)(2)(xi) (Other countries) as a placeholder for future additions.

BIS estimates these changes to § 744.22 will result in an additional two license applications submitted to BIS annually.

C. Revisions to the Entity List To Designate Certain Existing Entities as Russian `Military End Users'

1. Overview of Entity List

The Entity List (supplement no. 4 to part 744 of the EAR) identifies entities for which there is reasonable cause to believe, based on specific and articulable facts, that the entities have been involved, are involved, or pose a significant risk of being or becoming involved in activities contrary to the national security or foreign policy interests of the United States. The EAR impose additional license requirements on and limit the availability of most license exceptions for exports, reexports, and transfers (in-country) to listed entities.

The license review policy for each listed entity is identified in the “License Review Policy” column on the Entity List, and the impact on the availability of license exceptions is described in the relevant Federal Register document that added the entity to the Entity List. Any license application for an export, reexport, or transfer (in-country) involving an entity on the Entity List that is subject to an additional EAR license requirement will also be reviewed in accordance with the license review policies in the sections of the EAR applicable to those license requirements. For example, for Russian entities on the Entity List, if the export, reexport, or transfer (in-country) is subject to a license requirement in §§ 746.6, 746.8, or 746.10, the license application will be reviewed in accordance with the license review policies in those sections in addition to the specified license review policy under the Entity List entry.

BIS places entities on the Entity List pursuant to part 744 (Control Policy: End-User and End-Use Based) and part 746 (Embargoes and Other Special Controls) of the EAR. Paragraphs (b)(1) through (5) of § 744.11 include an illustrative list of activities contrary to the national security or foreign policy interests of the United States.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

2. Entity List Decisions: Revisions to the Entity List

This rule revises six entities under ten entries on the Entity List, under the destinations of China, Lithuania, Russia, the United Kingdom, Uzbekistan, and Vietnam: Connec Electronic Ltd. (added under China and the United Kingdom); King Pai Technology Co., Ltd. (added under China, Russia, and Vietnam); Sinno Electronics Co., Ltd. (added under China and Lithuania); Winninc Electronic (added under China); World Jetta (H.K.) Logistics Limited (added under China); and Promcomplektlogistic Private Company (added under Uzbekistan). All six entities under ten entries were first added to the Entity List effective June 28, 2022 (87 FR 38925, June 30, 2022) (the June 30 rule).

The ERC determined that it was warranted to designate these entities as Russian `military end users' pursuant to § 744.21. Labeling these six entities as Russian `military end users' and having the Russia/Belarus-Military End User FDP rule apply to them will degrade Russia's war efforts in Ukraine, as these entities produce items needed by the Russian and Belarusian military and industrial sectors. This rule accordingly revises the License Requirement column to remove the parenthetical phrase that referenced § 744.11 and to include a new parenthetical phrase that references the foreign direct product (FDP) rule for Russian and Belarusian `military end users,' because these entities have been determined to be Russian `military end-users.' As stated in the June 30 rule, these entities had supplied items to Russian entities of concern before February 24, 2022, the effective date of the Russia Sanctions Rule, and have continued to contract to supply Russian entities on the Entity List or that have been sanctioned since Russia's further invasion of Ukraine. The new parenthetical references the Russian/Belarusian Military End User FDP rule and the Military End Use and End User controls under §§ 734.9(g),³ 746.8(a)(3), and 744.21(b) of the EAR. The ERC also determined that it was appropriate to give these entities a footnote 3 designation to reflect their Russian `military end user' status. This rule also revises the License Review policy column for each of these entities to add a cross-reference to §§ 746.8(b) and 744.21(e).

BIS estimates that these changes to the Entity List will not result in the submission of any additional license applications to BIS.

D. Refinements to Existing Controls To More Closely Align With the Controls of Allies Identified in Supplement No. 3 to Part 746 of the EAR on Russia and Belarus

1. Addition of Dollar Value Exclusion Thresholds for `Luxury Goods' To More Closely Align With the Thresholds Used by Our Allies

In supplement no. 5 to part 746—(`Luxury Goods' That Require a License For Export, Reexport, and Transfer (In-Country) to or Within Russia or Belarus Pursuant to § 746.10(a)(1) and (2)), this rule revises the supplement to specify additional dollar value exclusion thresholds in certain entries to better align with the luxury goods controls implemented by our allies, which have served as a model for other countries in determining appropriate value exclusions to incorporate into their respective national controls. These revisions should also ease the compliance burdens of exporters, reexporters, and transferors trying to comply with the `luxury goods' controls of various countries. They also are intended to create as much as possible an equal playing field for U.S. companies.

When the `luxury goods' controls for Russia and Belarus were initially added to the EAR in earlier this year (87 FR 14758, March 16, 2022), the only `luxury goods' specified in supplement no. 5 to part 746 that included a dollar value exclusion were clothing and shoes entries that were assigned a dollar value exclusion of $1,000 Per Unit Wholesale Price in the U.S. BIS determined that additional time was needed to evaluate whether to add dollar value exclusion thresholds to other additional `luxury goods' entries in supplement no. 5 to part 746.

This rule aligns BIS's `luxury goods' controls with our allies' corresponding controls by revising the `10-Digit Commodity Description and Per Unit Wholesale Price in the U.S. if Applicable' column (in those entries in which such information is applicable) to add additional dollar value exclusion thresholds. BIS has determined certain `luxury goods' entries continue to not warrant a dollar value exclusion; those entries remain unchanged by this rule. As warranted, BIS may make future updates and/or additions to the thresholds.

In reviewing our allies' value threshold exclusions, BIS determined that the EAR's $1,000 Per Unit Wholesale Price in the U.S. dollar value exclusion for clothing and shoes was more permissive than those adopted by our allies. Therefore, to align more closely with allies' value exclusion thresholds, with which BIS agrees, this rule reduces the dollar value threshold for clothing and shoes from $1,000 to $300 Per Unit Wholesale Price. For many other `luxury goods' entries, this rule adds a $300 Per Unit Wholesale Price in the U.S. dollar value exclusion. However, BIS has added a higher dollar value exclusion threshold to other items, as warranted (e.g., automobiles, which will have a $50,000 Per Unit Wholesale Price U.S. dollar value exclusion threshold).

BIS estimates these changes to the `luxury goods' controls will result in a reduction of 10 license applications submitted to BIS annually.

E. Corrections and Clarifications to Existing Controls

BIS estimates the changes described in Section E of this final rule will not result in the submission of any additional license applications to BIS, apart from the changes for License Exception Consumer Communications Devices (CCD), which BIS anticipates will result in the annual submission of two fewer license applications to BIS.

1. Updates the List of Eligible Consumer Communications Devices To Reflect Technology Developments Since 2009 and the Current Realities of How Consumers Communicate

In § 740.19 (Consumer Communications Devices (CCD)), this rule revises paragraph (b) (Eligible commodities and software), to update the text to more accurately describe the types of commodities and software included under License Exception CCD. BIS makes this change to accommodate the consumer communications commodities and software that have come into common use since September 8, 2009, the date that License Exception CCD was originally added to the EAR (74 FR 45989). For example, this rule revises paragraph (b)(1) for consumer computers to add tablets and peripherals, including microphones, speakers, and headphones, that are designated EAR99 or classified under Export Control Classification Numbers (ECCN) 5A992.c or 4A994.b. BIS also reminds exporters, reexporters, and transferors that certain headphones are controlled under “600 series” ECCNs and are not eligible for License Exception CCD. In addition, for purposes of paragraph (b)(1), as well as the rest of paragraph (b), the commodities and software eligible for License Exception CCD are strictly limited to the descriptions and classifications that are specified under paragraph (b), which is an exhaustive listing of the commodities and software eligible for License Exception CCD.

This rule removes paragraph (b)(3) which described input/output control units (other than industrial controllers designed for chemical processing) designated EAR99. This rule removes these items because after additional review of paragraph (b) by BIS, these items were determined to not be the type of commodities that would typically be used by consumers for communications purposes and, therefore, should be removed from License Exception CCD. Because of the removal of paragraph (b)(3), this rule also redesignates (b)(4) through (17) as paragraphs (b)(3) through (17), respectively.

The rule revises existing paragraphs (b)(1), (5) through (7), and (9) (which, prior to redesignation, were paragraphs (b)(6) through (8) and (9)) to make similar updates reflecting current consumer communications device use.

Lastly, under paragraph (b), this rule revises redesignated paragraphs (b)(12) through (14), (16), and (17) to update the commodity and software descriptions, including adding a parenthetical phrase to paragraph (b)(13) to clarify that digital cameras include webcams. This rule also revises paragraph (b)(16) by removing the phrase in “this paragraph” and adding in its place the phrase in “paragraphs (b)(1) through (16)” to clarify that paragraph (b)(16) includes batteries, chargers, carrying cases and accessories for the equipment described in paragraphs (b)(1) through (16).

2. Correction To Add Russia, and Belarus to the News Media Authorization Under License Exception TMP

In § 740.9(a)(9) (News media), this rule revises License Exception TMP to make a conforming change to add Russia and Belarus to the news media authorization paragraph. Russia and Belarus are eligible for the news media authorization under § 740.9(a)(9), as specified under § 746.8(c)(1), but were inadvertently not added to the text of License Exception TMP at the time that BIS issued the Russia Sanctions Rule and Belarus Sanctions Rule. This rule corrects that oversight by adding Russia and Belarus to the countries identified under paragraph (a)(9) of License Exception TMP. And as a conforming change, this rule adds the term “transferred (in-country)” to paragraph (a)(9) for consistency with the section heading. For additional clarity, this rule adds a reference to the Crimea region of Ukraine to the existing reference for covered regions of Ukraine in paragraph (a)(9).

3. Correction to § 744.11 To Remove an Unneeded Sentence

In § 744.11, this rule revises paragraph (b) (Criteria for revising the Entity List), to remove a sentence that specifies that § 744.11 may not be used to place on the Entity List any party if exports or reexports to that party of items that are subject to the EAR are prohibited or require a license from another U.S. Government agency. The preceding sentence in paragraph (b) correctly indicates that BIS will not place entities on the Entity List that also require a license under § 744.12, § 744.13, § 744.14, or § 744.18. The sentence that this rule removes was intended to explain the applicability of the preceding sentence. This rule also revises that preceding sentence to add a reference to § 744.8, which was inadvertently not included in this sentence.

Consistent with BIS's statutory authority, the removal of the sentence from paragraph (b) of § 744.11 eliminates ambiguity about whether BIS may list entities on the Entity List that are also listed under the SDN List or would otherwise require a license from any other U.S. government agencies for any exports, reexports, or transfers (in-country) of items subject to the EAR.

4. Adds License Exception CCD Eligibility in Connection With Russian and Belarusian Industry Sector Sanctions and the “Luxury Goods' Controls

This rule revises paragraph (c) (License Exceptions) of § 746.5 (which is being revised by this rule to include both Russian and Belarusian industry sector sanctions) to add License Exception CCD eligibility. This change is necessary because certain items that are caught under the Russian (and now Belarusian) industry sector sanctions are also controlled under § 746.8 (Sanctions Against Russia and Belarus), resulting in the removal of eligibility for License Exception CCD because the transaction at issue cannot overcome the license requirement set forth in § 746.5(a)(1)(ii). In order to meet the U.S. Government's policy objectives of ensuring the free flow of information, License Exception CCD must be able to overcome all applicable EAR license requirements, including those in all of the EAR provisions that contain new Russia or Belarus-related license requirements. This rule addresses that anomaly by adding License Exception CCD eligibility to § 746.5(c). This change also makes License Exception CCD available for EAR99 items that would otherwise be items identified as being eligible for License Exception CCD, based on the list set forth in § 740.19(b). This change is made for consistency with the intent of § 746.8 and to ensure that the EAR does not treat less sensitive EAR99-designated items more restrictively than items on the Commerce Control List set forth in supplement no. 1 to part 744.

This rule also revises paragraph (c) (License Exceptions) of § 746.10 to add License Exception CCD eligibility. This change to § 746.10(c) is needed for the same reason that the change is necessary to § 746.5(c)—to eliminate conflicting guidance on the availability of License Exception CCD. In § 746.10(c), this rule addresses the conflict by adding License Exception CCD eligibility to § 746.10(c) as a new paragraph (c)(3). As a conforming change, this rule also revises the introductory text of paragraph (c) to remove the text “and (2)” and add in its place the text “through (3)” to account for the new paragraph (c)(3).

5. Clarification That the Exclusion for Items Controlled Under ECCN 5A992 or 5D992, License Exception Availability, and License Review Policies Apply to Branches and Sales Offices of Companies Headquartered in the U.S. and Country Group A:5 and A:6 Countries

In § 746.8 (Sanctions against Russia and Belarus), this rule revises the introductory text of paragraph (a) to clarify that the exclusion for ECCNs 5A992 or 5D992 includes the terms `branches' and `sales offices' after the term `subsidiaries,' wherever it appears. This change clarifies that branches or sales offices that meet the other criteria in paragraph (a)'s introductory text are eligible for the exclusion. This rule makes the same clarification in paragraph (b) (Licensing policy) by adding the terms branch or sales offices to clarify that branches or sales offices that meet the criteria for the subsidiaries specified in paragraph (b) are available for the case-by-case license review policy. This rule also makes the same type of changes in paragraph (c) (License Exceptions) to add the terms branches or sales office to paragraphs (c)(3) (for License Exception TSU for software updates) and (6) (for License Exception ENC) to clarify that branches or sales offices as well as subsidiaries of companies headquartered in the U.S. and Country Groups A:5 or A:6 countries are eligible for those license exceptions.

6. Adds a Note 1 to Paragraph (a)(1) To Clarify the Scope of the Deemed Export Exclusion Under the Russia and Belarus Sanctions

In § 746.8 of the EAR, this rule adds a new note 1 to paragraph (a)(1) under paragraph (a) (License requirements) to clarify the scope of the deemed export exclusion from the license requirement that would otherwise apply to items classified under any ECCN on the CCL. The note clarifies that the deemed export and reexport exclusion is only applicable to the additional license requirements imposed under paragraph (a)(1), and not any license requirements that were in place prior to the Russia Sanctions Rule and Belarus Sanctions Rule. If the deemed export or deemed reexport is subject to another license requirement under the EAR, such as a CCL-based license requirement, the exclusion would not apply—meaning that an EAR authorization is required to overcome the applicable EAR license requirement. This rule also, as a clarifying change, revises the first sentence in paragraph (a)(1) to remove the reference to § 746.5 and add in its place the phrase “other sections of part 746”. This change is necessary because there are multiple sections of part 746 that impose license requirements on Russia and Belarus.

7. Adds an Exclusion From the License Requirements Under § 746.8(a)(1) and (2) for Transfers Within Russia or Belarus for Reexports (Return) to the United States or a Country Group A:5 or A:6 Country of Any Item

In § 746.8(a) (License requirements) of the EAR, this rule revises the introductory text of paragraph (a) to add an exclusion from the license requirements under § 746.8(a)(1) and (2) for certain transfers within Russia and Belarus. This exclusion allows for the movement of an item subject to the EAR within Russia or Belarus for the purposes of returning it to the United States or to a Country Group A:5 or A:6 country in supplement no. 1 to part 740 (Country Groups). In order to be within the scope of the exclusion, the owner must retain title to and control of the item while it remains in Russia or Belarus. This rule also clarifies the scope of the exclusion by including a sentence to specify that if a license is required for a reexport to a Country Group A:5 or A:6 country, a separate EAR authorization is required to authorize the reexport. This sentence is included to clarify that even though the transfers (in-country) within the scope of the exclusion text are outside the scope of the license requirements under § 746.8(a)(1) and (2) that an authorization may still be required for the reexport to these Country Group A:5 or A:6 countries.

8. Update to the Licensing Policy for `Luxury Goods' To Adopt a Case-by-Case License Review Policy for Items for Humanitarian Needs To Ensure Consistency With Other Russia and Belarus Licensing Policies

In § 746.10 (`Luxury Goods' Sanctions Against Russia and Belarus and Russian and Belarusian Oligarchs and Malign Actors) of the EAR, this rule adds an exception to the policy of denial license application review policy for `luxury goods' to specify that applications involving items to meet humanitarian needs will be reviewed on a case-by-case basis. This revision is intended to apply to applications involving certain `luxury goods' items that may be used in medical devices or in other situations involving `luxury goods' applications in which a case-by-case analysis is warranted. For example, contact lens solution and rewetting drops are captured as cosmetics by a schedule B code identified in supplement no. 5 to part 746 of the EAR as a `luxury good' despite also being classified as a “medicine” under the EAR. These solutions are necessary to maintain eye health for patients who require contact lenses, including those who are medically unable to wear corrective glasses. This case-by-case license review policy will provide BIS and the other reviewing agencies flexibility to assess whether a license application for such items should be approved to meet humanitarian needs while also taking into account U.S. national security and foreign policy concerns.

9. Clarification That the EAR Recordkeeping Requirements Apply to Transfers (In-Country) of Items Subject to the EAR

Because the sanctions against Russia and Belarus extend to transfers (in-country), BIS has received some questions from the public about the EAR's recordkeeping requirements for transfers (in-country). In part 762 (Recordkeeping) of the EAR, this rule revises §§ 762.1(a)(2) and 762.6(a)(2) to clarify that the specified recordkeeping requirements apply to transfers (in-country) of items subject to the EAR. In certain parts of the EAR, only the term reexport may be used, but the intent of such provisions is to also cover transfers (in-country), in line with BIS's longstanding interpretation and previous amendments to the EAR to clarify this point.

10. Clarifications to the General Prohibitions for Transfers (In-Country)

Because the sanctions against Russia and Belarus extend to transfers (in-country), BIS has also received some questions from the public about the EAR's general prohibitions and how they apply for transfers (in-country). In part 736 (General Prohibitions), this rule revises § 736.2 (General prohibitions and determination of applicability) to address these questions.

In particular, these questions have focused on why some of the general prohibitions, such as General Prohibitions 5 and 6 under § 736.2(b)(5) and (6), do not reference transfers (in-country), but the other parts of the EAR that implement the license requirements, such as parts 744 and 746, specify that some of those license requirements, in particular those for Russia and Belarus, apply to exports, reexports, and transfers (in-country). First, BIS emphasizes here that as stated in § 736.2(a)(1), the general prohibitions describe obligations under the EAR generally and are not intended to be an exhaustive description of the EAR's license requirements or other restrictions. Therefore, in cases such as General Prohibitions 5 or 6, where parts 744 and 746 are more specific in identifying that the license requirements for Russia and Belarus include transfers (in-country), those more specific license requirements in parts 744 and 746 govern. Second, BIS has long relied on the general prohibitions as a general framework for helping to explain the scope of the EAR and have long used them as part of the BIS outreach seminar program. Therefore, the general prohibitions should track as accurately as possible at a general level with the other parts of the EAR that implement the license requirements. In reviewing these questions, BIS also identified some other clarifying changes that this rule is making to help the public better understand the scope of the EAR license requirements and to make the general prohibitions more effective in assisting public understanding of the EAR at a general level.

This rule makes these clarifications to the general prohibitions by revising paragraphs (a) (Information or facts that determine the applicability of the general prohibitions) and (b) (General prohibitions). Specifically, in the paragraph (a) introductory text, this rule adds a parenthetical phrase after the term “generally” that provides a cross reference to direct the public to see other parts of the EAR where the license requirements and other EAR restrictions are specified in greater detail. As described above, this is a key point in understanding how the general prohibitions relate to other parts of the EAR, so this additional text will help public understanding.

In paragraph (a)(1) (Classification of items), this rule adds a reference to items described in supplements nos. 2, 4, or 6 to part 746 to inform the public that in addition to any license requirements that may apply because of the item's CCL classification, an item that is described under one of those three supplements will be subject to license requirements described under §§ 746.5 and 746.10 of the EAR. This rule also adds a cross reference to the Commerce Control List Order of Review in supplement no. 4 to part 744 to assist public understanding of the classification process. This rule also adds a cross reference to the Commerce Control List in supplement no. 1 to part 774, the Commerce Country Chart in supplement no. 1 to part 738, and § 738.4 to provide additional guidance on determining CCL-based license requirements. This rule also adds a new Note to paragraph (a)(1) that specifies that items described under supplements no. 2, 4, or 6 of part 746 are subject to license requirements for Russia and Belarus under §§ 746.5 and 746.10 and to clarify that most of the items described in these three supplements are items that would typically be designated as EAR99 on the CCL.

Under paragraph (a)(2) (Destination), this rule adds the term transfer (in-country) to clarify that some of the destination-based license requirements under the EAR extend to transfers (in-country), such as those for Russia and Belarus. This rule adds text to clarify that the license requirements for parts 738 and 774 apply to exports and reexports and to advise the public to review part 746 for additional license requirements based on embargoes and other special controls for exports, reexports, or certain transfers (in-country), e.g., those that apply to Russia and Belarus under § 746.5.

Under paragraph (a)(3) (End user), this rule revises the paragraph heading to include the phrase `or end use.' This rule also adds the term transfers (in-country) for consistency with part 744, which includes certain license requirements for transfers (in-country). This rule also adds text to clarify that in addition to end user-based license requirements, certain EAR requirements (e.g., 734.9(e) and 744.11(a)) extend to all parties to the transaction as described in § 748.5(c) through (f). Lastly, this rule also clarifies many of the end-use controls in part 744 specify destinations or Country Groups as part of the criteria for defining the scope of the end use controls.

Under paragraph (a)(5) (Conduct); this rule adds the phrases a `military-intelligence end use' or a `military-intelligence end user' to clarify that prohibited conduct is not limited to proliferation projects and extends to such conduct involving `military-intelligence end uses' or `'military-intelligence end users' for consistency with the license requirements in § 744.6.

Under paragraph (b) introductory text, this rule adds the term transfers (in-country) to clarify that some of the general prohibitions apply to transfers (in-country).

Under paragraph (b)(5) (General Prohibition Five—Export or reexport to prohibited end-uses or end-users (End-Use End-User)), this rule revises the paragraph heading and the text of paragraph (b)(5) to add in “transfers (in-country)” for consistency with the license requirements in part 744, which in many cases extend to transfers (in-country). This rule also adds a sentence to clarify that each section in part 744 specifies whether the license requirements extend to exports, reexports, and transfers (in-country).

Under paragraph (b)(6) (General Prohibition Six—Export or reexport to embargoed destinations (Embargo)), this rule revises the paragraph (b) heading and paragraph (b)(6)(i) to add in “transfers (in-country)” for consistency with the license requirements in part 746, which for certain countries and regions identified in part 746, in particular Russia, Belarus, and the Crimea region of Ukraine and covered regions of Ukraine, extend to transfers (in-country). This rule also revises paragraph (b)(6)(i) to add the phrase “or region (e.g., the Crimea region of Ukraine and covered regions of Ukraine)” to clarify that the license requirements in part 746 also extend to identified regions. As a clarification, this rule also removes the phrase “authorized under part 746” and adds in its place the more specific phrase “license exception or portion thereof that is specifically listed in the license exceptions paragraph pertaining to a particular sanctioned country or region in part 746 of the EAR.” This rule makes this change for consistency with how license exceptions are referred to in § 740.2(a)(6) and to improve public understanding of when a license exception may be used to overcome the part 746 license requirements and General Prohibition 6. This rule also adds a sentence to clarify that each section in part 746 specifies whether the license requirements extend to exports, reexports, and transfers (in-country). This rule also revises paragraph (b)(6)(ii) to make the term “License Exceptions” lower case for consistency with other EAR references to license exceptions.

Under paragraph (b)(10) (General Prohibition Ten—Proceeding with transactions with knowledge that a violation has occurred or is about to occur (Knowledge Violation to Occur), this rule adds the terms “reexported, or transferred (in-country)” after the term “exported” and adds the terms reexported, or transferred (in-country) after the term “to be exported” to clarify that General Prohibition 10 extends to reexports and transfers (in-country). This rule also adds a reference to the Export Control Reform Act of 2018 and removes the reference to the Export Administration Act because it is no longer needed and for consistency with § 764.2(e). This rule also revises paragraph (b)(10) to make the term “License Exceptions” lower case for consistency with other EAR references to license exceptions.

11. Clarification of Step 14 of the Steps Regarding the Ten General Prohibitions for Embargoed Countries and Special Destinations

In § 732.3(i) (Step 14: Embargoed countries and special destinations), this rule revises the reference to Russia, which previously only referred to the Russian Industry Sector Sanctions, to now refer to §§ 746.5 for Russian and Belarusian industry sector sanctions, 746.8 for Sanctions against Russia and Belarus, and 746.10 for `Luxury Goods' Sanctions Against Russia and Belarus and Russian and Belarusian Oligarchs and Malign Actors. This rule also adds the term “transfer (in-country)” to paragraph (i) introductory text and to paragraph (i)(1) for consistency with the license requirements in part 746, which extend to transfers (in-country) for certain countries, such as Russia and Belarus. This rule also revises paragraph (i)(1) to remove the phrase “publicly available technology” and adds in its place the phrase published information, along with adding a cross reference to § 734.7 for consistency with § 734.3(b)(3). This rule also revises paragraph (i)(2) to make the term “License Exception” lower case for consistency with other EAR references to the term.

12. Commerce Country Groups Changes

In supplement to no. 1 to part 740 (Commerce Country Groups), this final rule revises the Commerce Country Groups in supplement no. 1 to part 740 to remove the entries for Belarus and Russia in the Country Group A table. This rule removes the entries for Belarus and Russia in order to avoid confusion, because these two countries have no “x” in the box for any of the Country Group A columns. The references to Russia in footnotes 1 and 2 for Country Groups A:1 and A:2 are not revised and the references to Russia and Belarus in footnote 3 are not revised because the references in those footnotes still serve a purpose.

Savings Clause

For the changes being made in this final rule, shipments of items removed from eligibility for a License Exception or export, reexport, or transfer (in-country) without a license (NLR) as a result of this regulatory action that were en route aboard a carrier to a port of export, reexport, or transfer (in-country), on September 15, 2022, pursuant to actual orders for export, reexport, or transfer (in-country) to or within a foreign destination, may proceed to that destination under the previous eligibility for a License Exception or export, reexport, or transfer (in-country) without a license (NLR), provided the export, reexport, or transfer (in-country) is completed no later than on November 14, 2022.

Export Control Reform Act of 2018

On August 13, 2018, the President signed into law the John S. McCain National Defense Authorization Act for Fiscal Year 2019, which included the Export Control Reform Act of 2018 (ECRA) (codified, as amended, at 50 U.S.C. Sections 4801-4852). ECRA provides the legal basis for BIS's principal authorities and serves as the authority under which BIS issues this rule. To the extent it applies to certain activities that are the subject of this rule, the Trade Sanctions Reform and Export Enhancement Act of 2000 (TSRA) (codified, as amended, at 22 U.S.C. Sections 7201-7211) also serves as authority for this rule.

Rulemaking Requirements

1. This final rule is not a “significant regulatory action” because it “pertain[s]” to a “military or foreign affairs function of the United States” under sec. 3(d)(2) of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number.

This rule involves the following OMB-approved collections of information subject to the PRA:

• 0694-0088, “Multi-Purpose Application,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls on Russia and Belarus under the EAR will result in an increase of 285 license applications submitted annually to BIS. However, the additional burden falls within the existing estimates currently associated with these control numbers. Additional information regarding these collections of information—including all background materials—can be found at https://www.reginfo.gov/public/do/PRAMain by using the search function to enter either the title of the collection or the OMB Control Number.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5. U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects

15 CFR Part 734

Administrative practice and procedure, Exports, Inventions and patents, Research, Science and technology.

15 CFR Parts 732 and 740

Administrative practice and procedure, Exports, Reporting and recordkeeping requirements.

15 CFR Part 736

Exports.

15 CFR Part 744

Exports, Reporting and recordkeeping requirements, Terrorism.

15 CFR Part 746

Exports, Reporting and recordkeeping requirements.

15 CFR Part 762

Administrative practice and procedure, Business and industry, Confidential business information, Exports, Reporting and recordkeeping requirements.

For the reasons stated in the preamble, parts 732, 734, 736, 740, 744, 746, and 762 of the Export Administration Regulations (15 CFR parts 730 through 774) are amended as follows:

PART 732—STEPS FOR USING THE EAR

1. The authority citation for part 732 is revised to read as follows:

Authority: 50 U.S.C. 4801-4852; 50 U.S.C. 4601 et seq.; 50 U.S.C. 1701 et seq.; E.O. 13026, 61 FR 58767, 3 CFR, 1996 Comp., p. 228; E.O. 13222, 66 FR 44025, 3 CFR, 2001 Comp., p. 783.

2. Section 732.3 is amended by revising paragraph (i) to read as follows:

§ 732.3 Steps regarding the ten general prohibitions.

* * * * *

(i) Step 14: Embargoed countries and special destinations. If your destination for any item is Cuba, Iran, Iraq, North Korea, or Syria, you must consider the requirements of parts 742 and 746 of the EAR. Unless otherwise indicated, General Prohibition Six (Embargo) applies to all items subject to the EAR, i.e., both items on the CCL and within EAR99. See § 746.1(b) for destinations subject to limited sanctions under United Nations Security Council arms embargoes. See §§ 746.5 for Russian and Belarusian industry sector sanctions, 746.6 for Crimea region of Ukraine and covered regions of Ukraine, 746.8 for Sanctions against Russia and Belarus, and 746.10 for `luxury goods' sanctions against Russia and Belarus and Russian and Belarusian oligarchs and malign actors. You may not make an export, reexport, or transfer (in-country) contrary to the provisions of part 746 of the EAR without a license unless:

(1) You are exporting, reexporting, or transferring only published information or software as specified in § 734.7 or other items outside the scope of the EAR, or

(2) You qualify for a License Exception referenced in part 746 of the EAR concerning embargoed destinations. You may not use a license exception described in part 740 of the EAR to overcome General Prohibition Six (Embargo) (§ 736.2(b)(6) of the EAR) unless it is specifically authorized in part 746 of the EAR. Note that part 754 of the EAR concerning short supply controls is self-contained and is the only location in the EAR for both the prohibitions and exceptions applicable to short supply controls.

* * * * *

PART 734—SCOPE OF THE EXPORT ADMINISTRATION REGULATIONS

3. The authority citation for part 734 continues to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 10, 2021, 86 FR 62891 (November 12, 2021).

4. Section 734.9 is amended by revising paragraphs (f)(1) to read as follows:

§ 734.9 Foreign-Direct Product (FDP) Rules.

* * * * *

(f) * * *

(1) Product scope of Russia/Belarus FDP rule. The product scope applies if a foreign-produced item meets the conditions of either paragraph (f)(1)(i) or (ii) of this section.

(i) “Direct product” of “technology” or “software.” A foreign-produced item meets the product scope of this paragraph (f)(1)(i) if the foreign-produced item meets both of the following conditions:

(A) The foreign-produced item is the “direct product” of U.S.-origin “technology” or “software” subject to the EAR that is specified in any ECCN in product groups D or E of the CCL; and

(B) The foreign-produced item is identified in supplement no. 6 to part 746 of the EAR or is not designated EAR99; or

(ii) “Direct product” of a complete plant or `major component' of a plant. A foreign-produced item meets the product scope of this paragraph (f)(1)(ii) if it meets both of the following conditions:

(A) The foreign-produced item is produced by any plant or `major component' of a plant that is located outside the United States, when the plant or `major component' of a plant, whether made in the United States or a foreign country, itself is a “direct product” of U.S.-origin “technology” or “software” subject to the EAR that is specified in any ECCN in product groups D or E of the CCL; and

(B) The foreign-produced item is identified in supplement no. 6 to part 746 of the EAR or is not designated EAR99.

* * * * *

PART 736—GENERAL PROHIBITIONS

5. The authority citation for 15 CFR part 736 is revised to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, 3 CFR, 2004 Comp., p. 168; Notice of November 10, 2021, 86 FR 62891 (November 12, 2021); Notice of May 9, 2022, 87 FR 28749 (May 10, 2022).

6. Section 736.2 is amended by revising paragraphs (a) introductory text and (a)(1) through (3) and (5) and (b) introductory text and (b)(5), (6), and (10) to read as follows:

§ 736.2 General prohibitions and determination of applicability.

(a) Information or facts that determine the applicability of the general prohibitions. The following five types of facts determine your obligations under the ten general prohibitions and the EAR generally (also see other parts of the EAR where the license requirements and other EAR restrictions are specified in greater detail):

(1) Classification of the item. The classification of the item on the Commerce Control List (see part 774 of the EAR) or description of the item in supplements no. 2, 4, or 6 to part 746 of the EAR. For guidance on classifying items, see the Commerce Control List Order of Review in supplement no. 4 to part 774 and for determining licensing requirements using the Commerce Control List in supplement no. 1 to part 774 and the Commerce Country Chart in supplement no. 1 to part 738, see § 738.4;

Note 1 to paragraph (a)(1): The description of items in supplements no. 2, 4, or 6 of part 746 are used for determining license requirements for Russia and Belarus under §§ 746.5 and 746.10. Items described in supplements no. 2, 4, or 6 in most cases are designated as EAR99 (subject to the EAR but not specifically listed on the Commerce Control List).

(2) Destination. The country of ultimate destination for an export, reexport, or transfer (in-country) (see parts 738 and 774 of the EAR concerning the Country Chart and the Commerce Control List for export and reexport license requirements and part 746 for additional license requirements based on embargoes and other special controls for exports, reexports, or certain transfers (in-country));

(3) End user or end use. The ultimate end user (see General Prohibition Four (paragraph (b)(4) of this section) and supplement no. 1 to part 764 of the EAR for references to persons with whom your transaction may not be permitted; see General Prohibition Five (Paragraph (b)(5) of this section) and part 744 for references to end users for whom you may need an export, reexport, or transfer (in-country) license). Certain EAR requirements (e.g., §§ 734.9(e), 744.11(a)), and 744.15(b)) extend to all parties to the transaction as described in § 748.5(c) through (f). Many of the end-use controls in part 744 specify destinations or Country Groups as part of the criteria for defining the scope of the end use controls.

* * * * *

(5) Conduct. Conduct such as contracting, financing, and freight forwarding in support of a proliferation project or a `military-intelligence end use' or a `military-intelligence end user,' as described in part 744 of the EAR.

(b) General prohibitions. The following ten general prohibitions describe certain exports, reexports, transfers (in-country), and other conduct, subject to the scope of the EAR, in which you may not engage unless you either have a license from the Bureau of Industry and Security (BIS) or qualify under part 740 of the EAR for a License Exception from each applicable general prohibition in this paragraph. The License Exceptions at part 740 of the EAR apply only to General Prohibitions One (Exports and Reexports in the Form Received), Two (Parts and Components Reexports), and Three (Foreign-Produced “Direct Product” Reexports); however, selected License Exceptions are specifically referenced and authorized in part 746 of the EAR concerning embargo destinations and in § 744.2(c) of the EAR regarding nuclear end-uses and in § 744.11 and in supplement no. 4 to part 744—Entity List.

* * * * *

(5) General Prohibition Five—Export, reexport, or transfer (in-country) to prohibited end-uses or end-users (End-Use End-User). You may not, without a license, knowingly export, reexport, or transfer (in-country) any item subject to the EAR to an end user or end use that is prohibited by part 744 of the EAR. Each section in part 744 specifies whether the license requirements extend to exports, reexports, and transfers (in-country).

(6) General Prohibition Six—Export, reexport, and transfer (in-country) to embargoed destinations (Embargo). (i) You may not, without a license or license exception or portion thereof that is specifically listed in the license exceptions paragraph pertaining to a particular sanctioned country or region in part 746 of the EAR, export, reexport, or transfer (in-country) any item subject to the EAR to a country or region (e.g., the Crimea region of Ukraine and covered regions of Ukraine) that is embargoed by the United States or otherwise made subject to controls under part 734 as both are described at part 746 of the EAR. Each section in part 746 specifies whether the license requirements extend to exports, reexports, and transfers (in-country).

(ii) License exceptions to General Prohibition Six are described in part 746 of the EAR, on

Embargoes and Other Special Controls. Unless a license exception or other authorization is authorized in part 746 of the EAR, the license exceptions described in part 740 of the EAR are not available to overcome this general prohibition.

* * * * *

(10) General Prohibition Ten—Proceeding with transactions with knowledge that a violation has occurred or is about to occur (Knowledge Violation to Occur). You may not sell, transfer, export, reexport, finance, order, buy, remove, conceal, store, use, loan, dispose of, transport, forward, or otherwise service, in whole or in part, any item subject to the EAR and exported, reexported, or transferred (in-country) or to be exported, reexported, or transferred (in-country) with knowledge that a violation of the Export Administration Regulations, the Export Control Reform Act of 2018, or any order, license, license exception, or other authorization issued thereunder has occurred, is about to occur, or is intended to occur in connection with the item. Nor may you rely upon any license or license exception after notice to you of the suspension or revocation of that license or exception. There are no license exceptions to this General Prohibition Ten in part 740 of the EAR.

PART 740—LICENSE EXCEPTIONS

7. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

8. Section 740.9 is amended by revising paragraph (a)(9)(i) introductory text to read as follows:

§ 740.9 Temporary imports, exports, reexports, and transfers (in-country) (TMP).

* * * * *

(a) * * *

(9) * * *.

(i) Commodities necessary for news-gathering purposes (and software necessary to use such commodities) may be temporarily exported, reexported, or transferred (in-county) for accredited news media personnel (i.e., persons with credentials from a news-gathering or reporting firm) to or within Belarus, Cuba, North Korea, Russia, and Syria (see supplement no. 1 to part 740), or the Crimea region of Ukraine and covered regions of Ukraine (as specified in § 746.6) if the commodities:

* * * * *

9. Section 740.19 is amended by revising paragraph (b) to read as follows:

§ 740.19 Consumer Communications Devices (CCD).

* * * * *

(b) Eligible commodities and software. Commodities and software in paragraphs (b)(1) through (16) of this section are eligible for export, reexport, or transfer (in-country) under this section to and within Cuba, Russia, and Belarus.

(1) Consumer computers, tablets, and peripherals including microphones, speakers, and headphones designated EAR99 or classified under Export Control Classification Numbers (ECCN) 5A992.c or 4A994.b;

(2) Consumer disk drives and solid-state storage equipment classified under ECCN 5A992 or designated EAR99;

(3) Graphics accelerators and graphics coprocessors designated EAR99;

(4) Monitors classified under ECCN 5A992.c or designated EAR99;

(5) Printers, including multifunctional printers, classified under ECCN 5A992.c or designated EAR99;

(6) Modems, network interface cards, routers, switches, and WiFi access points, designated EAR99 or classified under ECCNs 5A992.c or 5A991; drivers, communications, and connectivity software for such hardware designated EAR99 or classified under ECCN 5D992.c;

(7) Network access controllers and communications channel controllers classified under ECCN 5A991.b.4, 5A992.c, or designated EAR99;

(8) Keyboards, mice and similar devices designated EAR99;

(9) Mobile phones, including cellular and satellite telephones, personal digital assistants, and subscriber information module (SIM) cards, accessories for such devices and similar devices classified under ECCNs 5A992.c or 5A991 or designated EAR99; drivers and connectivity software for such hardware designated EAR99 or classified under ECCN 5D992.c;

(10) Memory devices classified under ECCN 5A992.c or designated EAR99;

(11) Consumer “information security” equipment, “software” (except “encryption source code”), such as firewalls, virtual private network clients, antivirus, user authentication, password managers, identification verification and peripherals classified under ECCNs 5A992.c or 5D992.c or designated EAR99;

(12) Digital cameras (including webcams) and memory cards classified under ECCN 5A992 or designated EAR99;

(13) Television and radio receivers, set top boxes, video decoders and antennas, classified under ECCNs 5A991, 5A992, or designated EAR99;

(14) Recording devices classified under ECCN 5A992 or designated EAR99;

(15) Batteries, chargers, carrying cases and accessories for the equipment described in paragraphs (b)(1) through (15) of this section that are designated EAR99;

(16) Consumer “software” (except “encryption source code”) classified under ECCNs 4D994, 5D991 or 5D992.c or designated EAR99 to be used for equipment described in paragraphs (b)(1) through (16) of this section.

Note 1 to paragraph (b): In this paragraph, the term “consumer” refers to items that are:

1. Generally available to the public by being sold, without restriction, from stock at retail selling points by means of any of the following:

a. Over-the-counter transactions;

b. Mail order transactions;

c. Electronic transactions; or

d. Telephone call transactions; and

2. Designed for installation by the user without further substantial support by the supplier.

* * * * *

Supplement No. 1 to Part 740 [Amended]

10. Supplement no. 1 to part 740 is amended by removing the entries for “Belarus” and “Russia” in the Country Group A table.

PART 744—END USE AND END USER CONTROLS

11. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

12. Section 744.11 is amended by revising the introductory text and paragraphs (b) introductory text and (c)(2) and adding paragraph (c)(3) to read as follows:

§ 744.11 License Requirements that Apply to Entities Acting Contrary to the National Security or Foreign Policy Interests of the United States.

BIS may impose export, reexport, and transfer (in-country) license requirements, limitations on availability of license exceptions, and set license application review policy based on the criteria in this section. Such requirements, limitations and policy are in addition to those set forth elsewhere in the EAR. License requirements, limitations on use of license exceptions, and license application review policy will be imposed under this section by adding an entity to the Entity List (supplement no. 4 to this part) with a reference to this section and by stating on the Entity List the license requirements and license application review policy that apply to that entity, or by informing an exporter, reexporter, or transferor pursuant to paragraph (c) of this section that a specific entity is subject to a license requirement, limitations on use of license exceptions and license application review policy as specified in a specific notice provided to an exporter, reexporter, or transferor. BIS may remove an entity from the Entity List if it is no longer engaged in the activities described in paragraph (b) of this section and is unlikely to engage in such activities in the future. BIS may modify the license exception limitations and license application review policy that applies to a particular entity to implement the policies of this section. BIS will implement the provisions of this section in accordance with the decisions of the End-User Review Committee or, if appropriate in a particular case, in accordance with the decisions of the body to which the End-User Review Committee decision is escalated. The End-User Review Committee will follow the procedures set forth in Supplement No. 5 to this part.

* * * * *

(b) Criteria for revising the Entity List. Entities for which there is reasonable cause to believe, based on specific and articulable facts, that the entity has been involved, is involved, or poses a significant risk of being or becoming involved in activities that are contrary to the national security or foreign policy interests of the United States and those acting on behalf of such entities may be added to the Entity List pursuant to this section. This section may not be used to place on the Entity List any party to which exports or reexports require a license pursuant to § 744.8, § 744.12, § 744.13, § 744.14 or § 744.18. This section may not be used to place any U.S. person, as defined in § 772.1 of the EAR, on the Entity List. Paragraphs (b)(1) through (5) of this section provide an illustrative list of activities that could be contrary to the national security or foreign policy interests of the United States.

* * * * *

(c) * * *

(2) The export, reexport, or transfer (in-country) of specified items to a certain party because there is an unacceptable risk that the party is acting as an agent, front, or shell company for an entity listed in supplement no. 4 to this part, or is otherwise assisting that listed entity in circumventing the license requirement set forth in that entity's entry in supplement no. 4 to this part; or

(3) The export, reexport, or transfer (in-country) of specified items to a certain party because there is reasonable cause to believe, based on specific and articulable facts, that the entity has been involved, is involved, or poses a significant risk of being or becoming involved in activities that are contrary to the national security or foreign policy interests of the United States and those acting on behalf of such entity. Specific notice will be given only by, or at the direction of, the Deputy Assistant Secretary for Export Administration. When such notice is provided orally, it will be followed by written notice within two working days signed by the Deputy Assistant Secretary for Export Administration or the Deputy Assistant Secretary's designee. The specific notice will include the license requirement, limitations on use of license exceptions, and license application review policy with which that exporter, reexporter, or transferor must comply pursuant to this paragraph (c)(3). The ERC may add such entities to the Entity List in supplement no. 4 to this part.

13. Section 744.21 is amended by revising the section heading and paragraphs (a), (b) introductory text, (b)(1) introductory text, (b)(1)(ii), (d), and (e)(1) and (3) to read as follows:

§ 744.21 Restrictions on certain `military end uses' or `military end users'.

(a) General prohibition. In addition to the license requirements for items specified on the Commerce Control List (CCL) (supplement no. 1 to part 774), you may not export, reexport, or transfer (in-country):

(1) Any item subject to the EAR listed in supplement no. 2 to this part without a license if, at the time of the export, reexport, or transfer (in-country), you have “knowledge,” as defined in § 772.1 of the EAR, that the item is intended, entirely or in part, for a `military end use,' as defined in paragraph (f) of this section, in Burma, Cambodia, the People's Republic of China (China), or Venezuela, or a Burmese, Cambodian, Chinese, or Venezuelan `military end user,' as defined in paragraph (g) of this section, wherever located. `Military end users' located outside of Burma, Cambodia, China, or Venezuela are limited to entities identified on the `Military End-User' (MEU) List under supplement no. 7 to this part.

(2) Any item subject to the EAR without a license if, at the time of the export, reexport, or transfer (in-country), you have “knowledge,” as defined in § 772.1 of the EAR that the item is intended, entirely or in part, for a `military end use,' as defined in paragraph (f) of this section, in Belarus or Russia, or a Belarusian or Russian `military end user,' as defined in paragraph (g) of this section, wherever located. Belarusian or Russian `military end users' located outside of Belarus or Russia are limited to entities identified on the Entity List under supplement no. 4 to this part 744 with a footnote 3 designation.

Note 1 to paragraphs (a)(1) and (2): An entity anywhere in the world, including in Burma, Cambodia, China, or Venezuela, may be listed on the Entity List as a Belarusian or Russian `military end user' with a footnote 3 designation. If the entity is not a Belarusian or Russian `military end user,' but has otherwise been identified by the End User Review Committee (ERC) as a `military end user,' that entity may be identified under the `Military End-User' (MEU) List under supplement no. 7 to this part. As noted in paragraph (a)(1) of this section, exporters, reexporters, and transferors, even in the absence of any such notification, are not excused from compliance with the license requirements of this paragraph (a) for all entities in Burma, Cambodia, China, or Venezuela to determine whether the entity is a `military end user' for purposes of paragraph (g) of this section because supplement no. 7 is not an exhaustive listing of `military end users' in those countries. As noted in paragraph (a)(2) of this section, exporters, reexporters, and transferors, even in the absence of any such notification, are not excused from compliance with the license requirements of this paragraph (a) for all entities in Belarus or Russia to determine whether the entity is a `military end user' for purposes of paragraph (g) of this section because supplement no. 4 under this part is not an exhaustive listing of `military end users' in those countries.

(b) Additional prohibition on those informed by BIS. BIS may inform you either individually by specific notice, through amendment to the EAR published in the Federal Register, or through a separate notification published in the Federal Register, that a license is required for specific exports, reexports, or transfers (in-country) of any item because there is an unacceptable risk of use in or diversion to a `military end use' in Belarus, Burma, Cambodia, China, the Russian Federation, or Venezuela, or for a Belarusian, Burmese, Cambodian, Chinese, Russian, or Venezuelan `military end user,' wherever located. Specific notice will be given only by, or at the direction of, the Deputy Assistant Secretary for Export Administration. When such notice is provided orally, it will be followed by written notice within two working days signed by the Deputy Assistant Secretary for Export Administration or the Deputy Assistant Secretary's designee. The absence of BIS notification does not excuse the exporter from compliance with the license requirements of paragraph (a) of this section.

(1) `Military End-User' (MEU) List. BIS may inform and provide notice to the public that certain entities are subject to the additional prohibition described under this paragraph (b) following a determination by the End-User Review Committee (ERC) that a specific entity is a `military end user' pursuant to this section and therefore any exports, reexports, or transfers (in-country) to that entity represent an unacceptable risk of use in or diversion to a `military end use' in Belarus, Burma, Cambodia, China, the Russian Federation, or Venezuela, or for a Belarusian, Burmese, Cambodian, Chinese, Russian, or Venezuelan `military end user,' wherever located. Such Burmese, Cambodian, Chinese, or Venezuelan `military end users' may be added to supplement no. 7 to this part—`Military End-User' (MEU) List. Such Belarusian or Russian `military end users' may also be added to supplement no. 4 to this part—Entity List and will be listed with a footnote 3 designation. License requirements for listed MEU are described in paragraph (b)(1)(ii) of this section. The listing of entities under supplements no. 7 or 4 to this part is not an exhaustive listing of `military end users' for purposes of this section, except for `military end users' of a country identified in this section (Belarus, Burma, Cambodia, China, the Russian Federation, or Venezuela) not located in that same country. As specified in paragraphs (a)(1) and (2) of this section, `military end users' of a country identified in this section not located in that same country are exhaustively listed on either the Entity List with a footnote 3 designation or on the Military End-User (MEU) List under supplement no. 7 this part. Exporters, reexporters, and transferors are responsible for determining whether transactions with entities not listed on supplement no. 7 or 4 to this part are subject to a license requirement under paragraph (a) of this section. The process in this paragraph (b)(1) for placing entities on the MEU List and Entity List is only one method BIS may use to inform exporters, reexporters, and transferors of license requirements under this section.

* * * * *

(ii) License requirement for parties to the transaction. Consistent with paragraph (a) of this section, a license is required for the export, reexport, or transfer (in-country) of any item subject to the EAR listed in supplement no. 2 to this part when an entity that is listed on the MEU List as a Burmese, Cambodian, Chinese, or Venezuelan `military end user' is a party to the transaction as described in § 748.5(c) through (f) of the EAR. Consistent with paragraph (a) of this section, a license is required for the export, reexport, or transfer (in-country) of any item subject to the EAR when a Belarusian or Russian `military end user' that is listed on the Entity List pursuant to this section is a party to the transaction as described in § 748.5(c) through (f) of the EAR.

* * * * *

(d) License application procedure. When submitting a license application pursuant to this section, you must state in the “additional information” block of the application that “this application is submitted because of the license requirement in this section (Restrictions on certain `military end uses' or `military end users').” In addition, either in the additional information block of the application or in an attachment to the application, you must include all known information concerning the `military end use' and `military end user(s)' of the item(s). If you submit an attachment with your license application, you must reference the attachment in the “additional information” block of the application.

(e) * * *.

(1) Applications to export, reexport, or transfer (in-country) items described in paragraph (a)(1) of this section will be reviewed with a presumption of denial. Applications to export, reexport, or transfer (in-country) items described in paragraph (a)(2) of this section will be reviewed with a policy of denial except for food and medicine designated as EAR99, which will be reviewed under a case-by-case review policy, unless otherwise stated in the license review policy column on the Entity List (supplement no. 4 to this part).

* * * * *

(3) Applications for items requiring a license for any reason that are destined for a `military end use' in Belarus, Burma, Cambodia, China, the Russian Federation, or Venezuela or for a Belarusian, Burmese, Cambodian, Chinese, Russian, or Venezuelan `military end user,' wherever located, also will be subject to the review policy stated in paragraph (e)(1) of this section.

* * * * *

14. Section 744.22 is amended by revising paragraphs (a), (b), and (f)(2) introductory text and adding paragraph (f)(2)(xi) to read as follows:

§ 744.22 Restrictions on exports, reexports, and transfers (in-country) to certain military-intelligence end uses or end users.

(a) General prohibition. In addition to the license requirements for items specified on the Commerce Control List (CCL) (supplement no. 1 to part 774 of the EAR), you may not export, reexport, or transfer (in-country) any item subject to the EAR without a license from BIS if, at the time of the export, reexport, or transfer (in-country), you have “knowledge” that the item is intended, entirely or in part, for a `military-intelligence end use' in Belarus, Burma, Cambodia, the People's Republic of China (China), Russia, or Venezuela; or a country listed in Country Groups E:1 or E:2 (see supplement no. 1 to part 740 of the EAR), or for a Belarusian, Burmese, Cambodian, Chinese, Russian, or Venezuelan `military-intelligence end user' or a `military-intelligence end user' of a country listed in Country Group E:1 or E:2, wherever located. `Military intelligence end-users' located outside of Belarus, Burma, Cambodia, the People's Republic of China (China), Russia, or Venezuela; or a country listed in Country Groups E:1 or E:2, are limited to entities identified under paragraph (f)(2) of this section.

(b) Additional prohibition on those informed by BIS. BIS may inform you either individually by specific notice, through amendment to the EAR published in the Federal Register, or through a separate notification published in the Federal Register, that a license is required for specific exports, reexports, or transfers (in-country) of any item subject to the EAR because there is an unacceptable risk of use in, or diversion to, a `military-intelligence end use' in Belarus, Burma, Cambodia, China, Russia, or Venezuela; or a country listed in Country Group E:1 or E:2 (see supplement no. 1 to part 740 of the EAR), or for a Belarusian, Burmese, Cambodian, Chinese, Russian, or Venezuelan `military-intelligence end user' or a `military-intelligence end user' of a country listed in Country Group E:1 or E:2, wherever located.

* * * * *

(f) * * *

(2) `Military-intelligence end user' means any intelligence or reconnaissance organization of the armed services (army, navy, marine, air force, or coast guard); or national guard. For license requirements applicable to other government intelligence or reconnaissance organizations of these countries, see § 744.21. `Military-intelligence end users' subject to the license requirements set forth in this section located in Belarus, Burma, Cambodia, China, Russia, or Venezuela; or a country listed in Country Groups E:1 or E:2 (see supplement no. 1 to part 740 of the EAR) include, but are not limited to, the `military-intelligence end users' identified in this paragraph (f)(2). For `military-intelligence end users' located in all other countries this paragraph (f)(2) is an exhaustive listing.

* * * * *

(xi) Other countries. Paragraph (f)(2)(ix) of this section identifies `military-intelligence end users' located in all countries other than those identified in paragraphs (f)(2)(i) through (x) of this section.

15. Supplement No. 4 to part 744 is amended:

a. Under CHINA by revising the entries for “Connec Electronic Ltd.,” “King Pai Technology Co., Ltd.,” “Sinno Electronics Co., Ltd.,” “Winninc Electronic,” and “World Jetta (H.K.) Logistics Limited”;

b. Under LITHUANIA by revising the entry for “Sinno Electronics”;

c. Under RUSSIA by revising the entry for “KingPai Technology Int'l Co., Limited”;

d. Under UNITED KINGDOM by revising the entry for “Connec Electronic”;

e. Under UZBEKISTAN by revising the entry for “Promcomplektlogistic Private Company”; and

f. Under VIETNAM by revising the entry for “KingPai Technology Int'l Co., Limited”.

The revisions read as follows:

Supplement No. 4 to Part 744—Entity List

* * * * *

Country | Entity | License requirement | License review policy | Federal Register citation
* * * * * * *
CHINA, PEOPLE'S REPUBLIC OF | * * * * * *
| Connec Electronic Ltd., a.k.a., the following two aliases: —Suzhou Konecot Electronics; and —Suzhou Ke Nai Ke Te Dianzi Youxian Gongsi. Room 1110, No 168, Fenjiang Road, Mudu Town, Wuzhong District, Suzhou City, China; and 5015 East Shennan Rd, Shenzhen, China; and 10/F., Flat U Valiant Industrial Centre, 2 to 12 Au Pui Wan Street, Hong Kong. (See alternate addresses under United Kingdom). | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
| * * * * * *
| King Pai Technology Co., Ltd., a.k.a., the following four aliases: —King-Pai Technology (HK) Co., Limited; —KingPai Technology Int'l Co., Limited; —KingPai Technology Group Co., Limited; and —Jinpai Technology (Hong Kong) Co., Ltd. | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
| No 13 4/F., Flourish Industrial Building, No. 33 Sheung Yee Road, Kowloon Bay, Kowloon, Hong Kong; and 1488E, Block A, Shenfang Building, Huaqiang North Road, Futian District, Shenzhen, China; and Room 804, Block A, Shenfang Building, Huaqiang North Road, Futian District, Shenzhen, China; and Room 1508, Block A, Shenfang Building, Huaqiang North Road, Futian District, Shenzhen, China; and Room 1509, Block A, Shenfang Building, Huaqiang North Road, Futian District, Shenzhen, China; and Room 1805, Poly Tianyue Center, 332 Gaoxin Guanshan Avenue, East Lake, Wuhan, China; and 908 International Finance Building, No 633, Keji 2nd Street, Songbei District, Harbin, Heilongjiang, China. (See alternate addresses under Russia and Vietnam).
| * * * * * *
| Sinno Electronics Co., Ltd., a.k.a., the following one alias: —Xinnuo Electronic Technology. Rm 2408 Dynamic World Building, Zhonghang Rd, Futian District, Shenzhen, China; and Rm 10905 Xingda Garden Building, Kaiyuan Rod, Xingsha Development Area, Changsha, China; and Rm B22, 1F, Block B East Sun Industrial Centre, 16 Shing Yip Street, Kwun Tong, Kowloon, Hong Kong. (See alternate address under Lithuania). | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
| * * * * * *
| Winninc Electronic, Gaokede Building, Huaqiang North, Shenzhen, China; and 1203 High Technology Building, Guangbutun Wuchang District, Wuhan, China; and #4 Dong Aocheng 1618, Nanshan District, Shenzhen, China; and 2818 Glittery City Shennan Middle Road, Shenzhen, China; and Unit 01 & 03, 1/F Lai Sun Yuen Long, No. 27 Wang Yip Street East, Yuen Long, N.T., Hong Kong; and Unit 04, 8/F Bright Way Tower No. 33 Mong Kok Rd Konglong, Hong Kong. | For all items subject to the EAR (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
| * * * * * *
| World Jetta (H.K.) Logistics Limited, a.k.a., the following one alias: —Hong Kong Shijieda Logistics. 1017 Building B Jiahe Huangqiang Block, Futian District, Shenzhen, China. | For all items subject to the EAR (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
| * * * * * *
* * * * * * *
LITHUANIA | Sinno Electronics, Kirtimu G 41, Vilnius, Lithuania. (See alternate address under China). | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
* * * * * * *
RUSSIA | * * * * * *
| KingPai Technology Int'l Co., Limited, 3 Gostnichnaya St, Moscow, Russia. (See alternate addresses under China and Vietnam). | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR 38925, 6/30/22. 87 FR [INSERT FR PAGE NUMBER AND 9/16/22].
| * * * * * *
* * * * * * *
UNITED KINGDOM | * * * * * *
| Connec Electronic, 36 Gerrard Street, London, England, United Kingdom; and 38 John Ashby Close, London, England, United Kingdom. (See alternate addresses under China). | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
| * * * * * *
UZBEKISTAN | Promcomplektlogistic Private Company, a.k.a., the following one alias: —Private Enterprise Promcomplektlogistic. 16 A Navoi St, Shaykhantakhur Region, Tashkent, Uzbekistan. | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
VIETNAM | * * * * * *
| KingPai Technology Int'l Co., Limited, 143-6th Street, 1 Town, Linh Xuan Ward, Thu Duc District, Ho Chi Minh City, Vietnam. (See alternate addresses under China and Russia). | For all items subject to the EAR. (See §§ 734.9(g),³ 746.8(a)(3), and 744.21(b) of the EAR.) | Policy of Denial for all items subject to the EAR apart from food and medicine designated as EAR99, which will be reviewed on a case-by-case basis. See §§ 746.8(b) and 744.21(e) | 87 FR 38925, 6/30/22. 87 FR [INSERT FR PAGE NUMBER AND 9/16/22].
* * * * * *
³ For this entity, “items subject to the EAR” includes foreign-produced items that are subject to the EAR under § 734.9(g) of the EAR. See §§ 746.8 and 744.21 of the EAR for related license requirements, license review policy, and restrictions on license exceptions.

PART 746—EMBARGOES AND OTHER SPECIAL CONTROLS

16. The authority citation for 15 CFR part 746 continues to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 6, 2021, 86 FR 26793 (May 10, 2021).

17. Section 746.5 is amended by:

a. Revising the section heading;

b. Revising paragraphs (a)(1)(i) through (iii);

c. Adding paragraph (a)(1)(iv);

d. Revising the first sentence in paragraph (a)(2); and

e. Revising paragraphs (b) and (c).

The revisions and addition read as follows:

§ 746.5 Russian and Belarusian industry sector sanctions.

(a) * * *

(1) * * *

(i) A license is required to export, reexport, or transfer (in-country) any item subject to the EAR listed in supplement no. 2 to this part and items specified in ECCNs 0A998, 1C992, 3A229, 3A231, 3A232, 6A991, 8A992, and 8D999 when you “know” that the item will be used directly or indirectly in exploration for, or production of, oil or gas in Russian deepwater (greater than 500 feet) or Arctic offshore locations or shale formations in Russia or Belarus, or are unable to determine whether the item will be used in such projects. Such items include, but are not limited to, drilling rigs, parts for horizontal drilling, drilling and completion equipment, subsea processing equipment, Arctic-capable marine equipment, wireline and down hole motors and equipment, drill pipe and casing, software for hydraulic fracturing, high pressure pumps, seismic acquisition equipment, remotely operated vehicles, compressors, expanders, valves, and risers.

(ii) A license is required to export, reexport, or transfer (in-country) any item subject to the EAR listed in supplement no. 4 to this part to or within Russia or Belarus.

(iii) A license is required to export, reexport, or transfer (in-country) any item subject to the EAR listed in supplement no. 6 to this part to or within Russia or Belarus.

(iv) You should be aware that other provisions of the EAR, including parts 742 and 744 and § 746.8, also apply to exports, reexports, and transfers (in-country) to Russia or Belarus. License applications submitted to BIS under this section may include the phrase “§ 746.5(a)(1)(i)”, “§ 746.5(a)(1)(ii)”, or “§ 746.5(a)(1)(iii)” in Block 9 (Special Purpose) as described in supplement no. 1 to part 748 of the EAR.

(2) * * * BIS may inform persons, either individually by specific notice or through amendment to the EAR, that a license is required for a specific export, reexport, or transfer (in-country) or for the export, reexport, or transfer (in-country) of specified items to a certain end-user or end-use, because there is an unacceptable risk of use in, or diversion to, the activities specified in paragraph (a)(1) of this section in Russia or Belarus. * * *

(b) Licensing policy. (1) Applications for the export, reexport, or transfer (in-country) of any item pursuant to paragraph (a)(1)(i) of this section that requires a license for Russia or Belarus will be reviewed under a policy of denial when for use directly or indirectly for exploration or production from deepwater (greater than 500 feet), Arctic offshore, or shale projects in Russia or Belarus that have the potential to produce oil or gas, except that applications for export, reexport, or transfer (in-country) of items that may be necessary for health and safety reasons will be reviewed under a case-by case license review policy.

(2) Applications for the export, reexport, or transfer (in-country) of any item pursuant to paragraph (a)(1)(ii) or (iii) of this section that requires a license for Russia or Belarus will be reviewed under a policy of denial, except that applications for export, reexport, or transfer (in-country) of items that may be necessary for health and safety reasons or for items that meet humanitarian needs will be reviewed under a case-by case license review policy.

(c) License exceptions. No license exceptions may overcome the license requirements set forth in this section, except the following license exceptions identified in paragraphs (c)(1) and (2) of this section.

(1) License Exception GOV (§ 740.11(b)).

(2) License Exception CCD (§ 740.19 of the EAR).

18. Section 746.8 is amended by:

a. Revising paragraphs (a) introductory text and (a)(1);

b. Redesignating note 1 to paragraph (a) as note 2 to paragraph (a); and

c. Revising paragraphs (b) and (c)(3) and (6).

The revisions read as follows:

§ 746.8 Sanctions against Russia and Belarus.

(a) License requirements. For purposes of paragraphs (a)(1) and (2) of this section, commodities and software classified under ECCNs 5A992 or 5D992 that have been `classified in accordance with § 740.17' do not require a license to or within Russia or Belarus for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR, the wholly-owned subsidiaries, branches, or sales offices of companies headquartered in countries from Country Group A:5 and A:6 in supplement no. 1 to part 740, or joint ventures, branches, or sales offices of companies headquartered in Country Group A:5 and A:6 with other companies headquartered in Country Groups A:5 and A:6. In addition, for purposes of paragraphs (a)(1) and (2), transfers within Russia or Belarus for reexports (i.e., return) to the United States or a country in Country Group A:5 or A:6 of any item, provided the owner retains title to and control of the item at all times, do not require a license. If a license is required for a reexport to a Country Group A:5 or A:6 country from Russia or Belarus, a separate EAR authorization is required to authorize the reexport.

(1) Items classified in any ECCN on the CCL. In addition to license requirements specified on the Commerce Control List (CCL) in supplement no. 1 to part 774 of the EAR and in other provisions of the EAR, including part 744 and other sections of part 746, a license is required, excluding deemed exports and deemed reexports, to export, reexport, or transfer (in-country) to or within Russia or Belarus any item subject to the EAR and specified in any Export Control Classification Number (ECCN) on the CCL.

Note 1 to paragraph (a)(1): The exclusion for deemed exports and deemed reexports is limited to the license requirements specified in this paragraph (a)(1). Any deemed export or deemed reexport to a Russian or Belarusian national must be made in accordance with all other applicable EAR license requirements, such as CCL-based license requirements. For example, the release of NS1 controlled technology to a Russian or Belarusian national in the United States or in a third country would require a CCL-based deemed export or deemed reexport license (as applicable). Consequently, authorization (in the form of a deemed export or deemed reexport license, or license exception eligibility) would be required under the EAR notwithstanding the exclusion in this paragraph (a)(1).

* * * * *

(b) Licensing policy. With limited exceptions, applications for the export, reexport, or transfer (in-country) of any item that requires a license for export or reexport to or transfer pursuant to the requirements of this section will be reviewed with a policy of denial. The following types of license applications for licenses required under paragraphs (a)(1) and (2) of this section will be reviewed on a case-by-case basis to determine whether the transaction in question would benefit the Russian or Belarusian government or defense sector: applications related to safety of flight; applications related to maritime safety; applications for civil nuclear safety; applications to meet humanitarian needs; applications that support government space cooperation; applications for items destined to wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR, the wholly-owned subsidiaries, branches, or sales offices of companies headquartered in countries from Country Group A:5 and A:6 in supplement no. 1 to part 740, joint ventures of companies headquartered in Country Groups A:5 and A:6 with other companies headquartered in Country Groups A:5 and A:6; applications for companies headquartered in Country Groups A:5 and A:6 to support civil telecommunications infrastructure; and government-to-government activities. License applications required under paragraph (a)(3) of this section will be reviewed under a policy of denial in all cases.

(c) * * *

(3) License Exception TSU for software updates for civil end-users that are wholly-owned U.S. subsidiaries, branches, or sales offices, foreign subsidiaries, branches, or sales offices of U.S. companies that are joint ventures with other U.S. and companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§ 740.13(c) of the EAR).

* * * * *

(6) License Exception ENC for civil end-users that are wholly-owned U.S. subsidiaries, branches, or sales offices, foreign subsidiaries, branches, or sales offices of U.S. companies that are joint ventures with other U.S. companies, joint ventures of U.S. companies with companies headquartered in countries from Country Group A:5 and A:6 in supplement no. 1 to part 740 of the EAR countries, the wholly-owned subsidiaries, branches, or sales offices of companies headquartered in countries from Country Group A:5 and A:6 in supplement no. 1 to part 740, or joint ventures of companies headquartered in Country Group A:5 and A:6 with other companies headquartered in Country Groups A:5 and A:6 (§ 740.13(c) of the EAR) (§ 740.17 of the EAR).

* * * * *

19. Section 746.10 is amended by revising paragraph (b) and paragraph (c) introductory text and adding paragraph (c)(3) to read as follows:

§ 746.10 `Luxury Goods' Sanctions Against Russia and Belarus and Russian and Belarusian Oligarchs and Malign Actors.

* * * * *

(b) Licensing policy. Applications for the export, reexport, or transfer (in-country) of any item that requires a license for export or reexport to or transfer (in-country) pursuant to the requirements of this section will be reviewed with a policy of denial, except applications involving items to meet humanitarian needs will be reviewed on a case-by-case basis. The case-by-case license application review policy for items to meet humanitarian needs is included to address certain `luxury goods' items that may be used in medical devices or situations in which a case-by-case analysis is needed to determine whether a license application should be approved to meet humanitarian needs while also taking into account the applicable broader U.S. national security and foreign policy concerns.

(c) License exceptions. No license exceptions may overcome the license requirements in paragraph (a)(1) of this section except the license exceptions identified in paragraphs (c)(1) through (3) of this section. No license exceptions may overcome the license requirements in paragraph (a)(2) of this section.

* * * * *

(3) License Exception CCD (§ 740.19 of the EAR).

20. Supplement No. 4 to part 746 is amended by:

a. Revising the heading;

b. Adding a new second sentence to paragraph (a); and

c. Adding in numerical order the following entries to the table: “8418610100,” “8427204000,” “8427208020,” “8427208040,” “8442300110,” “8442300150,” “8443110000,” “8461500010,” “8461500020,” “8461500050,” “8461500090,” “8502130020,” “8502130040,” “8506600000,” “8516210000,” “8540712000,” “8540714000,” “8541100040,” “8541100050,” “8541100060,” “8541100070,” “8541100080,” “8541510000,” “8541590040,” “8541590080,” “8541600025,” “8541600060,” “8541600080,” “8541900000,” “8542310000,” “8542320015,” “8542320023,” “8542320040,” “8542320050,” “8542320060,” “8542320070,” “8542330000,” “8542390000,” “8542900000,” “8601100000,” “9006300000,” “9006400000,” “9006530205,” “9006530290,” “9006591900,” “9006592000,” “9006599500,” “9006610000,” “9006690110,” “9006690150,” “9006910002,” “9006990000,” “9026105000,” “9026107000,” “9026200000,” “9026800000,” and “9026900000.”

The revision and additions read as follows:

Supplement No. 4 to Part 746—HTS Codes and Schedule B Numbers That Require a License for Export, Reexport, and Transfer (In-Country) to or Within Russia or Belarus Pursuant to § 746.5(a)(1)(ii)

(a) * * * The items described in supplement no. 4 to part 746 include any modified or designed “components,” “parts,” “accessories,” and “attachments” therefor regardless of the Schedule B, Schedule B Description, HTS Code, or HTS Description of the “components,” “parts,” “accessories,” and “attachments,” apart from any “part” or minor “component” that is a fastener (e.g., screw, bolt, nut, nut plate, stud, insert, clip, rivet, pin), washer, spacer, insulator, grommet, bushing, spring, wire, or solder. * * *

* * * * *

Schedule B | Schedule B description | HTS code | HTS description
* * * * * * *
8418610100 | Heat Pumps Other Than Air Conditioning Machines Of Heading 8415 | 841861 | Compression Type Heat Pump Units Whose Condensers Are Heat Exchangers (Excluding Reversible Heat Pumps Capable Of Changing Temperature And Humidity) ¹.
* * * * * * *
8427204000 | Rider-Type, Counterbalanced, Self-Propelled Fork-Lift Trucks | 842720 | Self-Propelled Lifting Or Handling Trucks Powered By Other Than An Electric Motor ¹.
8427208020 | Self-Propelled Aerial Work Platforms | 842720 | Self-Propelled Lifting Or Handling Trucks Powered By Other Than An Electric Motor ¹.
8427208040 | Self-Propelled Fork-Lift And Other Works Trucks Fitted With Lifting Equip, Nesoi | 842720 | Self-Propelled Lifting Or Handling Trucks Powered By Other Than An Electric Motor ¹.
* * * * * * *
8442300110 | Phototypesetting And Composing Machines | 844230 | Machinery, Apparatus And Equipment, Nesoi, For Preparing Or Making Printing Blocks, Plates, Cylinders Or Other Printing Components ¹.
8442300150 | Machinery, Apparatus And Equipment For Preparing Or Making Printing Plates, Cylinders Or Other Printing Components, Nesoi | 844230 | Machinery, Apparatus And Equipment, Nesoi, For Preparing Or Making Printing Blocks, Plates, Cylinders Or Other Printing Components ¹.
* * * * * * *
8443110000 | Reel-Fed Offset Printing Machinery | 844311 | Offset Printing Machinery, Reel-Fed ¹.
* * * * * * *
8461500010 | Sawing Or Cutting-Off Machines, Metal Removing, Used Or Rebuilt | 846150 | Sawing Or Cutting-Off Machines For Removing Metal ¹.
8461500020 | Sawing Or Cutting-Off Machines, Metal Removing, Valued Under $3025 Each, New | 846150 | Sawing Or Cutting-Off Machines For Removing Metal ¹.
8461500050 | Sawing Or Cutting-Off Machines, Metal Removing, Numerically Controlled, Valued $2,500 And Over, New | 846150 | Sawing Or Cutting-Off Machines For Removing Metal ¹.
8461500090 | Sawing Or Cutting-Off Machines, Metal Removing, Except Numerically Controlled, Valued 3,025 Over, New | 846150 | Sawing Or Cutting-Off Machines For Removing Metal ¹.
* * * * * * *
8502130020 | Generating Sets, Electric, Diesel, Or Semidiesel, Of An Output Exceeding 375 Kva But Not Exceeding 1,000 KVA | 850213 | Generating Sets With Compression-Ignition Internal Combustion Piston (Diesel Or Semi-Diesel) Engines, Of An Output Exceeding 375 KVA ¹.
8502130040 | Generating Sets, Electric, Diesel, Of An Output Exceeding 1,000 KVA | 850213 | Generating Sets With Compression-Ignition Internal Combustion Piston (Diesel Or Semi-Diesel) Engines, Of An Output Exceeding 375 KVA ¹.
* * * * * * *
8506600000 | Primary Batteries, Air-Zinc | 850660 | Primary Cells And Primary Batteries, Air-Zinc ¹.
* * * * * * *
8516210000 | Electric Storage Heating Radiators | 851621 | Electric Storage Heating Radiators ¹.
* * * * * * *
8540712000 | Magnetrons Modified For Use In Microwave Ovens | 854071 | Magnetron Microwave Tubes ¹.
8540714000 | Magnetron Microwave Tubes, Nesoi | 854071 | Magnetron Microwave Tubes ¹.
* * * * * * *
8541100040 | Unmounted Chips Dice Wafers For Diodes Other Than Photosensitive Or Lightemitting Diodes | 854110 | Diodes, Other Than Photosensitive Or Light-Emitting Diodes ¹.
8541100050 | Zener Diodes | 854110 | Diodes, Other Than Photosensitive Or Light-Emitting Diodes ¹.
8541100060 | Microwave Diodes | 854110 | Diodes, Other Than Photosensitive Or Light-Emitting Diodes ¹.
8541100070 | Diodes Other Than Photosensitve Or Led With A Maximum Current Of 05 A Or Less | 854110 | Diodes, Other Than Photosensitive Or Light-Emitting Diodes ¹.
8541100080 | Diodes Other Than Photosensitve Or Led With A Current Greater Than 05 A | 854110 | Diodes, Other Than Photosensitive Or Light-Emitting Diodes ¹.
8541510000 | Semiconductor Based Transducers | 854151 | Semiconductor Based Transducers ¹.
8541590040 | Unmounted Chips Dice Wafers For Semiconductor Devices Nesoi | 854159 | Semiconductor Devices, Nesoi ¹.
8541590080 | Semiconductor Devices Nesoi | 854159 | Semiconductor Devices, Nesoi ¹.
8541600025 | Mounted Piezoelectric Crystals Quartz Designed For Operating Frequencies Not Exceeding 20 Mhz | 854160 | Mounted Piezoelectric Crystals ¹.
8541600060 | Mounted Piezoelectric Crystals Quartz Designed For Operating Frequencies Exceeding 20 Mhz | 854160 | Mounted Piezoelectric Crystals ¹.
8541600080 | Mounted Piezoelectric Crystals Except Quartz | 854160 | Mounted Piezoelectric Crystals ¹.
8541900000 | Diode Transistor Similar Semiconductor Device Parts | 854190 | Parts For Diodes, Transistors And Similar Semiconductor Devices; Parts For Photosensitive Semiconductor Devices And Mounted Piezoelectric Crystals ¹.
8542310000 | Electronic Integrated Circuits Processors Controllers Whnot Combined Wmemories Converters Logic Circuits Amplifiers Clock Etc | 854231 | Processors And Controllers, Electronic Integrated Circuits ¹.
8542320015 | Electric Integrated Circuits Memory Dynamic Readwrite Random Access Not Over 1 Gigabit | 854232 | Memories, Electronic Integrated Circuits ¹.
8542320023 | Electronic Integrated Circuits Memory Dynamic Readwrite Random Access Dram Over 1 Gigabit | 854232 | Memories, Electronic Integrated Circuits ¹.
8542320040 | Electric Integrated Circuits Memory Static Readwrite Random Access Sram | 854232 | Memories, Electronic Integrated Circuits ¹.
8542320050 | Electronic Integrated Circuits Electrically Erasable Programmable Readonly Memory Eeprom | 854232 | Memories, Electronic Integrated Circuits ¹.
8542320060 | Electric Integrated Circuitserasable Except Electrically Programmable Readonly Memory Eprom | 854232 | Memories, Electronic Integrated Circuits ¹.
8542320070 | Electronic Integrated Circuits Memory Nesoi | 854232 | Memories, Electronic Integrated Circuits ¹.
8542330000 | Electronic Integrated Circuits Amplifiers | 854233 | Amplifiers, Electronic Integrated Circuits ¹.
8542390000 | Electronic Integrated Circuits Nesoi | 854239 | Electronic Integrated Circuits, Nesoi ¹.
8542900000 | Electronic Integrated Circuits And Microassembly Parts | 854290 | Parts For Electronic Integrated Circuits And Microassemblies ¹.
* * * * * * *
8601100000 | Rail Locomotives Powered From An External Source Of Electricity | 860110 | Rail Locomotives Powered From An External Source Of Electricity ¹.
* * * * * * *
9006300000 | Cameras Designed For Underwater Use For Aerial Survey Or Medicalsurgical Examination Of Internal Organs Cameras For Forensic Or Criminological Use | 900630 | Cameras Designed For Underwater Use, For Aerial Survey, Or Medical/Surgical Examination Of Internal Organs; Cameras For Forensic Or Criminological Use ¹.
9006400000 | Instant Print Cameras | 900640 | Instant Print Cameras ¹.
9006530205 | Other Cameras With Throughthelens Viewfinder Single Lens Reflex Slr For Roll Film Of A Width Of 35mm | 900653 | Cameras (Still) Nesoi, For Roll Film Of A Width Of 35 Mm (1.4 Inch) ¹.
9006530290 | Photo Cameras For Roll Film Of A Width Of 35 Mm 14 Inch | 900653 | Cameras (Still) Nesoi, For Roll Film Of A Width Of 35 Mm (1.4 Inch) ¹
9006591900 | Photo Cameras For Roll Film Of A Width Less Than 35 Mm 14 Inch | 900659 | Photographic Cameras (Other Than Cinematographic), Nesoi ¹.
9006592000 | Cameras Of A Kind Used For Preparing Printing Plates Or Cylinders | 900659 | Photographic Cameras (Other Than Cinematographic), Nesoi ¹.
9006599500 | Photographic Other Than Cinematographic Cameras Nesoi | 900659 | Photographic Cameras (Other Than Cinematographic), Nesoi ¹.
9006610000 | Photographic Discharge Lamp Electronic Flashlight Apparatus | 900661 | Photographic Discharge Lamp (Electronic) Flashlight Apparatus ¹.
9006690110 | Flashbulbs Flashcubes And The Like | 900669 | Photographic Flashlight Apparatus, Nesoi ¹.
9006690150 | Photographic Flashlight Apparatus And Flashbulbs Nesoi | 900669 | Photographic Flashlight Apparatus, Nesoi ¹.
9006910002 | Parts And Accessories For Photographic Other Than Cinematographic Cameras | 900691 | Parts And Accessories For Photographic (Other Than Cinematographic) Cameras ¹.
9006990000 | Parts And Accessories Of Photographic Flashlight Apparatus And Flashbulbs Other Than Discharge Lamps Of Heading 8539 | 900699 | Parts And Accessories For Photographic Flashlight Apparatus And Flashbulbs, Nesoi ¹.
* * * * * * *
9026105000 | Flow Meters For Measuring Or Checking The Flow Or Level Of Liquids | 902610 | Instruments And Apparatus For Measuring Or Checking The Flow Or Level Of Liquids, Nesoi ¹.
9026107000 | Instruments And Apparatus For Measuring Or Checking The Flow Or Level Of Liquids Nesoi | 902610 | Instruments And Apparatus For Measuring Or Checking The Flow Or Level Of Liquids, Nesoi ¹.
9026200000 | Instruments And Apparatus For Measuring Or Checking Pressure | 902620 | Instruments And Apparatus For Measuring Or Checking Pressure Of Liquids Or Gases, Nesoi ¹.
9026800000 | Instruments And Apparatus For Measuring Or Checking Other Variables Of Liquids Or Gases Nesoi | 902680 | Instruments And Apparatus For Measuring Or Checking Other Variables Of Liquids Or Gases, Nesoi ¹.
9026900000 | Parts And Accessories For Instruments And Apparatus For Measuring Or Checking The Flow Level Pressure Or Other Variables Of Liquids Or Gases | 902690 | Parts And Accessories For Instruments And Apparatus For Measuring Or Checking The Flow, Level, Pressure Or Other Variables Of Liquids Or Gases, Nesoi ¹.
* * * * * * *
¹ Entries with a footnote 1 designation were added to supplement no. 4 to part 746 of the EAR on September 15, 2022.

21. Supplement No. 5 to part 746 is revised to read as follows:

Supplement No. 5 to Part 746—`Luxury Goods' That Require a License for Export, Reexport, and Transfer (In-Country) to or Within Russia or Belarus Pursuant to § 746.10(a)(1) and (2)

The source for the Schedule B numbers and descriptions in this list is the Bureau of the Census's Schedule B concordance of exports 2022. Census's Schedule B List 2022 can be found at www.census.gov/foreign-trade/aes/documentlibrary/#concordance. The Introduction Chapter of the Schedule B provides important information about classifying products and interpretations of the Schedule B, e.g., NESOI means Not Elsewhere Specified or Included. In addition, important information about products within a particular chapter may be found at the beginning of chapters. This supplement includes three columns consisting of the Schedule B, 2-Digit Chapter Heading, and 10-Digit Commodity Description and Per Unit Wholesale Price in the U.S. if applicable to assist exporters, reexporters, and transferors in identifying the products in this supplement. For purposes of § 746.10(a)(1) and (2), a `luxury good' means any item that is identified in this supplement. Schedule B number 8412294000 is listed in both this supplement and supplement no. 4 to this part, so exporters, reexporters, and transferors must comply with the license requirements under both §§ 746.5(a)(1)(ii) and 746.10 as applicable.

Schedule B | 2-digit chapter heading | 10-digit commodity description and per unit wholesale price in the U.S. if applicable
2203000000 | Beverages, spirits and vinegar | BEER MADE FROM MALT.
2204100000 | Beverages, spirits and vinegar | SPARKLING WINE OF FRESH GRAPES.
2204212000 | Beverages, spirits and vinegar | EFFERVESCENT WINE OF FRSH GRAPE IN CNTR 2L OR LESS.
2204214000 | Beverages, spirits and vinegar | GRAPE WINE NESOI NOV 14% ALCOHOL CNTRS 2L OR LESS.
2204217000 | Beverages, spirits and vinegar | GRAPE WINE NESOI OVER 14% ALCOHOL CNTRS 2L OR LESS.
2204220020 | Beverages, spirits and vinegar | GRAPE WINE NESOI NOV 14% ALCOHOL CNTRS > 2 < 10L.
2204220040 | Beverages, spirits and vinegar | GRAPE WINE NESOI OVER 14% ALCOHOL CNTRS > 2 < 10 L.
2204290120 | Beverages, spirits and vinegar | GRAPE WINE NESOI NOV 14% ALCOHOL CNTRS OV 10 L.
2204290140 | Beverages, spirits and vinegar | GRAPE WINE NESOI OVER 14% ALCOHOL CNTRS OV 10 L.
2204300000 | Beverages, spirits and vinegar | GRAPE MUST FERMNTATN PREV/ARRSTD BY ALCOH, EX 2009.
2205100000 | Beverages, spirits and vinegar | VERMOUTH/GRPE WINE FLAVRD WTH PLANTS ETC CTR LE 2L.
2205900000 | Beverages, spirits and vinegar | VERMOUTH/GRAPE WINE FLAVORED WTH PLANTS ETC OV 2LS.
2206001500 | Beverages, spirits and vinegar | CIDER, WHETHER STILL OR SPARKLING.
2206007000 | Beverages, spirits and vinegar | FERMENTED BEVERAGES, NESOI.
2207103000 | Beverages, spirits and vinegar | ETHYL ALCOHOL UNDENATURED 80%/HIGHER, FOR BEVERAGE.
2208200000 | Beverages, spirits and vinegar | GRAPE BRANDY.
2208306020 | Beverages, spirits and vinegar | WHISKIES, BOURBON, CONTAINERS NOT OVER 4 LITERS EA.
2208306040 | Beverages, spirits and vinegar | WHISKIES, BOURBON, CONTAINERS OVER 4 LITERS EACH.
2208309025 | Beverages, spirits and vinegar | RYE WHISKIES EX BOURBON, IN CONTAINERS NT OVER 4L.
2208309030 | Beverages, spirits and vinegar | WHISKIES EX BOURBON, IN CONTAINERS NT OV 4L, NESOI.
2208309040 | Beverages, spirits and vinegar | WHISKIES EX BOURBON, CONTAINERS OVER 4 LITERS.
2208400030 | Beverages, spirits and vinegar | RUM AND TAFIA, CONTAINERS NOT OVER 4 LITERS EACH.
2208400050 | Beverages, spirits and vinegar | RUM AND TAFIA, CONTAINERS OVER 4 LITERS.
2208500000 | Beverages, spirits and vinegar | GIN AND GENEVA.
2208600000 | Beverages, spirits and vinegar | VODKA.
2208700000 | Beverages, spirits and vinegar | LIQUEURS AND CORDIALS.
2208904600 | Beverages, spirits and vinegar | KIRSCHWASSER AND RATAFIA.
2208905100 | Beverages, spirits and vinegar | TEQUILA.
2208909002 | Beverages, spirits and vinegar | OTHER SPIRITUOUS BEVERAGES, NESOI.
2401102020 | Tobacco and manufactured tobacco substitutes | CONN. SHADE TOBACCO, NOT STEM/STRIP OV 35% WRAPPER.
2401102040 | Tobacco and manufactured tobacco substitutes | TOBACCO NOT STEM/STRIP OVER 35% WRAPPER TOB, NESOI.
2401105130 | Tobacco and manufactured tobacco substitutes | FLUE-CURED CIG LEAF TOB NT STEM/STRIP LT 35% WRPPR.
2401105160 | Tobacco and manufactured tobacco substitutes | BURLEY CIG LEAF TOBACCO NT STEM/STRIP LT 35% WRPPR.
2401105180 | Tobacco and manufactured tobacco substitutes | MARYLAND CIG LEAF TOB NOT STEM/STRIP LT 35% WRPPR.
2401105195 | Tobacco and manufactured tobacco substitutes | OTHER CIG LEAF TOB NOT STEM/STRIP LT 35% WRAPPER.
2401105340 | Tobacco and manufactured tobacco substitutes | CIGAR BINDER TOBACCO, NOT STEM/STRIP LT 35% WRAPPR.
2401108010 | Tobacco and manufactured tobacco substitutes | DARK-FIRED KY/TENN TOB NOT STEM/STRIP LT 35% WRPPR.
2401108020 | Tobacco and manufactured tobacco substitutes | VA FIRE/SUN-CURED TOB, NOT STEM/STRIP LT 35% WRPPR.
2401109530 | Tobacco and manufactured tobacco substitutes | BLACKFAT TOBACCO, NT STEM/STRIP LT 35% WRAPPER TOB.
2401109570 | Tobacco and manufactured tobacco substitutes | TOBACCO NESOI NOT STEM/STRIP, LESS THAN 35% WRPPR.
2401202020 | Tobacco and manufactured tobacco substitutes | CONN SHADE TOB STEM/STRIP NT THRESHED OV 35% WRPPR.
2401202040 | Tobacco and manufactured tobacco substitutes | TOBACCO NESOI STEM/STRIP NOT THRESHED OV 35% WRPPR.
2401202810 | Tobacco and manufactured tobacco substitutes | FLUE-CURED TOB STEM/STRIP NT THRESHED LT 35% WRPPR.
2401202820 | Tobacco and manufactured tobacco substitutes | BURLEY TOB STEM/STRIP NOT THRESHED LT 35% WRAPPER.
2401202830 | Tobacco and manufactured tobacco substitutes | MARYLAND TOB STEM/STRIP NOT THRESHED LT 35% WRPPR.
2401202970 | Tobacco and manufactured tobacco substitutes | CIGAR BIND TOB INC CIGAR LF NT THRESH LT 35% WRAPR.
2401205040 | Tobacco and manufactured tobacco substitutes | DARK-FIRED KY/TENN TOB STEM/STRIP NT THRSH LT 35% WR.
2401205050 | Tobacco and manufactured tobacco substitutes | VA FIRE/SUN-CURED TOB STEM/STRIP NT THRSH < 35% WRPR.
2401205560 | Tobacco and manufactured tobacco substitutes | BLACKFAT TOB STEM/STRIP NOT THRESHED LT 35% WRAPPR.
2401205592 | Tobacco and manufactured tobacco substitutes | TOB NESOI STEM/STRIP, NOT THRESHED LT 35% WRPR TOB.
2401206020 | Tobacco and manufactured tobacco substitutes | CONN SHADE TOB FROM CIGAR LEAF THRESHED STEM/STRIP.
2401206040 | Tobacco and manufactured tobacco substitutes | TOBACCO NESOI FROM CIGAR LEAF, THRESHED STEM/STRIP.
2401208005 | Tobacco and manufactured tobacco substitutes | CIGARETTE LEAF TOBACCO FLUE-CURED THRSH STEM/STRIP.
2401208011 | Tobacco and manufactured tobacco substitutes | TOBACCO FLUE-CURED THRESHED STEMMED/STRIPPED NESOI.
2401208015 | Tobacco and manufactured tobacco substitutes | CIGARETTE LEAF TOBACCO, BURLEY, THRESH, STEM/STRIP.
2401208021 | Tobacco and manufactured tobacco substitutes | TOBACCO, BURLEY, THRESHED, STEMMED/STRIPPED, NESOI.
2401208030 | Tobacco and manufactured tobacco substitutes | MARYLAND TOBACCO, THRESHED, STEMMED/STRIPPED.
2401208040 | Tobacco and manufactured tobacco substitutes | DARK-FIRED KENTUCKY/TENN TOBACCO THRESH STEM/STRIP.
2401208050 | Tobacco and manufactured tobacco substitutes | VA FIRE-CURED, SUN-CURED TOB THRESHED, STEM/STRIP.
2401208090 | Tobacco and manufactured tobacco substitutes | TOBACCO, THRESHED, PARTLY/WHOLLY STEM/STRIP, NESOI.
2401305000 | Tobacco and manufactured tobacco substitutes | TOBACCO STEMS.
2401309000 | Tobacco and manufactured tobacco substitutes | TOBACCO REFUSE, NESOI.
2402103030 | Tobacco and manufactured tobacco substitutes | SMALL CIGARS/CHEROOTS/CIGARILLOS W/TOB LT $.15 EA.
2402107000 | Tobacco and manufactured tobacco substitutes | CIGAR/CHEROOT/CIGARILLO CONTAINING TOBACCO NESOI.
2402200000 | Tobacco and manufactured tobacco substitutes | CIGARETTES CONTAINING TOBACCO.
2402900000 | Tobacco and manufactured tobacco substitutes | CIGAR/CHEROOT/CIGARILLO/CIGS OF TOB SUBSTITS NESOI.
2403110000 | Tobacco and manufactured tobacco substitutes | WATER PIPE TOBACCO.
2403190020 | Tobacco and manufactured tobacco substitutes | PIPE TOBACCO, IN RETAIL-SIZED PACKAGES.
2403190040 | Tobacco and manufactured tobacco substitutes | SMOKING TOBAC, EX/PIPE TOBAC, RETAIL-SIZED PKG, NES.
2403190060 | Tobacco and manufactured tobacco substitutes | SMOKING TOBACCO, NESOI.
2403910000 | Tobacco and manufactured tobacco substitutes | HOMOGENIZED OR RECONSTITUTED TOBACCO.
2403990030 | Tobacco and manufactured tobacco substitutes | CHEWING TOBACCO.
2403990040 | Tobacco and manufactured tobacco substitutes | SNUFF AND SNUFF FLOUR.
2403990050 | Tobacco and manufactured tobacco substitutes | MFG TOBACCO, SUBSTITUES, FLUE-CURED.
2403990065 | Tobacco and manufactured tobacco substitutes | PARTIALLY MANUFACTURED, BLENDED OR MIXED TOBACCO.
2403990075 | Tobacco and manufactured tobacco substitutes | MFG TOBACCO & SUBSTITUTES, NESOI, INCL EXTRACTS & ESSENCES.
2404110000 | Tobacco and manufactured tobacco substitutes | CONTAINING TOBACCO OR RECON TOBACDO, INTENDED FOR INHALATION W/O COMBUSTION.
2404120000 | Tobacco and manufactured tobacco substitutes | CONTAINING NICOTINE, INTENDED FOR INHALATION W/O COMBUSTION.
2404190000 | Tobacco and manufactured tobacco substitutes | PRODUCTS INTENDED FOR INHALATION, NESOI.
2404910000 | Tobacco and manufactured tobacco substitutes | NICOTINE PRODUCTS FOR ORAL INTAKE INTO THE HUMAN BODY.
2404920000 | Tobacco and manufactured tobacco substitutes | NICOTINE PRODUCTS INTENDED FOR TRANSDERMAL INTAKE INTO THE HUMAN BODY.
2404990000 | Tobacco and manufactured tobacco substitutes | NICOTINE PRODUCTS INTENDED FOR INTAKE INTO THE HUMAN BODY, NESOI.
3302900010 | Essential oils and resinoids; perfumery, cosmetic or toilet preparations | PERFUME OIL BLENDS, PROD USE FINISHED PERFUME BASE.
3303000000 | Essential oils and resinoids; perfumery, cosmetic or toilet preparations | PERFUMES AND TOILET WATERS.
3304100000 | Essential oils and resinoids; perfumery, cosmetic or toilet preparations | LIP MAKE-UP PREPARATIONS.
3304200000 | Essential oils and resinoids; perfumery, cosmetic or toilet preparations | EYE MAKE-UP PREPARATIONS.
3304910050 | Essential oils and resinoids; perfumery, cosmetic or toilet preparations | MAKE-UP POWDER, WHETHER/NT COMPRESSED, NESOI.
3304995000 | Essential oils and resinoids; perfumery, cosmetic or toilet preparations | BEAUTY & SKIN CARE PREPARATION, NESOI.
3307900000 | Essential oils and resinoids; perfumery, cosmetic or toilet preparations | PERFUMERY, COSMETIC OR TOILET PREPARATIONS, NESOI.
3916902000 | Plastics and articles thereof | RACQUET STRINGS, OF PLASTIC.
3926202500 | Plastics and articles thereof | GLOVES SPEC DESIGNED FOR USE IN SPORTS, PLASTIC.
3926400000 | Plastics and articles thereof | STATUETTES & OTHER ORNAMENTAL ARTICLES, OF PLASTIC.
3926903000 | Plastics and articles thereof | PARTS FOR YACHTS OR PLEASURE BOATS, ETC.
4202110000 | Articles of leather; saddlery and harness; travel goods, handbags and similar containers; articles of animal gut (other than silkworm gut) | TRUNKS, SUITCASES, ETC, SURFACE COMPS/PATENT LEATHER.
4202120000 | Articles of leather; saddlery and harness; travel goods, handbags and similar containers; articles of animal gut (other than silkworm gut) | TRUNKS, SUITCASES, ETC, SURFACE PLASTIC/TEXT MATERLS.
4202190000 | Articles of leather; saddlery and harness; travel goods, handbags and similar containers; articles of animal gut (other than silkworm gut) | TRUNKS, SUITCASES, VANITY CASES ETC, NESOI.
4202210000 | Articles of leather; saddlery and harness; travel goods, handbags and similar containers; articles of animal gut (other than silkworm gut) | HANDBAGS, SURFACE OF COMPOSITION/PATENT LEATHER.
4202220000 | Articles of leather; saddlery and harness; travel goods, handbags and similar containers; articles of animal gut (other than silkworm gut) | HANDBAGS, SURFACE OF PLASTIC SHEET/TEXT MATERIALS.
4202290000 | Articles of leather; saddlery and harness; travel goods, handbags and similar containers; articles of animal gut (other than silkworm gut) | HANDBAGS, NESOI.
4202310000 | Articles of leather; saddlery and harness; travel goods, handbags and similar containers; articles of animal gut (other than silkworm gut) | ARTICLES FOR POCKET OR HANDBAG, COMP/PATENT LEATHER.
4202320000 | Articles of leather; saddlery and harness; travel goods, handbags and similar containers; articles of animal gut (other than silkworm gut) | ARTICLES FOR POCKET/HANDBAG, PLASTIC/TEXT MATERIAL.
4202390000 | Articles of leather; saddlery and harness; travel goods, handbags and similar containers; articles of animal gut (other than silkworm gut) | ARTICLES FOR POCKET OR HANDBAG, NESOI.
4202910010 | Articles of leather; saddlery and harness; travel goods, handbags and similar containers; articles of animal gut (other than silkworm gut) | GOLF BAGS, OUTER SURFACE LEATHER.
4202910040 | Articles of leather; saddlery and harness; travel goods, handbags and similar containers; articles of animal gut (other than silkworm gut) | OTHER BAGS, OUTER SURFACE COMPS/PATENT LEATH, NESOI.
4202990000 | Articles of leather; saddlery and harness; travel goods, handbags and similar containers; articles of animal gut (other than silkworm gut) | CASES, BAGS & CONT, OTHER OF MATR/COVERINGS, NESOI.
4203400000 | Articles of leather; saddlery and harness; travel goods, handbags and similar containers; articles of animal gut (other than silkworm gut) | OTH CLOTHING ACCESSORIES, LEATHER/COMPOS LEATHER.
4301100000 | Furskins and artificial fur; manufactures thereof | MINK FURSKINS, RAW, WHOLE.
4301300000 | Furskins and artificial fur; manufactures thereof | ASTRAKHAN, INDIAN, ETC LAMB FURSKINS, RAW, WHOLE.
4301600000 | Furskins and artificial fur; manufactures thereof | FOX FURSKINS, RAW, WHOLE.
4301800210 | Furskins and artificial fur; manufactures thereof | NUTRIA FURSKINS, RAW, WHOLE.
4301800297 | Furskins and artificial fur; manufactures thereof | FURSKINS NESOI, RAW, WHOLE.
4301900000 | Furskins and artificial fur; manufactures thereof | HEADS/PCS, CUTTINGS ETC FURSKINS FOR FURRIERS' USE.
4302110000 | Furskins and artificial fur; manufactures thereof | MINK FURSKINS, WHOLE, TANNED/DRESSED NOT ASSEMBLED.
4302191300 | Furskins and artificial fur; manufactures thereof | PERSIAN ETC LAMB FURSKIN WHOLE TANNED NOT ASSEMBLE.
4302195000 | Furskins and artificial fur; manufactures thereof | FURSKINS NESOI, WHOLE TANNED/DRESSED NOT ASSEMBLED.
4302200000 | Furskins and artificial fur; manufactures thereof | FURSKIN PIECES/CUTTINGS TANNED/DRESSED NT ASSEMBLD.
4302300000 | Furskins and artificial fur; manufactures thereof | FURSKINS, WHOLE AND PIECES, TANNED, ASSEMBLED.
4303100030 | Furskins and artificial fur; manufactures thereof | MINK FURSKIN ARTICLES, APPAREL, CLOTHING ACCESSORY.
4303100060 | Furskins and artificial fur; manufactures thereof | FURSKIN ARTICLE APPAREL CLOTHING ACCESSORIES NESOI.
4303900000 | Furskins and artificial fur; manufactures thereof | ARTICLES OF FURSKINS, NESOI.
4304000000 | Furskins and artificial fur; manufactures thereof | ARTIFICIAL FUR AND ARTICLES THEREOF.
4420110000 | Wood and articles of wood; wood charcoal | STATUETTES AND OTHER ORNAMENTS OF TROPICAL WOOD.
4420190000 | Wood and articles of wood; wood charcoal | STATUETTES AND OTHER ORNAMENTS, OF WOOD, NESOI.
4907000000 | Printed books, newspapers, pictures and other products of the printing industry; manuscripts, typescripts and plans | UNUSED POSTAGE; BANKNOTES; CHECK FORMS; STOCK, ETC.
5001000000 | Silk | SILKWORM COCOONS SUITABLE FOR REELING, AND VALUED AT $300 PER UNIT WHOLESALE PRICE IN THE U.S.
5002000000 | Silk | RAW SILK (NOT THROWN), AND VALUED AT $300 PER UNIT WHOLESALE PRICE IN THE U.S.
5003001000 | Silk | SILK WASTE, NOT CARDED OR COMBED, AND VALUED AT $300 PER UNIT WHOLESALE PRICE IN THE U.S.
5003009000 | Silk | SILK WASTE, OTHER, AND VALUED AT $300 PER UNIT WHOLESALE PRICE IN THE U.S.
5004000000 | Silk | SILK YARN NOT PUT UP FOR RETAIL SALE, AND VALUED AT $300 PER UNIT WHOLESALE PRICE IN THE U.S.
5005000000 | Silk | YARN SPUN FROM SILK WASTE NOT PUT UP RETAIL SALE, AND VALUED AT $300 PER UNIT WHOLESALE PRICE IN THE U.S.
5006000000 | Silk | SILK YARN&YARN/SILK WASTE, RETAIL SALE, SILKWORM GUT, AND VALUED AT $300 PER UNIT WHOLESALE PRICE IN THE U.S.
5007100000 | Silk | WOVEN FABRICS OF NOIL SILK, AND VALUED AT $300 PER UNIT WHOLESALE PRICE IN THE U.S.
5007200000 | Silk | OTHER FABRICS GE 85% SILK/SILK WASTE, NOT NOIL SILK, AND VALUED AT $300 PER UNIT WHOLESALE PRICE IN THE U.S.
5007900000 | Silk | WOVEN FABRICS OF SILK OR SILK WASTE—OTHER NESOI, AND VALUED AT $300 PER UNIT WHOLESALE PRICE IN THE U.S.
5603941000 | Wadding, felt and nonwovens; special yarns, twine, cordage, ropes and cables and articles thereof | NONWOV GT 150G/M2, NT MMF FLOOR COVERING UNDERLAYS, AND VALUED AT $300 PER UNIT WHOLESALE PRICE IN THE U.S.
5701100000 | Carpets and other textile floor coverings | CARPETS&OTH TEX FLOOR COVR, WOOL/FINE ANML HR, KNOTD, AND VALUED AT $300 PER UNIT WHOLESALE PRICE IN THE U.S.
5701900000 | Carpets and other textile floor coverings | CARPETS&OTH TEX FLOOR COVR, OTH TEX MATERIALS, KNOTD, AND VALUED AT $300 PER UNIT WHOLESALE PRICE IN THE U.S.
5702100000 | Carpets and other textile floor coverings | KELEM, SCHUMACKS, KARAMANIE, &SIMILAR HAND-WOVEN RUGS, AND VALUED AT $300 PER UNIT WHOLESALE PRICE IN THE U.S.
5702200000 | Carpets and other textile floor coverings | FLOOR COVERINGS OF COCONUT FIBERS (COIR), WOVEN, AND VALUED AT $300 PER UNIT WHOLESALE PRICE IN THE U.S.
5702310000 | Carpets and other textile floor coverings | CARPETS, ETC OF WOOL/FINE ANIMAL HR, PILE, NT MADE-UP, AND VALUED AT $300 PER UNIT WHOLESALE PRICE IN THE U.S.
5702320000 | Carpets and other textile floor coverings | CARPETS, ETC OF MMF TEXTL MATERIAL, PILE, NOT MADE-UP, AND VALUED AT $300 PER UNIT WHOLESALE PRICE IN THE U.S.
5702390000 | Carpets and other textile floor coverings | CARPETS, ETC OF OTHER TEXTL MATERL, PILE, NOT MADE-UP, AND VALUED AT $300 PER UNIT WHOLESALE PRICE IN THE U.S.
5702410000 | Carpets and other textile floor coverings | CARPETS, ETC OF WOOL/FINE ANIMAL HAIR, PILE, MADE-UP, AND VALUED AT $300 PER UNIT WHOLESALE PRICE IN THE U.S.
5702420000 | Carpets and other textile floor coverings | CARPETS, ETC OF MMF TEXTILE MATERIALSS, PILE, MADE-U, AND VALUED AT $300 PER UNIT WHOLESALE PRICE IN THE U.S.
5702490000 | Carpets and other textile floor coverings | CARPETS, ETC OTHR TEX MATRL, PILE, MADE-UP, NOT TUFTED, AND VALUED AT $300 PER UNIT WHOLESALE PRICE IN THE U.S.
5702503000 | Carpets and other textile floor coverings | CARPETS, ETC WOOL/FINE ANML HR, WOVN, NOT PILE/MDE-UP, AND VALUED AT $300 PER UNIT WHOLESALE PRICE IN THE U.S.
5702505200 | Carpets and other textile floor coverings | TEX CARPETS, WOV NT PILE, MM TEX MAT, NT MADE UP, AND VALUED AT $300 PER UNIT WHOLESALE PRICE IN THE U.S.
5702509000 | Carpets and other textile floor coverings | CARPETS, ETC OTHR TEX MAT, WOV, NOT PILE/MADE-UP/TUFT, AND VALUED AT $300 PER UNIT WHOLESALE PRICE IN THE U.S.
5702910000 | Carpets and other textile floor coverings | CARPETS, ETC WOOL/FINE ANML HR, WOVN, MADE-UP, NT PILE, AND VALUED AT $300 PER UNIT WHOLESALE PRICE IN THE U.S.
5702920000 | Carpets and other textile floor coverings | TEXTILE CARPETS, WOV NO PILE, MMF, MADE UP, AND VALUED AT $300 PER UNIT WHOLESALE PRICE IN THE U.S.
5702990000 | Carpets and other textile floor coverings | CARPETS, ETC OTHR TEX MAT, WOV, MADE-UP, NOTPILE/TUFT, AND VALUED AT $300 PER UNIT WHOLESALE PRICE IN THE U.S.
5703100000 | Carpets and other textile floor coverings | TEXTILE CARPETS, TUFTED, OF WOOL, AND VALUED AT $300 PER UNIT WHOLESALE PRICE IN THE U.S.
5703210000 | Carpets and other textile floor coverings | TURF OF NYLON OR OTHER POLYAMIDES, AND VALUED AT $300 PER UNIT WHOLESALE PRICE IN THE U.S.
5703290000 | Carpets and other textile floor coverings | CARPETS, ETC, NYLON/OTHR POLYAMIDES, TUFTD, W/N MDE-UP, NESOI, AND VALUED AT $300 PER UNIT WHOLESALE PRICE IN THE U.S.
5703310000 | Carpets and other textile floor coverings | TURF OF OTHER MAN-MADE TEXTILE MATERIALS, AND VALUED AT $300 PER UNIT WHOLESALE PRICE IN THE U.S.
5703390000 | Carpets and other textile floor coverings | CARPETS, ETC, TUFTED, W/N MDE-UP, NESOI, AND VALUED AT $300 PER UNIT WHOLESALE PRICE IN THE U.S.
5703900000 | Carpets and other textile floor coverings | TEXTILE CARPETS, TUFTED, TEXTILE MATERIALS NESOI, AND VALUED AT $300 PER UNIT WHOLESALE PRICE IN THE U.S.
5704100000 | Carpets and other textile floor coverings | TEXTILE CARPETS, FELT, NO TUFT, TILES SUR NOV .3M2, AND VALUED AT $300 PER UNIT WHOLESALE PRICE IN THE U.S.
5704200000 | Carpets and other textile floor coverings | TEXTILE CARPETS, FELT, NOT TUFTED, SA 0.3M2 & 1M2, AND VALUED AT $300 PER UNIT WHOLESALE PRICE IN THE U.S.
5704900100 | Carpets and other textile floor coverings | TEXTILE CARPETS, FELT, NOT TUFTED, SA OTHER, AND VALUED AT $300 PER UNIT WHOLESALE PRICE IN THE U.S.
5705000000 | Carpets and other textile floor coverings | OTHR CARPETS&OTHR TEX FLOOR COV, WHETHR/NOT MADE-UP, AND VALUED AT $300 PER UNIT WHOLESALE PRICE IN THE U.S.
5805000000 | Special woven fabrics; tufted textile fabrics; lace, tapestries; trimmings; embroidery | HAND-WOV TAPESTR WALL HANG USE ONLY GT $251/SQ MTR.
5806393010 | Special woven fabrics; tufted textile fabrics; lace, tapestries; trimmings; embroidery | NAR WOV FAB 85% OR MORE BY WGT SILK, NESOI.
5905000000 | Impregnated, coated, covered or laminated textile fabrics; textile articles of a kind suitable for industrial use | TEXTILE WALL COVERINGS, AND VALUED AT $300 PER UNIT WHOLESALE PRICE IN THE U.S.
6110301070 | Articles of apparel and clothing accessories, knitted or crocheted | M/B SWEATERS OF MMF CONT 25% MORE LEATHER, KNIT, AND VALUED AT $300 PER UNIT WHOLESALE PRICE IN THE U.S.
6110301080 | Articles of apparel and clothing accessories, knitted or crocheted | W/G VESTS EX SWEATER OF MMF CONT 25% LEATHER, KNIT, AND VALUED AT $300 PER UNIT WHOLESALE PRICE IN THE U.S.
6110301570 | Articles of apparel and clothing accessories, knitted or crocheted | M/B SWEATERS & SIMILAR ART MMF GE 23% W/FAH KNIT, AND VALUED AT $300 PER UNIT WHOLESALE PRICE IN THE U.S.
6110301580 | Articles of apparel and clothing accessories, knitted or crocheted | W/G SWEATRS, PULLOVRS, SIM ARTS MMF GE 23% W/FAH KNT, AND VALUED AT $300 PER UNIT WHOLESALE PRICE IN THE U.S.
6110302070 | Articles of apparel and clothing accessories, knitted or crocheted | M/B SWEATERS & SIM ART MMF GE 30% SLK, SLK WST KNIT, AND VALUED AT $300 PER UNIT WHOLESALE PRICE IN THE U.S.
6110302080 | Articles of apparel and clothing accessories, knitted or crocheted | W/G SWEATRS, PULLOVERS, SIM ARTS MMF GE 30% SLK KNIT, AND VALUED AT $300 PER UNIT WHOLESALE PRICE IN THE U.S.
6112110015 | Articles of apparel and clothing accessories, knitted or crocheted | M/B JACKETS FOR TRACK SUITS ETC COTTON, KNIT, AND VALUED AT $300 PER UNIT WHOLESALE PRICE IN THE U.S.
6112110035 | Articles of apparel and clothing accessories, knitted or crocheted | W/G JACKETS FOR TRACK SUITS ETC OF COTTON, KNIT, AND VALUED AT $300 PER UNIT WHOLESALE PRICE IN THE U.S.
6112110050 | Articles of apparel and clothing accessories, knitted or crocheted | M/B TROUSERS FOR TRACK SUITS OF COTTON, KNIT, AND VALUED AT $300 PER UNIT WHOLESALE PRICE IN THE U.S.
6112110060 | Articles of apparel and clothing accessories, knitted or crocheted | W/G TROUSERS FOR TRACK SUITS OF COTTON, KNIT, AND VALUED AT $300 PER UNIT WHOLESALE PRICE IN THE U.S.
6112120015 | Articles of apparel and clothing accessories, knitted or crocheted | M/B JACKETS FOR TRACK SUITS ETC SYN FIBERS, KNIT, AND VALUED AT $300 PER UNIT WHOLESALE PRICE IN THE U.S.
6112120035 | Articles of apparel and clothing accessories, knitted or crocheted | W/G JACKETS FOR TRACK SUITS ETC SYN FIBERS, KNIT, AND VALUED AT $300 PER UNIT WHOLESALE PRICE IN THE U.S.
6112120050 | Articles of apparel and clothing accessories, knitted or crocheted | M/B TROUSERS FOR TRACK SUITS OF SYN FIBERS, KNIT, AND VALUED AT $300 PER UNIT WHOLESALE PRICE IN THE U.S.
6112120060 | Articles of apparel and clothing accessories, knitted or crocheted | W/G TROUSERS FOR TRACK SUITS OF SYN FIBERS, KNIT, AND VALUED AT $300 PER UNIT WHOLESALE PRICE IN THE U.S.
6112191000 | Articles of apparel and clothing accessories, knitted or crocheted | TRACK WARM-UP AND JOGGING SUITS ARTIFICIAL FIB, KT, AND VALUED AT $300 PER UNIT WHOLESALE PRICE IN THE U.S.
6112192000 | Articles of apparel and clothing accessories, knitted or crocheted | TRACK WARM-UP & JOGGING SUITS OT TEXTILE FIBER, KT, AND VALUED AT $300 PER UNIT WHOLESALE PRICE IN THE U.S.
6112201000 | Articles of apparel and clothing accessories, knitted or crocheted | SKI SUITS OF MANMADE FIBERS, KNITTED OR CROCHETED, AND VALUED AT $300 PER UNIT WHOLESALE PRICE IN THE U.S.
6112202000 | Articles of apparel and clothing accessories, knitted or crocheted | SKI SUITS OF OTHER TEXTILE MATERIALS, KNITTED OR C, AND VALUED AT $300 PER UNIT WHOLESALE PRICE IN THE U.S.
6112310000 | Articles of apparel and clothing accessories, knitted or crocheted | MEN'S OR BOYS' SWIMWEAR OF SYNTHETIC FIBERS, KNITT, AND VALUED AT $300 PER UNIT WHOLESALE PRICE IN THE U.S.
6112390000 | Articles of apparel and clothing accessories, knitted or crocheted | M/B SWIMWEAR OF OTHER TEXTILE MATERIALS, KNIT, AND VALUED AT $300 PER UNIT WHOLESALE PRICE IN THE U.S.
6112410000 | Articles of apparel and clothing accessories, knitted or crocheted | WOMEN'S OR GIRLS' SWIMWEAR SYNTHETIC FIBERS, KNIT, AND VALUED AT $300 PER UNIT WHOLESALE PRICE IN THE U.S.
6112490000 | Articles of apparel and clothing accessories, knitted or crocheted | W/G SWIMWEAR OF OTHER TEXTILE MATERIALS, KNIT, AND VALUED AT $300 PER UNIT WHOLESALE PRICE IN THE U.S.
6206100000 | Articles of apparel and clothing accessories, not knitted or crocheted | W/G BLOUSES, SHIRTS AND SHIRT BLOUSES SILK, NT KT, AND VALUED AT $300 PER UNIT WHOLESALE PRICE IN THE U.S.
6211110000 | Articles of apparel and clothing accessories, not knitted or crocheted | MEN'S OR BOYS' SWIMWEAR, NOT KNITTED OR CROCHETED, AND VALUED AT $300 PER UNIT WHOLESALE PRICE IN THE U.S.
6211120000 | Articles of apparel and clothing accessories, not knitted or crocheted | WOMEN'S OR GIRLS' SWIMWEAR, NOT KNITTED OR CROCHET, AND VALUED AT $300 PER UNIT WHOLESALE PRICE IN THE U.S.
6211201500 | Articles of apparel and clothing accessories, not knitted or crocheted | WATER RESIST SKI-SUITS, NT KNITTED/CROCHETED NESOI, AND VALUED AT $300 PER UNIT WHOLESALE PRICE IN THE U.S.
6213900600 | Articles of apparel and clothing accessories, not knitted or crocheted | HANDKERCHIEFS, OF SILK OR SILK WASTE, AND VALUED AT $300 PER UNIT WHOLESALE PRICE IN THE U.S.
6214100000 | Articles of apparel and clothing accessories, not knitted or crocheted | SHAWLS SCARVES MUFFLERS MANTILLAS SILK SILK WASTE, AND VALUED AT $300 PER UNIT WHOLESALE PRICE IN THE U.S.
6215100000 | Articles of apparel and clothing accessories, not knitted or crocheted | TIES, BOW TIES AND CRAVATS, OF SILK OR SILK WASTE, AND VALUED AT $300 PER UNIT WHOLESALE PRICE IN THE U.S.
6301200000 | Other made up textile articles; sets; worn clothing and worn textile articles; rags | BLANKETS (NT ELEC) & TRAVELING RUGS OF WOOL HAIR, AND VALUED AT $300 PER UNIT WHOLESALE PRICE IN THE U.S.
6301300000 | Other made up textile articles; sets; worn clothing and worn textile articles; rags | BLANKETS (NT ELEC) & TRAVELING RUGS OF COTTON, AND VALUED AT $300 PER UNIT WHOLESALE PRICE IN THE U.S.
6301400000 | Other made up textile articles; sets; worn clothing and worn textile articles; rags | BLNKET (NT ELEC) & TRAVELING RUGS OF SYNTHETIC FIB, AND VALUED AT $300 PER UNIT WHOLESALE PRICE IN THE U.S.
6301900000 | Other made up textile articles; sets; worn clothing and worn textile articles; rags | OTHER BLANKETS AND TRAVELING RUGS, AND VALUED AT $300 PER UNIT WHOLESALE PRICE IN THE U.S.
6306221000 | Other made up textile articles; sets; worn clothing and worn textile articles; rags | BACKPACKING TENTS OF SYNTHETIC FIBERS, AND VALUED AT $300 PER UNIT WHOLESALE PRICE IN THE U.S.
6306229000 | Other made up textile articles; sets; worn clothing and worn textile articles; rags | TENTS OF SYNTHETIC FIBERS, NESOI, AND VALUED AT $300 PER UNIT WHOLESALE PRICE IN THE U.S.
6306291100 | Other made up textile articles; sets; worn clothing and worn textile articles; rags | TENTS, OF COTTON, AND VALUED AT $300 PER UNIT WHOLESALE PRICE IN THE U.S.
6306292100 | Other made up textile articles; sets; worn clothing and worn textile articles; rags | TENTS OF TEXTILE MATERIALS NESOI, AND VALUED AT $300 PER UNIT WHOLESALE PRICE IN THE U.S.
6306300010 | Other made up textile articles; sets; worn clothing and worn textile articles; rags | SAILS OF SYNTHETIC FIBERS, AND VALUED AT $300 PER UNIT WHOLESALE PRICE IN THE U.S.
6306300020 | Other made up textile articles; sets; worn clothing and worn textile articles; rags | SAILS OF TEXTILE MATERIALS NESOI, AND VALUED AT $300 PER UNIT WHOLESALE PRICE IN THE U.S.
6306901000 | Other made up textile articles; sets; worn clothing and worn textile articles; rags | CAMPING GOODS, NESOI, OF COTTON, AND VALUED AT $300 PER UNIT WHOLESALE PRICE IN THE U.S.
6306905000 | Other made up textile articles; sets; worn clothing and worn textile articles; rags | CAMPING GOODS OF TEXTILE MATERIALS NESOI, AND VALUED AT $300 PER UNIT WHOLESALE PRICE IN THE U.S.
6307200000 | Other made up textile articles; sets; worn clothing and worn textile articles; rags | LIFEJACKETS AND LIFEBELTS, AND VALUED AT $300 PER UNIT WHOLESALE PRICE IN THE U.S.
6308000000 | Other made up textile articles; sets; worn clothing and worn textile articles; rags | NEDCRFT SET WOV FAB & YRN/MAKNG RUG/TAPST PKG RT S, AND VALUED AT $300 PER UNIT WHOLESALE PRICE IN THE U.S.
6401923000 | Footwear, gaiters and the like; parts of such articles | WATERPROOF FTWR RUB/PLAS SKI & SNOWBOARD BOOTS, AND VALUED AT $300 PER UNIT WHOLESALE PRICE IN THE U.S.
6402120000 | Footwear, gaiters and the like; parts of such articles | SKI, CROSS-CTY&SNOWBOARD BOOTS W/RUBBER OR PLASTIC, AND VALUED AT $300 PER UNIT WHOLESALE PRICE IN THE U.S.
6402190000 | Footwear, gaiters and the like; parts of such articles | FOOTWEAR RUB PLAST STITCH SPORTS FOOTWEAR NESOI, AND VALUED AT $300 PER UNIT WHOLESALE PRICE IN THE U.S.
6402991815 | Footwear, gaiters and the like; parts of such articles | TENNIS, BASKETBALL, GYM, TRAINING SHOES AND LIKE, AND VALUED AT $300 PER UNIT WHOLESALE PRICE IN THE U.S.
6403120000 | Footwear, gaiters and the like; parts of such articles | FTWR W/LTHR UPP, SKI, CROSS-CTY & SNOWBOARD BOOTS, AND VALUED AT $300 PER UNIT WHOLESALE PRICE IN THE U.S.
6403190000 | Footwear, gaiters and the like; parts of such articles | FOOTWEAR LEA UPPER, SPORTS FOOTWEAR EXC SKI-BOOTS, AND VALUED AT $300 PER UNIT WHOLESALE PRICE IN THE U.S.
6403200000 | Footwear, gaiters and the like; parts of such articles | FTWR SOL LTHR UPPER LTHR STRAPS AND AROUND BIG TOE, AND VALUED AT $300 PER UNIT WHOLESALE PRICE IN THE U.S.
6403400000 | Footwear, gaiters and the like; parts of such articles | FOOTWEAR LEA UPPER NESOI WITH A METAL TOE-CAP, AND VALUED AT $300 PER UNIT WHOLESALE PRICE IN THE U.S.
6403511100 | Footwear, gaiters and the like; parts of such articles | FTWR BASE OF WOOD, LEATHER OUTER SOLE, COV ANK, AND VALUED AT $300 PER UNIT WHOLESALE PRICE IN THE U.S.
6403515000 | Footwear, gaiters and the like; parts of such articles | FOOTWEAR LEA UP NESOI LEA O SOL ANK COV MEN YOUTH, AND VALUED AT $300 PER UNIT WHOLESALE PRICE IN THE U.S.
6403518000 | Footwear, gaiters and the like; parts of such articles | FOOTWEAR LEA UPPER NESOI LEA O SOL ANKL COV NESOI, AND VALUED AT $300 PER UNIT WHOLESALE PRICE IN THE U.S.
6403591000 | Footwear, gaiters and the like; parts of such articles | FTWR BASE OF WOOD, LEATHER OUTER SOLE, NT COV ANK, AND VALUED AT $300PER UNIT WHOLESALE PRICE IN THE U.S.
6403595000 | Footwear, gaiters and the like; parts of such articles | FOOTWEAR LEA UP A SOL NESOI NOT ANK COV MEN YOUTH, AND VALUED AT $300 PER UNIT WHOLESALE PRICE IN THE U.S.
6403598000 | Footwear, gaiters and the like; parts of such articles | FOOTWEAR LEA UP A SOL NESOI NOT ANK COV NESOI, AND VALUED AT $300 PER UNIT WHOLESALE PRICE IN THE U.S.
6403911300 | Footwear, gaiters and the like; parts of such articles | FOOTWEAR LEA UP NONLEA SOL ANKLE COV WORK SHOES, AND VALUED AT $300 PER UNIT WHOLESALE PRICE IN THE U.S.
6403911500 | Footwear, gaiters and the like; parts of such articles | FOOTWEAR LEA UP NONLEA SOL ANK TENNIS ETC MEN ETC, AND VALUED AT $300 PER UNIT WHOLESALE PRICE IN THE U.S.
6403915000 | Footwear, gaiters and the like; parts of such articles | FOOTWEAR LEA UP NONLEA SOL ANK COV NESOI MEN YOUTH, AND VALUED AT $300 PER UNIT WHOLESALE PRICE IN THE U.S.
6403918500 | Footwear, gaiters and the like; parts of such articles | FOOTWEAR LEA UP NONLEA SOL ANKCOV NESOI EX MN YTH, AND VALUED AT $300 PER UNIT WHOLESALE PRICE IN THE U.S.
6403991500 | Footwear, gaiters and the like; parts of such articles | FOOTWEAR LEA UP NONLEA SOL NOT ANKL HOUSE SLIPPERS, AND VALUED AT $300 PER UNIT WHOLESALE PRICE IN THE U.S.
6403992500 | Footwear, gaiters and the like; parts of such articles | FOOTWEAR LEA UP NONLEA SOL NOT ANKL WORK SHOES, AND VALUED AT $300 PER UNIT WHOLESALE PRICE IN THE U.S.
6403993500 | Footwear, gaiters and the like; parts of such articles | FOOTWEAR LEA UP NONLEA SOL NOTANK TENNIS MEN ETC, AND VALUED AT $300 PER UNIT WHOLESALE PRICE IN THE U.S.
6403995000 | Footwear, gaiters and the like; parts of such articles | FOOTWEAR LEA UP NONLEA SOL NOT ANK NESOI MEN YOUT, AND VALUED AT $300 PER UNIT WHOLESALE PRICE IN THE U.S.
6403998000 | Footwear, gaiters and the like; parts of such articles | FOOTWEAR LEA UP NONLEA SOL NOT ANK NESOI EX MN YTH, AND VALUED AT $300 PER UNIT WHOLESALE PRICE IN THE U.S.
6404110000 | Footwear, gaiters and the like; parts of such articles | FOOTWEAR TEX UP RUBPLAS SOL SPORT SHOES, AND VALUED AT $300 PER UNIT WHOLESALE PRICE IN THE U.S.
6404202500 | Footwear, gaiters and the like; parts of such articles | FOOTWEAR TEX UP LEA SOLE FOR MEN, AND VALUED AT $300 PER UNIT WHOLESALE PRICE IN THE U.S.
6404204500 | Footwear, gaiters and the like; parts of such articles | FOOTWEAR TEX UP LEA SOLE FOR WOMEN, AND VALUED AT $300 PER UNIT WHOLESALE PRICE IN THE U.S.
6404206500 | Footwear, gaiters and the like; parts of such articles | FOOTWEAR TEX UP LEA SOLE EXCEPT FOR MEN AND WOMEN, AND VALUED AT $300 PER UNIT WHOLESALE PRICE IN THE U.S.
6405100030 | Footwear, gaiters and the like; parts of such articles | FTWR W/UPPERS LETHER/COMPOSITION LEATHER MEN, NESOI, AND VALUED AT $300 PER UNIT WHOLESALE PRICE IN THE U.S.
6405100060 | Footwear, gaiters and the like; parts of such articles | OTH FTWEAR W UPPERS LEATHER/COMPOSITION LEATHER WM, AND VALUED AT $300 PER UNIT WHOLESALE PRICE IN THE U.S.
6405100090 | Footwear, gaiters and the like; parts of such articles | OTH FTWEAR W UPPERS LEATHER/COMP LEATHER OT PERSON, AND VALUED AT $300 PER UNIT WHOLESALE PRICE IN THE U.S.
6506100010 | Headgear and parts thereof | ATH, REC AND SPORT SAFETY HEADGEAR, LINED OR TRMED, AND VALUED AT $300 PER UNIT WHOLESALE PRICE IN THE U.S.
6506993000 | Headgear and parts thereof | HEADGR OF FURSKIN, WHETHER OR NT LINED/TRIMMD NESOI, AND VALUED AT $300 PER UNIT WHOLESALE PRICE IN THE U.S.
6701000000 | Prepared feathers and down and articles made of feathers or of down; artificial flowers; articles of human hair | SKINS & OTHR PTS OF BIRDS W/FEATHERS ETC EXC 0505
6911101000 | Ceramic products | PORCLN/CHINA, HTL/RESTNT & OTHER WARE NOT HH WARE, AND VALUED AT $300 PER UNIT WHOLESALE PRICE IN THE U.S.
6911105500 | Ceramic products | TABLE/KITCHENWARE, PORCLN OR CHINA, NT HOTL/RESTNT, AND VALUED AT $300 PER UNIT WHOLESALE PRICE IN THE U.S.
6911900050 | Ceramic products | HOUSEHOLD ARTICLES OF PORCELAIN OR CHINA, NESOI, AND VALUED AT $300 PER UNIT WHOLESALE PRICE IN THE U.S.
6913100000 | Ceramic products | STATUETTES AND OTHER ORNMNTL ARTCLS, PORCLN OR CHN, AND VALUED AT $300 PER UNIT WHOLESALE PRICE IN THE U.S.
6913900000 | Ceramic products | STATUTTES A OTH ORNMNTL CERAM ARTCLS NT PORC/CHINA, AND VALUED AT $300 PER UNIT WHOLESALE PRICE IN THE U.S.
6914100000 | Ceramic products | ARTICLES OF PORCELAIN OR CHINA, NESOI, AND VALUED AT $300 PER UNIT WHOLESALE PRICE IN THE U.S.
6914900000 | Ceramic products | CERAMIC ARTICLES NESOI, AND VALUED AT $300 PER UNIT WHOLESALE PRICE IN THE U.S.
7013220000 | Glass and glassware | STEMWARE DRINKING GLASSES OF LEAD CRYSTAL, AND VALUED AT $300 PER UNIT WHOLESALE PRICE IN THE U.S.
7013330000 | Glass and glassware | DRINKING GLASSES OF LEAD CRYSTAL, AND VALUED AT $300 PER UNIT WHOLESALE PRICE IN THE U.S.
7013410000 | Glass and glassware | TBL O KTCHN GLSSWR NT DRNKNG GLSS OF LEAD CRYSTAL, AND VALUED AT $300 PER UNIT WHOLESALE PRICE IN THE U.S.
7013910000 | Glass and glassware | OTHER GLASSWARE, LEAD CRYSTAL, NESOI, AND VALUED AT $300 PER UNIT WHOLESALE PRICE IN THE U.S.
7101100000 | Natural or cultured pearls, precious or semi-precious stones, precious metals, metals clad with precious metal and articles thereof; imitation jewelry; coin | NATURAL PEARLS, NOT MOUNTED OR SET, INCL TMP STRNG.
7101210000 | Natural or cultured pearls, precious or semi-precious stones, precious metals, metals clad with precious metal and articles thereof; imitation jewelry; coin | CULTURED PEARLS, UNWORKED.
7101220000 | Natural or cultured pearls, precious or semi-precious stones, precious metals, metals clad with precious metal and articles thereof; imitation jewelry; coin | CULTURED PEARLS, WORKED, NOT SET.
7102100000 | Natural or cultured pearls, precious or semi-precious stones, precious metals, metals clad with precious metal and articles thereof; imitation jewelry; coin | DIAMONDS, UNSORTED.
7103102000 | Natural or cultured pearls, precious or semi-precious stones, precious metals, metals clad with precious metal and articles thereof; imitation jewelry; coin | UNWORKED PRECIOUS & SEMI-PREC STONES (EXC DIAMOND).
7103104000 | Natural or cultured pearls, precious or semi-precious stones, precious metals, metals clad with precious metal and articles thereof; imitation jewelry; coin | SAWN/ROUGH SHAPE PREC&SEMI-PREC ST(EXC DIAM)NESOI.
7103910000 | Natural or cultured pearls, precious or semi-precious stones, precious metals, metals clad with precious metal and articles thereof; imitation jewelry; coin | RUBIES, SAPPHIRES AND EMERALDS, OTHERWISE WORKED.
7103991000 | Natural or cultured pearls, precious or semi-precious stones, precious metals, metals clad with precious metal and articles thereof; imitation jewelry; coin | GEMSTONES, NESOI, CUT BUT NOT SET SUITBL FR JEWLRY.
7104200000 | Natural or cultured pearls, precious or semi-precious stones, precious metals, metals clad with precious metal and articles thereof; imitation jewelry; coin | SYNTHC OR RECNSTRCTD GEMSTONES UNWORKED.
7104901000 | Natural or cultured pearls, precious or semi-precious stones, precious metals, metals clad with precious metal and articles thereof; imitation jewelry; coin | SYN/RECON, GEMSTONES, CUT BUT NOT SET FOR JEWELRY.
7104905000 | Natural or cultured pearls, precious or semi-precious stones, precious metals, metals clad with precious metal and articles thereof; imitation jewelry; coin | SYN, RCNSTR GMSTONES WRKD NT SUITBL FOR JEWELRY.
7106911010 | Natural or cultured pearls, precious or semi-precious stones, precious metals, metals clad with precious metal and articles thereof; imitation jewelry; coin | SILVER BULLION, UNWROUGHT.
7106911020 | Natural or cultured pearls, precious or semi-precious stones, precious metals, metals clad with precious metal and articles thereof; imitation jewelry; coin | SILVER DORE.
7106915000 | Natural or cultured pearls, precious or semi-precious stones, precious metals, metals clad with precious metal and articles thereof; imitation jewelry; coin | UNWROUGHT SILVER, NESOI.
7106920000 | Natural or cultured pearls, precious or semi-precious stones, precious metals, metals clad with precious metal and articles thereof; imitation jewelry; coin | SILVER, SEMIMANUFACTURED.
7108121010 | Natural or cultured pearls, precious or semi-precious stones, precious metals, metals clad with precious metal and articles thereof; imitation jewelry; coin | GOLD BULLION UNWROUGHT, NONMONETARY.
7108121020 | Natural or cultured pearls, precious or semi-precious stones, precious metals, metals clad with precious metal and articles thereof; imitation jewelry; coin | GOLD DORE, UNWROUGHT, NONMONETARY.
7108125000 | Natural or cultured pearls, precious or semi-precious stones, precious metals, metals clad with precious metal and articles thereof; imitation jewelry; coin | GOLD, NESOI, UNWROUGHT, NONMONETARY.
7108135000 | Natural or cultured pearls, precious or semi-precious stones, precious metals, metals clad with precious metal and articles thereof; imitation jewelry; coin | GOLD, SEMIMANUFACTURED, NESOI, NONMONETARY.
7113110000 | Natural or cultured pearls, precious or semi-precious stones, precious metals, metals clad with precious metal and articles thereof; imitation jewelry; coin | JEWELRY AND PARTS THEREOF, OF SILVER.
7113190000 | Natural or cultured pearls, precious or semi-precious stones, precious metals, metals clad with precious metal and articles thereof; imitation jewelry; coin | JEWELRY AND PARTS THEREOF, OF OTH PRECIOUS METAL.
7113200000 | Natural or cultured pearls, precious or semi-precious stones, precious metals, metals clad with precious metal and articles thereof; imitation jewelry; coin | JEWELRY AND PARTS, BASE METAL CLAD W PREC METAL.
7114190000 | Natural or cultured pearls, precious or semi-precious stones, precious metals, metals clad with precious metal and articles thereof; imitation jewelry; coin | ARTLS OF GLD OR PLAT NESOI.
7114200000 | Natural or cultured pearls, precious or semi-precious stones, precious metals, metals clad with precious metal and articles thereof; imitation jewelry; coin | GOLD/SILVER -SMITHS' ARTCLS A PRTS, BS MTL CL W PM.
7115900000 | Natural or cultured pearls, precious or semi-precious stones, precious metals, metals clad with precious metal and articles thereof; imitation jewelry; coin | OTH PREC METL ARTCLS OR ARTCLS CLAD W PM, NESOI.
7116101000 | Natural or cultured pearls, precious or semi-precious stones, precious metals, metals clad with precious metal and articles thereof; imitation jewelry; coin | ARTICLES OF NATURAL PEARLS.
7116102500 | Natural or cultured pearls, precious or semi-precious stones, precious metals, metals clad with precious metal and articles thereof; imitation jewelry; coin | ARTICLES OF CULTURED PEARLS.
7116201000 | Natural or cultured pearls, precious or semi-precious stones, precious metals, metals clad with precious metal and articles thereof; imitation jewelry; coin | JEWELRY OF PRECIOUS OR SEMIPRECIOUS STONES.
7116204050 | Natural or cultured pearls, precious or semi-precious stones, precious metals, metals clad with precious metal and articles thereof; imitation jewelry; coin | ARTICLES OF PRECIOUS OR SEMIPREC STONES, NT JEWLRY.
7117190000 | Natural or cultured pearls, precious or semi-precious stones, precious metals, metals clad with precious metal and articles thereof; imitation jewelry; coin | OTH IMITATION JEWELRY, BASE METAL, INC PR MTL PLTD.
7118100000 | Natural or cultured pearls, precious or semi-precious stones, precious metals, metals clad with precious metal and articles thereof; imitation jewelry; coin | COIN (EXCPT GOLD COIN) NOT BEING LEGAL TENDER.
7118900030 | Natural or cultured pearls, precious or semi-precious stones, precious metals, metals clad with precious metal and articles thereof; imitation jewelry; coin | GOLD COIN NESOI (GOLD CONTENT).
7118900050 | Natural or cultured pearls, precious or semi-precious stones, precious metals, metals clad with precious metal and articles thereof; imitation jewelry; coin | COIN (EXCEPT GOLD COIN) NESOI.
7326906000 | Articles of iron or steel | OTH ARTIC IOS, CTD OR PLTD W PREC METAL, NESOI, AND VALUED AT $300 PER UNIT WHOLESALE PRICE IN THE U.S.
8306210000 | Miscellaneous articles of base metal | STATUETTES A OTH ORNAMNTS A PRTS PLTD W PREC METAL.
8306290000 | Miscellaneous articles of base metal | STATUETTES A OTH ORNMNTS A PRTS, BS METL NT PM PLT.
8407210000 | Nuclear reactors, boilers, machinery and mechanical appliances; parts thereof | OUTBOARD ENGINES FOR MARINE PROPULSION, AND VALUED AT $750 PER UNIT WHOLESALE PRICE IN THE U.S.
8407290010 | Nuclear reactors, boilers, machinery and mechanical appliances; parts thereof | SPK-IGN REC OR ROT INT COM PST ENG, MAR, IN/OUTBOARD, AND VALUED AT $750 PER UNIT WHOLESALE PRICE IN THE U.S.
8407290050 | Nuclear reactors, boilers, machinery and mechanical appliances; parts thereof | INBOARD ENG WITH INBOARD DRIVE F MARINE PROPULSION, AND VALUED AT $750 PER UNIT WHOLESALE PRICE IN THE U.S.
8408100010 | Nuclear reactors, boilers, machinery and mechanical appliances; parts thereof | DIESEL ENGINES, NOT EXCEEDING 149.2 KW, MARINE, AND VALUED AT $750 PER UNIT WHOLESALE PRICE IN THE U.S.
8408100020 | Nuclear reactors, boilers, machinery and mechanical appliances; parts thereof | COMP-IGNI PST ENG, MARINE, EXC 149.2KW, NOT EXC 223.8KW, AND VALUED AT $750 PER UNIT WHOLESALE PRICE IN THE U.S.
8409916000 | Nuclear reactors, boilers, machinery and mechanical appliances; parts thereof | PARTS F SPARK IG ENG FOR MARINE PROPULSION, AND VALUED AT $750 PER UNIT WHOLESALE PRICE IN THE U.S.
8412294000 | Nuclear reactors, boilers, machinery and mechanical appliances; parts thereof | HYDROJET ENGINES FOR MARINE PROPULSION, AND VALUED AT $750 PER UNIT WHOLESALE PRICE IN THE U.S.
8412901000 | Nuclear reactors, boilers, machinery and mechanical appliances; parts thereof | PARTS OF HYDROJET ENGINES FOR MARINE PROPULSION, AND VALUED AT $750 PER UNIT WHOLESALE PRICE IN THE U.S.
8471300100 | Nuclear reactors, boilers, machinery and mechanical appliances; parts thereof | PORT DGTL ADP MACH, <10 KG, AT LEAST CPU, KBRD, DSPLY, AND VALUED AT $750 PER UNIT WHOLESALE PRICE IN THE U.S.
8703101000 | Vehicles other than railway or tramway rolling stock, and parts and accessories thereof | VEHICLES DESIGNED FOR TRAVELING ON SNOW, AND VALUED AT $50,000 PER UNIT WHOLESALE PRICE IN THE U.S.
8703210100 | Vehicles other than railway or tramway rolling stock, and parts and accessories thereof | PASS MTR VEH, ONLY SPARK IGN ENG, NOT OV 1,000 CC, AND VALUED AT $50,000 PER UNIT WHOLESALE PRICE IN THE U.S.
8703220100 | Vehicles other than railway or tramway rolling stock, and parts and accessories thereof | PASS MOTOR VEH, ONLY SPARK IGN ENG, (1000-1500 CC), AND VALUED AT $50,000 PER UNIT WHOLESALE PRICE IN THE U.S.
8703230145 | Vehicles other than railway or tramway rolling stock, and parts and accessories thereof | VEHICLES, NESOI, NEW, ENG (1500-3000 CC) LE 4 CYL, AND VALUED AT $50,000 PER UNIT WHOLESALE PRICE IN THE U.S.
8703230160 | Vehicles other than railway or tramway rolling stock, and parts and accessories thereof | PASS VEH, OV 4 N/O 6 CYL, 1500-3000CC, AND VALUED AT $50,000 PER UNIT WHOLESALE PRICE IN THE U.S.
8703230170 | Vehicles other than railway or tramway rolling stock, and parts and accessories thereof | 3PASS VEH, SPARK IGN, >6 CYL, 1500-3000CC, AND VALUED AT $50,000 PER UNIT WHOLESALE PRICE IN THE U.S.
8703230190 | Vehicles other than railway or tramway rolling stock, and parts and accessories thereof | USED VEHICLES, ONLY SK IG (1500-3000 CC), NESOI, AND VALUED AT $50,000 PER UNIT WHOLESALE PRICE IN THE U.S.
8703240140 | Vehicles other than railway or tramway rolling stock, and parts and accessories thereof | PASS VEH, SPK IGN >3000CC, 4 CYL & UN, AND VALUED AT $50,000 PER UNIT WHOLESALE PRICE IN THE U.S.
8703240150 | Vehicles other than railway or tramway rolling stock, and parts and accessories thereof | PASS VEH, ONLY SPK IGN OV 4 N/O 6 CYL, OV 3000 CC, AND VALUED AT $50,000 PER UNIT WHOLESALE PRICE IN THE U.S.
8703240160 | Vehicles other than railway or tramway rolling stock, and parts and accessories thereof | PASS VEH, ONLY SPK IGN >6 CYL, <3000CC, NEW, AND VALUED AT $50,000 PER UNIT WHOLESALE PRICE IN THE U.S.
8703240190 | Vehicles other than railway or tramway rolling stock, and parts and accessories thereof | PASS MTR VEH, ONLY SPARK IGN, GT 3000 CC, USED, AND VALUED AT $50,000 PER UNIT WHOLESALE PRICE IN THE U.S.
8703310100 | Vehicles other than railway or tramway rolling stock, and parts and accessories thereof | PASS VEH, ONLY COMPR IG, DIESEL, <1,500 CC, AND VALUED AT $50,000 PER UNIT WHOLESALE PRICE IN THE U.S.
8703320110 | Vehicles other than railway or tramway rolling stock, and parts and accessories thereof | PASS VEH, DIESEL ENG, ONLY CMP-IG,1500-2500 CC, NEW, AND VALUED AT $50,000 PER UNIT WHOLESALE PRICE IN THE U.S.
8703320150 | Vehicles other than railway or tramway rolling stock, and parts and accessories thereof | PASS VEH, DIESEL ENG, ONLY COMP-IG1500-2500 CC, USED, AND VALUED AT $50,000 PER UNIT WHOLESALE PRICE IN THE U.S.
8703330145 | Vehicles other than railway or tramway rolling stock, and parts and accessories thereof | PASS VEH, DIESEL, ONLY COMP-IG, >2,500 CC, NEW, NES, AND VALUED AT $50,000 PER UNIT WHOLESALE PRICE IN THE U.S.
8703330185 | Vehicles other than railway or tramway rolling stock, and parts and accessories thereof | PASS VEH, DIESEL, ONLY COMP-IG, >2,500 CC, USE, NES, AND VALUED AT $50,000 PER UNIT WHOLESALE PRICE IN THE U.S.
8703400005 | Vehicles other than railway or tramway rolling stock, and parts and accessories thereof | PASS MOT VEH LT=1000CC SPRK IGN/ELEC NCHRG ENG, NES, AND VALUED AT $50,000 PER UNIT WHOLESALE PRICE IN THE U.S.
8703400010 | Vehicles other than railway or tramway rolling stock, and parts and accessories thereof | PSSNGR VEH, SPARK IGN AND ELCTC MTR, 1000-1500 CC, AND VALUED AT $50,000 PER UNIT WHOLESALE PRICE IN THE U.S.
8703400020 | Vehicles other than railway or tramway rolling stock, and parts and accessories thereof | PASS VEH, SPRK IG/ELEC, NCHG, NESOI, 4 CYL, 500-3000CC, AND VALUED AT $50,000 PER UNIT WHOLESALE PRICE IN THE U.S.
8703400030 | Vehicles other than railway or tramway rolling stock, and parts and accessories thereof | PASS VEH SPK IGN/ELEC, NCHG PL >4<6 CYL,1500-3000CC, AND VALUED AT $50,000 PER UNIT WHOLESALE PRICE IN THE U.S.
8703400040 | Vehicles other than railway or tramway rolling stock, and parts and accessories thereof | 3PASS VEH, SPARK IGN/ELEC, NCHRG<6 CYL,1500-3000CC, AND VALUED AT $50,000 PER UNIT WHOLESALE PRICE IN THE U.S.
8703400045 | Vehicles other than railway or tramway rolling stock, and parts and accessories thereof | USED VHCLS, SPRK AND ELCTC ENGN 1500-3000 CC NESOI, AND VALUED AT $50,000 PER UNIT WHOLESALE PRICE IN THE U.S.
8703400060 | Vehicles other than railway or tramway rolling stock, and parts and accessories thereof | PASS VEH, SPK IGN/ELEC NCHG PLG <3000CC,4 CYL & UN, AND VALUED AT $50,000 PER UNIT WHOLESALE PRICE IN THE U.S.
8703400070 | Vehicles other than railway or tramway rolling stock, and parts and accessories thereof | PASS VEH, SPK IGN/ELEC NCHG PLUG>4<6 CYL, <3000 CC, AND VALUED AT $50,000 PER UNIT WHOLESALE PRICE IN THE U.S.
8703400080 | Vehicles other than railway or tramway rolling stock, and parts and accessories thereof | PASS VEH, SPK IGN/ELEC, NWCHRG PLG <6 CYL, <3000 CC, AND VALUED AT $50,000 PER UNIT WHOLESALE PRICE IN THE U.S.
8703400090 | Vehicles other than railway or tramway rolling stock, and parts and accessories thereof | PASS VEH, SPK IG & ELEC NO PLUG, OVER 3000 CC, USED, AND VALUED AT $50,000 PER UNIT WHOLESALE PRICE IN THE U.S.
8703500010 | Vehicles other than railway or tramway rolling stock, and parts and accessories thereof | PASS VEH, DIESEL AND ELEC NO PLUG, <1,500 CC, AND VALUED AT $50,000 PER UNIT WHOLESALE PRICE IN THE U.S.
8703500030 | Vehicles other than railway or tramway rolling stock, and parts and accessories thereof | PASS VEH, DIESL/ELC (NO PLUG) 1500-2500 CC, NEW, AND VALUED AT $50,000 PER UNIT WHOLESALE PRICE IN THE U.S.
8703500050 | Vehicles other than railway or tramway rolling stock, and parts and accessories thereof | PASS VEH, DIES/ELEC (NO PLG) ENG, 1500-2500 CC, USED, AND VALUED AT $50,000 PER UNIT WHOLESALE PRICE IN THE U.S.
8703500070 | Vehicles other than railway or tramway rolling stock, and parts and accessories thereof | PASS VEH, DIESEL/ELEC, >2,500 CC, NEW, NESOI, AND VALUED AT $50,000 PER UNIT WHOLESALE PRICE IN THE U.S.
8703500090 | Vehicles other than railway or tramway rolling stock, and parts and accessories thereof | PASS VEH, DIESEL/ELEC, >2,500 CC, USED, NESOI, AND VALUED AT $50,000 PER UNIT WHOLESALE PRICE IN THE U.S.
8703600005 | Vehicles other than railway or tramway rolling stock, and parts and accessories thereof | PASS MOT VEH LT=1000 CC SPARK IGN/ELEC CHRG W PLG, AND VALUED AT $50,000 PER UNIT WHOLESALE PRICE IN THE U.S.
8703600010 | Vehicles other than railway or tramway rolling stock, and parts and accessories thereof | PASSVEH, SP-IGN/ELEC W/PLUG ENG, (1000-1500 CC), AND VALUED AT $50,000 PER UNIT WHOLESALE PRICE IN THE U.S.
8703600020 | Vehicles other than railway or tramway rolling stock, and parts and accessories thereof | PASS VEH, SPK IGN/ELEC, WITH PLUG 4 CYL,1500-3000CC, AND VALUED AT $50,000 PER UNIT WHOLESALE PRICE IN THE U.S.
8703600030 | Vehicles other than railway or tramway rolling stock, and parts and accessories thereof | PASS VEH, SPK IGN/ELEC CHRG PLG <4 <6CYL,1500-3000CC, AND VALUED AT $50,000 PER UNIT WHOLESALE PRICE IN THE U.S.
8703600040 | Vehicles other than railway or tramway rolling stock, and parts and accessories thereof | 3PASS VEH, SPRK IGN/ELEC CHRG, >6 CYL,1500-3000CC, AND VALUED AT $50,000 PER UNIT WHOLESALE PRICE IN THE U.S.
8703600045 | Vehicles other than railway or tramway rolling stock, and parts and accessories thereof | USED VEHICLES, SPK/ELEC (1500-3000 CC), NESOI, AND VALUED AT $50,000 PER UNIT WHOLESALE PRICE IN THE U.S.
8703600060 | Vehicles other than railway or tramway rolling stock, and parts and accessories thereof | PASS VEH, SPK IGN/ELEC CHRG PLUG >3000CC, 4 CYL & UN, AND VALUED AT $50,000 PER UNIT WHOLESALE PRICE IN THE U.S.
8703600070 | Vehicles other than railway or tramway rolling stock, and parts and accessories thereof | PASS VEH, SPK IGN/ELEC, CHRG PLUG >4<6 CYL, >3000CC, AND VALUED AT $50,000 PER UNIT WHOLESALE PRICE IN THE U.S.
8703600080 | Vehicles other than railway or tramway rolling stock, and parts and accessories thereof | PASS VEH, SPK IGN/ELEC CHRG PLUG >6 CYL, <3000 CC, AND VALUED AT $50,000 PER UNIT WHOLESALE PRICE IN THE U.S.
8703600090 | Vehicles other than railway or tramway rolling stock, and parts and accessories thereof | PASS MTR VEH, SP IGN/ELEC, OVER 3000 CC, USED, AND VALUED AT $50,000 PER UNIT WHOLESALE PRICE IN THE U.S.
8703700010 | Vehicles other than railway or tramway rolling stock, and parts and accessories thereof | PASSENGER VEHICLES, DIESEL/ELEC, <1,500 CC, AND VALUED AT $50,000 PER UNIT WHOLESALE PRICE IN THE U.S.
8703700030 | Vehicles other than railway or tramway rolling stock, and parts and accessories thereof | PASS VEH, DIESE/ELEC, OV 1500 BT NT OV 2500 CC, NEW, AND VALUED AT $50,000 PER UNIT WHOLESALE PRICE IN THE U.S.
8703700050 | Vehicles other than railway or tramway rolling stock, and parts and accessories thereof | PASS VEH, DIESL/ELEC, OV 1500 BT NT OV 2500 CC, USED, AND VALUED AT $50,000 PER UNIT WHOLESALE PRICE IN THE U.S.
8703700070 | Vehicles other than railway or tramway rolling stock, and parts and accessories thereof | PASS MOTOR VEH, DIESL/ELECTRIC, >2,500CC, NEW, NESOI, AND VALUED AT $50,000 PER UNIT WHOLESALE PRICE IN THE U.S.
8703700090 | Vehicles other than railway or tramway rolling stock, and parts and accessories thereof | PASS MOTOR VEH, DIESL/ELECTRI, >2,500 CC, USED, NESOI, AND VALUED AT $50,000 PER UNIT WHOLESALE PRICE IN THE U.S.
8703800000 | Vehicles other than railway or tramway rolling stock, and parts and accessories thereof | PASSENGER MOTOR VEHICLES ONLY ELECTRC MOTOR, NESOI, AND VALUED AT $50,000 PER UNIT WHOLESALE PRICE IN THE U.S.
8703900100 | Vehicles other than railway or tramway rolling stock, and parts and accessories thereof | PASSENGER MOTOR VEHICLES, NESOI, AND VALUED AT $50,000 PER UNIT WHOLESALE PRICE IN THE U.S.
8706001520 | Vehicles other than railway or tramway rolling stock, and parts and accessories thereof | CHASSIS FITTED W/ENG, FOR PASSENGER AUTOMOBILES, AND VALUED AT $50,000 PER UNIT WHOLESALE PRICE IN THE U.S.
8707100020 | Vehicles other than railway or tramway rolling stock, and parts and accessories thereof | BODIES FOR PASSENGER AUTOS OF HEADING 8703, AND VALUED AT $50,000 PER UNIT WHOLESALE PRICE IN THE U.S.
8711200000 | Vehicles other than railway or tramway rolling stock, and parts and accessories thereof | MOTORCYCLES (INCLUDING MOPEDS), CYCL, EXC50CC, NT250C, AND VALUED AT $5,000 PER UNIT WHOLESALE PRICE IN THE U.S.
8711300000 | Vehicles other than railway or tramway rolling stock, and parts and accessories thereof | MOTORCYCLES (INCLUDING MOPEDS), CYCL, EXC250CC, NT500, AND VALUED AT $5,000 PER UNIT WHOLESALE PRICE IN THE U.S.
8711400000 | Vehicles other than railway or tramway rolling stock, and parts and accessories thereof | MOTORCYCLES, CYCL, EXC500, NT800CC, AND VALUED AT $5,000 PER UNIT WHOLESALE PRICE IN THE U.S.
8711500000 | Vehicles other than railway or tramway rolling stock, and parts and accessories thereof | MOTORCYCLES, CYCL, EXCD 800 CC, AND VALUED AT $5,000 PER UNIT WHOLESALE PRICE IN THE U.S.
8711600000 | Vehicles other than railway or tramway rolling stock, and parts and accessories thereof | MOTORCYCLES (INCLUDING MOPED) ELECTRIC MOTOR, NESOI, AND VALUED AT $5,000 PER UNIT WHOLESALE PRICE IN THE U.S.
8711900100 | Vehicles other than railway or tramway rolling stock, and parts and accessories thereof | MOTORCYCLES (INCLUDING MOPEDS), NESOI, AND VALUED AT $5,000 PER UNIT WHOLESALE PRICE IN THE U.S.
8714100010 | Vehicles other than railway or tramway rolling stock, and parts and accessories thereof | SADDLES AND SEATS OF MOTORCYCLES, AND VALUED AT $5,000 PER UNIT WHOLESALE PRICE IN THE U.S.
8714100090 | Vehicles other than railway or tramway rolling stock, and parts and accessories thereof | PARTS, NESOI, OF MOTORCYCLES, AND VALUED AT $5,000 PER UNIT WHOLESALE PRICE IN THE U.S.
9020004000 | Optical, photographic, cinematographic, measuring, checking, precision, medical or surgical instruments and apparatus; parts and accessories thereof | UNDERWATER BREATHING DEVICES CARRIED ON PERSON, AND VALUED AT $300 PER UNIT WHOLESALE PRICE IN THE U.S.
9101110000 | Clocks and watches and parts thereof | WRST WATCH, ELEC OPER, PRECIOUS METAL, MECH DISPLAY, AND VALUED AT $300 PER UNIT WHOLESALE PRICE IN THE U.S.
9101192000 | Clocks and watches and parts thereof | WRIST WATCH, ELEC OPER, PRECIOUS METAL, OPTO-ELEC DSP, AND VALUED AT $300 PER UNIT WHOLESALE PRICE IN THE U.S.
9101195000 | Clocks and watches and parts thereof | WRIST WATCH, ELECTRICALLY OPER, PRECIOUS METAL, NES, AND VALUED AT $300 PER UNIT WHOLESALE PRICE IN THE U.S.
9101210000 | Clocks and watches and parts thereof | WRST WATCH, NT BATTERY, PRECIOUS METAL, AUTOMATIC, AND VALUED AT $300 PER UNIT WHOLESALE PRICE IN THE U.S.
9101290000 | Clocks and watches and parts thereof | WRIST WATCHE, NT BATTERY, PRECIOUS METAL W/O AUTOM, AND VALUED AT $300 PER UNIT WHOLESALE PRICE IN THE U.S.
9101910000 | Clocks and watches and parts thereof | OTH WATCH, PRECIOUS METAL, ELEC OPR, EXC WRST WATCH, AND VALUED AT $300 PER UNIT WHOLESALE PRICE IN THE U.S.
9101990000 | Clocks and watches and parts thereof | OTH WATCH, PRCS METAL, NT BATTERY, EXC WRIST WATCH, AND VALUED AT $300 PER UNIT WHOLESALE PRICE IN THE U.S.
9111100000 | Clocks and watches and parts thereof | WTCH CASES, PRCS METAL OR METAL CLAD W PRCS METAL, AND VALUED AT $300 PER UNIT WHOLESALE PRICE IN THE U.S.
9111900000 | Clocks and watches and parts thereof | PTS, WATCH CASES OF PRECIOUS METAL OR BASE METAL, AND VALUED AT $300 PER UNIT WHOLESALE PRICE IN THE U.S.
9113100000 | Clocks and watches and parts thereof | WATCH BANDS ETC, OF PRCS METAL/METAL CLAD W PRCS MT, AND VALUED AT $300 PER UNIT WHOLESALE PRICE IN THE U.S.
9201200000 | Musical instruments; parts and accessories of such articles | GRAND PIANOS.
9601100000 | Miscellaneous manufactured articles | WORKED IVORY AND ARTICLES OF IVORY.
9601900000 | Miscellaneous manufactured articles | BONE, HORN, CORAL, ETC & OTH ANIMAL CARVING MATERL.
9602004000 | Miscellaneous manufactured articles | MOLDED OR CARVED ARTICLES OF WAX.
9603300000 | Miscellaneous manufactured articles | ARTISTS BRUSHES, & SIMILAR BRUSHES FOR COSEMTICS.
9608300039 | Miscellaneous manufactured articles | FOUNTAIN PENS, STYLOGRAPH PENS AND OTHER PENS, NESOI.
9616200000 | Miscellaneous manufactured articles | POWDER PUFFS & PADS TO APPLY COSMETICS, TOILET PREP.
9701210000 | Works of art, collectors' pieces and antiques | PAINTINGS, DRAWING AND PASTELS, OF AN AGE EXCEEDING 100 YEARS, AND VALUED AT $300 PER UNIT WHOLESALE PRICE IN THE U.S.
9701220000 | Works of art, collectors' pieces and antiques | MOSAICS OF AN AGE EXCEEDING 100 YEARS, AND VALUED AT $300 PER UNIT WHOLESALE PRICE IN THE U.S.
9701290000 | Works of art, collectors' pieces and antiques | COLLAGES & SIMILAR DECORATIVE PLAQUES, OF AN EXCEEDING 100 YEARS, AND VALUED AT $300 PER UNIT WHOLESALE PRICE IN THE U.S.
9701910000 | Works of art, collectors' pieces and antiques | PAINTINGS, DRAWING AND PASTELS, OF AN AGE NOT EXCEEDING 100 YEARS, AND VALUED AT $300 PER UNIT WHOLESALE PRICE IN THE U.S.
9701920000 | Works of art, collectors' pieces and antiques | MOSAICS, OF AN AGE NOT EXCEEDING 100 YEARS, AND VALUED AT $300 PER UNIT WHOLESALE PRICE IN THE U.S.
9701990000 | Works of art, collectors' pieces and antiques | COLLAGES & SIMILAR DECORATIVE PLAQUES, OF AN AGE NOT EXCEEDING 100 YEARS, AND VALUED AT $300 PER UNIT WHOLESALE PRICE IN THE U.S.
9702100000 | Works of art, collectors' pieces and antiques | ORIGINAL ENGRAVINGS, PRINTS & LITHOGRAPHS, OF AN AGE EXCEEDING 100 YEARS, AND VALUED AT $300 PER UNIT WHOLESALE PRICE IN THE U.S.
9702900000 | Works of art, collectors' pieces and antiques | ORIGINAL ENGRAVINGS, PRINTS & LITHOGRAPHS, OF AN AGE NOT EXCEEDING 100 YEARS, AND VALUED AT $300 PER UNIT WHOLESALE PRICE IN THE U.S.
9703100000 | Works of art, collectors' pieces and antiques | ORIGINAL SCULPTURES AND STATUARY, IN ANY MATERIAL, OF AN AGE EXCEEDING 100 YEARS, AND VALUED AT $300 PER UNIT WHOLESALE PRICE IN THE U.S.
9703900000 | Works of art, collectors' pieces and antiques | ORIGINAL SCULPTURES AND STATUARY, IN ANY MATERIAL, NOT OF AN AGE EXCEEDING 100 YEARS, AND VALUED AT $300 PER UNIT WHOLESALE PRICE IN THE U.S.
9704000000 | Works of art, collectors' pieces and antiques | POSTAGE OR REVENUE STAMPS, FIRSTDAY COVERS, AND VALUED AT $300 PER UNIT WHOLESALE PRICE IN THE U.S.
9705100000 | Works of art, collectors' pieces and antiques | COLLECTIONS & CLLCTRS' PCS OF ARCH, ETHNO OR HIST INT, AND VALUED AT $300 PER UNIT WHOLESALE PRICE IN THE U.S.
9705210000 | Works of art, collectors' pieces and antiques | HUMAN SPEC AND PARTS THEREOF, OF ZOO, BOT, MIN, ANA OR PALEO INT, AND VALUED AT $300 PER UNIT WHOLESALE PRICE IN THE U.S.
9705220000 | Works of art, collectors' pieces and antiques | EXTINCT OR END SPECIES OR PARTS, OF ZOO, BOT, MIN, ANA, OR PALEO INT, AND VALUED AT $300 PER UNIT WHOLESALE PRICE IN THE U.S.
9705290000 | Works of art, collectors' pieces and antiques | COLLECTIONS & CLLCTRS' PCS OF ZOO, BOT, MIN, ANA, PALEO INT, NESOI, AND VALUED AT $300 PER UNIT WHOLESALE PRICE IN THE U.S.
9705310030 | Works of art, collectors' pieces and antiques | GOLD NUMISMATIC (COLLECTORS') PIECES, OF AN AGE EXCEEDING 100 YEARS, AND VALUED AT $300 PER UNIT WHOLESALE PRICE IN THE U.S.
9705310060 | Works of art, collectors' pieces and antiques | NUMISMATIC (COLLECTORS') PIECES, EXCEPT GOLD, OF AN AGE EXCEEDING 100 YEARS, AND VALUED AT $300 PER UNIT WHOLESALE PRICE IN THE U.S.
9705390030 | Works of art, collectors' pieces and antiques | GOLD NUMISMATIC (COLLECTORS') PIECES, NESOI, AND VALUED AT $300 PER UNIT WHOLESALE PRICE IN THE U.S.
9705390060 | Works of art, collectors' pieces and antiques | NUMISMATIC (COLLECTORS') PIECES, EXCEPT GOLD, NESOI, AND VALUED AT $300 PER UNIT WHOLESALE PRICE IN THE U.S.
9706100000 | Works of art, collectors' pieces and antiques | ANTIQUES OF AN AGE EXCEEDING 250 YEARS, AND VALUED AT $300 PER UNIT WHOLESALE PRICE IN THE U.S.
9706900000 | Works of art, collectors' pieces and antiques | ANTIQUES OF AN AGE EXCEEDING 100 YEARS BUT NOT EXCEEDING 250 YEARS, AND VALUED AT $300 PER UNIT WHOLESALE PRICE IN THE U.S.

22. Supplement No. 6 to part 746 is added to read as follows:

Supplement No. 6 to Part 746—Items That Require a License for Export, Reexport, and Transfer (In-Country) to or Within Russia or Belarus Pursuant to § 746.5(a)(1)(iii)

The items identified in this supplement are a subset of items that are otherwise designated as EAR99 under the Commerce Control List (CCL) in supplement no. 1 to part 774. These items may be useful for Russia's chemical and biological weapons production capabilities or may be diverted from Belarus to Russia for these activities of concern. These items consist of discrete chemicals, biologics, fentanyl and its precursors, and related equipment. BIS has specified Chemical Abstract Numbers (CAS) where applicable in this supplement to assist exporters, reexporters, and transferors in classifying these items. In addition, paragraph (g) of supplement no. 6 to part 746 identifies equipment and other items that BIS has determined are not manufactured in Russia or are otherwise important to Russia in developing advanced production and development capabilities to enable advanced manufacturing across a number of industries or may be diverted from Belarus to Russia for these activities of concern.

(a) Chemicals in concentrations of 95% weight or greater, as follows:

(1) Ethylene dichloride (CAS 107-06-2);

(2) Nitromethane (CAS 75-52-5);

(3) Picric acid (CAS 88-89-1);

(4) Aluminum chloride (CAS 7446-70-0);

(5) Arsenic (CAS 7440-38-2);

(6) Arsenic trioxide (CAS 1327-53-3);

(7) Bis(2-chloroethyl)ethylamine hydrochloride (CAS 3590-07-6);

(8) Bis(2-chloroethyl)methylamine hydrochloride (CAS 55-86-7);

(9) Tris(2-chloroethyl)amine hydrochloride (CAS 817-09-4);

(10) Tributylphosphite (CAS 102-85-2);

(11) Isocyanatomethane (CAS 624-83-9);

(12) Quinaldine (CAS 91-63-4);

(13) 2-bromochloroethane (CAS 107-04-0);

(14) Benzil (CAS 134-81-6);

(15) Diethyl ether (CAS 60-29-7);

(16) Dimethyl ether (CAS 115-10-6);

(17) Dimethylaminoethanol (CAS 108-01-0);

(18) 2-methoxyethanol (CAS 109-86-4);

(19) Butyrylcholinesterase (BCHE);

(20) Diethylenetriamine (CAS 111-40-0);

(21) Dichloromethane (CAS 75-09-2);

(22) Dimethylaniline (CAS 121-69-7);

(23) Ethyl bromide (CAS 74-96-4);

(24) Ethyl chloride (CAS 75-00-3);

(25) Ethylamine (CAS 75-04-7);

(26) Hexamine (CAS 100-97-0);

(27) Isopropanol (CAS 67- 63-0);

(28) Isopropyl bromide (CAS 75-26-3);

(29) Isopropyl ether (CAS 108-20-3);

(30) Methylamine (CAS 74-89-5);

(31) Methyl bromide (CAS 74-83-9);

(32) Monoisopropylamine (CAS 75-31-0);

(33) Obidoxime chloride (CAS 114-90-9);

(34) Potassium bromide (CAS 7758-02-3);

(35) Pyridine (CAS 110-86-1);

(36) Pyridostigmine bromide (CAS 101-26-8);

(37) Sodium bromide (CAS 7647-15-6);

(38) Sodium metal (CAS 7440-23-5);

(39) Tributylamine (CAS 102-82-9);

(40) Triethylamine (CAS 121-44-8); or

(41) Trimethylamine (CAS 75-50-3).

(b) Chemicals in concentrations of 90% weight or greater, as follows:

(1) Acetone (CAS 67-64-1);

(2) Acetylene (CAS 74-86-2);

(3) Ammonia (CAS 7664-41-7);

(4) Antimony (CAS 7440-36-0);

(5) Benzaldehyde (CAS 100-52-7);

(6) Benzoin (CAS 119-53-9);

(7) 1-Butanol (CAS 71-36-3);

(8) 2-Butanol (CAS 78-92-2);

(9) Iso-Butanol (CAS 78-83-1);

(10) Tert-Butanol (CAS 75-65-0);

(11) Calcium carbide (CAS 75-20-7);

(12) Carbon monoxide (CAS 630-08-0);

(13) Chlorine (CAS 7782-50-5);

(14) Cyclohexanol (CAS 108-93-0);

(15) Dicyclohexylamine (CAS 101-83-7);

(16) Ethanol (CAS 64-17-5);

(17) Ethylene (CAS 74-85-1);

(18) Ethylene oxide (CAS 75-21-8);

(19) Fluoroapatite (CAS 1306-05-4);

(20) Hydrogen chloride (CAS 7647-01-0);

(21) Hydrogen sulfide (CAS 7783-06-4);

(22) Mandelic acid (CAS 90-64-2);

(23) Methanol (CAS 67-56-1);

(24) Methyl chloride (CAS 74-87-3);

(25) Methyl iodide (CAS 74-88-4);

(26) Methyl mercaptan (CAS 74-93-1);

(27) Monoethyleneglycol (CAS 107-21-1);

(28) Oxalyl chloride (CAS 79-37-8);

(29) Potassium sulfide (CAS 1312-73-8);

(30) Potassium thiocyanate (CAS 333-20-0);

(31) Sodium hypochlorite (CAS 7681-52-9);

(32) Sulphur (CAS 7704-34-9);

(33) Sulphur dioxide (CAS 7446-09-5);

(34) Sulphur trioxide (CAS 7446-11-9);

(35) Thiophosphoryl chloride (CAS 3982-91-0);

(36) Tri-isobutyl phosphite (CAS 1606-96-8);

(37) White phosphorus (CAS 12185-10-3); or

(38) Yellow phosphorus (CAS 7723-14-0).

(c) Fentanyl and its derivatives Alfentanil, Sufentanil, Remifentanil, Carfentanil, thiafentanil, and salts thereof.

Note 1 to paragraph (c): The items in paragraph (c) are from the EU list, as X.C.IX.002.

Note 2 to paragraph (c): Consistent with EU List X.C.IX.002, paragraph (c) does not control products identified as consumer goods packaged for retail sale for personal use or packaged for individual use.

(d) Chemical precursors to Central Nervous System Acting Chemicals, as follows:

(1) 4-anilino-N-phenethylpiperidine (CAS 21409-26-7);

(2) N-phenethyl-4-piperidone (CAS 39742-60-4);

(3) Tert-butyl 4-(phenylamino) piperidine-1-carboxylate (CAS 125541-22-2);

(4) Norfentanyl (CAS 1609-66-1); or

(5) N-phenyl-4-piperidinamine (CAS 504-24-5).

Note 3 to paragraph (d): The items in paragraph (d) are from the EU list, as X.C.IX.003.

Note 4 to paragraph (d): Consistent with EU List X.C.IX.003, paragraph (d) does not control “chemical mixtures” containing one or more of the chemicals specified in paragraph (d) (and consistent with EU List entry X.C.IX.003) in which no individually specified chemical constitutes more than 1% by the weight of the mixture.

Note 5 to paragraph (d): Consistent with EU List X.C.IX.003, paragraph (d) does not control products identified as consumer goods packaged for retail sale for personal use or packaged for individual use.

(e) Biologics: This paragraph (e) identifies certain biologics and biological equipment. The control on these items is intended to hinder Russia bioweapons production capabilities.

(1) Butyrylcholinesterase (BCHE);

(2) Cell culture materials, including cell lines, vectors, plasmids, and cell culture media, n.e.s.;

(3) Assay kits and reagents for nucleotide or peptide isolation, extraction, purification, or, n.e.s.;

(4) Nucleotides, oligonucleotides, and reagents for oligonucleotide synthesis, n.e.s.; or

(5) Amino acids, peptides, proteins, and resins and reagents for peptide synthesis, n.e.s.

(f) Equipment: This paragraph (f) identifies additional equipment that BIS has determined is not manufactured in Russia. Therefore, the implementation of restrictive export controls on this equipment by the United States and our allies will economically impact Russia and significantly hinder Russia's CBW production capabilities.

(1) Reaction vessels, Fermenters, agitators, heat exchangers, condensers, pumps (including single seal pumps), valves, storage tanks, containers, receivers, and distillation or absorption columns, n.e.s.;

(2) Vacuum pumps with a manufacturer's specified maximum flow-rate greater than 1 m3/h (under standard temperature and pressure conditions), casings (pump bodies), preformed casing-liners, impellers, rotors, and jet pump nozzles designed for such pumps, in which all surfaces that come into direct contact with the chemicals being processed are made from controlled materials;

(3) Laboratory equipment, including parts and accessories for such equipment, for the analysis or detection, destructive or non-destructive, of chemical substances, n.e.s.;

(4) Whole chlor-alkali electrolysis cells (mercury, diaphragm, and membrane) and “components” “specially designed” therefor as follows:

(i) Electrodes;

(ii) Diaphragms; and

(iii) Ion exchange membranes;

(5) Compressors “specially designed” to compress wet or dry chlorine, regardless of material of construction;

(6) Class II biosafety cabinets and glove boxes, n.e.s.;

(7) Floor-mounted fume hoods (walk-in style) with a minimum nominal width of 2.5 meters, n.e.s.;

(8) Full face-mask air-purifying and air-supplying respirators n.e.s.;

(9) Conventional or turbulent air-flow clean-air rooms and self-contained fan-HEPA filter units that may be used for P3 or P4 (BSL 3, BSL 4, L3, L4) containment facilities;

(10) Microwave reactors;

(11) Well plates;

(12) Fermenters and components therefor, n.e.s.;

(13) Centrifuges capable of separating biological samples, with a maximum capacity of 5L, components and accessories therefor, n.e.s., including centrifuge tubes and concentrators;

(14) Filtration equipment capable of use in handling biological materials, n.e.s.;

(15) Nucleic acid synthesizers and assemblers, n.e.s.;

(16) Polymerase chain reaction (PCR) instruments;

(17) Robotic liquid handling instruments, n.e.s.;

(18) Chromatography and spectrometry components, parts and accessories;

(19) Nucleic acid sequencers, n.e.s.;

(20) Aerosol inhalation testing equipment, components, parts and accessories, n.e.s.;

(21) Flow cytometry equipment, components, parts and accessories, n.e.s.;

(22) Probe sonicators, cell disruptors and tissue homogenizers; or

(23) `Continuous flow reactors' and their `modular components'.

Technical Notes for paragraph (f)(23): 1. Consistent with EU List X.B.X.001, for purposes of paragraph (f)(23) `continuous flow reactors' consist in plug and play systems where reactants are continuously fed into the reactor and the resultant product is collected at the outlet.

2. Consistent with EU List X.B.X.001, for purposes of paragraph (f)(23) `modular components' are fluidic modules, liquid pumps, valves, packed-bed modules, mixer modules, pressure gauges, liquid-liquid separators, etc.

(g) Quantum computing and advanced manufacturing: This paragraph (g) identifies additional equipment and other items that are believed to not be manufactured in Russia or are otherwise important to Russia in developing advanced production and development capabilities.

(1) `Quantum Computers', and “specially designed” “electronic assemblies” and “components” therefor, as follows:

(i) Quantum processing units, qubit circuits, and qubit devices;

(ii) Quantum control “components” and quantum measurement devices.

Note 6 to paragraph (g)(1): For purposes of this entry, `Quantum Computers' perform computations that harness the collective properties of quantum states, such as superposition, interference and entanglement. It applies to circuit model (or gate-based) and adiabatic (or annealing).

Note 7 to paragraph (g)(1): Quantum processing units, qubit circuits and qubit devices include but are not limited to semiconductor, superconducting, Ion Trap, photonic interaction, silicon/spin, cold atoms.

Note 8 to paragraph (g)(1): Quantum control “components” and quantum measurement devices applies to items designed for calibrating, initializing, manipulating or measuring the resident qubits of a quantum computer.

(2) `Cryogenic refrigeration systems' designed to maintain temperatures below 1.1k for 48hrs or more and “specially designed” cryogenic refrigeration equipment and “components” as follows:

(i) Pulse Tubes;

(ii) Cryostats;

(iii) Dewars;

(iv) Gas Handling System (GHS);

(v) Compressors;

(vi) Control Units;

Note 9 to paragraph (g)(2): `Cryogenic refrigeration systems' include but are not limited to Dilution Refrigeration, Adiabatic Demagnisation Refrigerators and Laser Cooling Systems.

(3) Ultra-High Vacuum (UHV) equipment as follows:

(i) UHV pumps (sublimation, turbomolecular, diffusion, cryogenic, ion-getter);

(ii) UHV pressure gauges.

Note 10 to paragraph (g)(3): UHV means 100 nanoPascals (nPa) or lower.

(4) High Quantum Efficiency (QE) photodetectors and sources with a QE greater than 80% in the wavelength range exceeding 300nm but not exceeding 1700nm;

(5) Manufacturing equipment as follows:

(i) Additive manufacturing equipment for the production of metal parts;

Note 11 to paragraph (g)(5)(i): This entry identified under paragraph (5)(i) only applies to the following systems:

1. Powder-bed systems using Selective Laser Melting (SLM), laser cusing; Direct Metal Laser Sintering (DMLS) or Electron Beam Melting (ELB), or

2. Powder-fed systems using laser cladding, direct energy deposition or laser metal deposition.

(ii) Additive manufacturing equipment for “energetic materials”, including equipment using ultrasonic extrusion;

(iii) Vat photopolymerisation additive manufacturing equipment using Stereo Lithography (SLA) or Direct Light Processing (DLP)

(6) Metal powders and metal alloy powders “specially designed” for the additive manufacturing equipment specified in 3a.

(7) Microscopes, related equipment and detectors, as follows:

(i) Scanning Electron Microscopes (SEM);

(ii) Scanning Auger Microscopes;

(iii) Transmission Electron Microscopes (TEM);

(iv) Atomic Force Microscopes (AFM);

(v) Scanning Force Microscopes (SFM);

(vi) Equipment and detectors “specially designed” for use with the microscopes specified in a. to e., employing any of the following:

(A) X-ray Photo Spectroscopy (XPS):

(B) Energy-Dispersive X-ray Spectroscopy (EDX, EDS);

(C) Electron Back Scatter Detector (EBSD) systems;

(D) Electron Spectroscopy for Chemical Analysis (ESCA).

(8) `Decapsulation' equipment for semiconductor devices.

Note 12 to paragraph (g)(8): `Decapsulation' is the removal of a cap, lid, or encapsulating material from a packaged integrated circuit by mechanical, thermal, or chemical methods.

(9) “Software” “specially designed” or modified for the “development”, “production” or “use” of the items specified in paragraphs (g)(1) through (8) of this supplement.

(10) “Software” for Digital Twins (DT) of additive manufacture products or for the determination of the reliability of additive manufacture products.

(11) “Technology” for the “development”, “production” or “use” of the items specified in paragraphs (g)(1) through (10) of this supplement.

PART 762—RECORDKEEPING

22. The authority citation for part 762 is revised to read as follows:

Authority: 50 U.S.C. 4801-4852; 50 U.S.C. 4601 et seq.; 50 U.S.C. 1701 et seq.; E.O. 13222, 66 FR 44025, 3 CFR, 2001 Comp., p. 783.

23. Section 762.1 is amended by revising paragraph (a)(2) to read as follows:

§ 762.1 Scope.

(a) * * *

(2) Exports of commodities, software, or technology from the United States and any known reexports, transfers (in-country), transshipment, or diversions of items exported from the United States;

* * * * *

24. Section 762.6 is amended by revising paragraph (a)(2) to read as follows:

§ 762.6 Period of retention.

(a) * * *

(2) Any known reexport, transfer (in-country), transshipment, or diversion of such item;

* * * * *

Thea D. Rozman Kendler,
Assistant Secretary for Export Administration.

[FR Doc. 2022-19910 Filed 9-15-22; 8:45 am]

BILLING CODE 3510-JT-P